DEPARTMENT OF THE INTERIOR

Fish and Wildlife Service

50 CFR Parts 32 and 71

[Docket No. FWS-HQ-NWRS-2021-0027; FXRS12610900000-212-FF09R20000]

RIN 1018-BF09

2021-2022 Station-Specific Hunting and Sport Fishing Regulations

AGENCY: Fish and Wildlife Service, Interior.

ACTION: Final rule.

SUMMARY: We, the U.S. Fish and Wildlife Service (Service), open, for the first time, seven National Wildlife Refuges (NWRs) that are currently closed to hunting and sport fishing. In addition, we open or expand hunting and sport fishing at 81 other NWRs, and add pertinent station-specific regulations for other NWRs that pertain to migratory game bird hunting, upland game hunting, big game hunting, and sport fishing for the 2021-2022 season. We also open hunting or sport fishing on one unit of the National Fish Hatchery System (NFH). We add pertinent station-specific regulations that pertain to migratory game bird hunting, upland game hunting, big game hunting, and sport fishing at this NFH for the 2021-2022 season. Finally, we make regulatory changes to existing station-specific regulations in order to reduce the regulatory burden on the public, increase access for hunters and anglers on Service lands and waters, and comply with a Presidential mandate for plain language standards.

DATES: This rule is effective August 31, 2021.

ADDRESSES: This final rule, its supporting documents, and the comments we received on the May 4, 2021, proposed rule (86 FR 23794) are available at http://www.regulations.gov at Docket No. FWS-HQ-NWRS-2021-0027.

Information collection requirements: Written comments and suggestions on the information collection requirements may be submitted at any time to the Service Information Collection Clearance Officer, U.S. Fish and Wildlife Service, 5275 Leesburg Pike, MS: PRB (JAO/3W), Falls Church, VA 22041-3803 (mail); or Info_Coll@fws.gov (email). Please reference “OMB Control Number 1018-0140” in the subject line of your comments.

FOR FURTHER INFORMATION CONTACT: Christian Myers, (571) 422-3595.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Service's mission.

Provisions governing hunting and sport fishing on refuges are in title 50 of the Code of Federal Regulations at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate in meeting these objectives. On other stations, we must supplement State regulations with more-restrictive Federal regulations to ensure that we meet our management responsibilities, as outlined under Statutory Authority, below. We issue station-specific hunting and sport fishing regulations when we open wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (16 U.S.C. 460k-460k-4) (Recreation Act) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans (CCPs) and step-down management plans, and by annual review of hunting and sport fishing programs and regulations.

Summary of Comments and Responses

On May 4, 2021, we published in the Federal Register (86 FR 23794) a proposed rule to open sport fishing at one NFH, open seven NWRs that are currently closed to hunting and sport fishing, expand hunting and sport fishing at 83 other NWRs, and add pertinent station-specific regulations for other NWRs that pertain to migratory game bird hunting, upland game hunting, big game hunting, and sport fishing for the 2021-2022 season. We accepted public comments on the proposed rule for 60 days, ending July 6, 2021. By that date, we received more than 1,200 comments on the proposed rule. More than two-thirds of these comments were form letters or otherwise identical duplicates of other comments on the proposed rule, and the vast majority of those were submitted by one organization and were supportive of the rule. The majority of the substantive comments on the proposed rule stated that the Service should prohibit lead ammunition and tackle on some or all stations. The Service recognizes that lead is an important issue and will continue to appropriately evaluate and regulate lead ammunition and tackle on Service lands and waters. We discuss the remaining unique comments we received below by topic. Beyond our responses below, additional station-specific information on how we responded to comments on particular hunting or fishing opportunities at a given refuge or hatchery can be found in that station's final hunting and/or fishing package, each of which can be located online at: https://www.fws.gov/refuges/hunting/rules-regulations-and-improved-access/.

Comment (1): We received a substantial number of comments expressing general support for the proposed changes in the rule. Of the unique comments on the rule, more than half were in general support of the proposed changes. These comments of general support either expressed appreciation for the increased hunting and fishing access in the rule overall, expressed appreciation for increased access at particular refuges, or both. In addition to this general support, some commenters requested additional hunting and fishing opportunities at specific stations or generally in several States.

Our Response: Hunting and fishing on U.S. Fish and Wildlife Service lands is a tradition that dates back to the early 1900s. In passing the Improvement Act, Congress reaffirmed that the Refuge System was created to conserve fish, wildlife, plants, and their habitats, and would facilitate opportunities for Americans to participate in compatible wildlife-dependent recreation, including hunting and fishing on Refuge System lands. We prioritize wildlife-dependent recreation, including hunting and fishing, when doing so is compatible with the purpose of the refuge and the mission of the NWRS. Hunting or fishing on hatcheries, unlike Refuge System lands, is authorized when such activity is not detrimental to the propagation and distribution of fish or other aquatic wildlife (see 50 CFR 71.1).

We will continue to open and expand hunting and sport fishing opportunities across refuges and hatcheries; however, as detailed further in our response to Comment (2), below, opening or expanding hunting or fishing opportunities on Service lands is not a quick or simple process. The annual regulatory cycle begins in June or July of each year for the following hunting and sport fishing season (the planning cycle for this 2021-2022 final rule began in June 2020). This annual timeline allows us time to collaborate closely with our State, Tribal, and Territorial partners, as well as other partners including nongovernmental organizations, on potential opportunities. It also provides us with time to complete environmental analyses and other requirements for opening or expanding new opportunities. Therefore, it would be impracticable for the Service to complete multiple regulatory cycles in one calendar year due to the logistics of coordinating with various partners. Once we determine that a hunting or sport fishing opportunity can be carried out in a manner compatible with individual station purposes and objectives, we work expeditiously to open it.

We did not make any changes to the rule as a result of these comments.

Comment (2): Many commenters expressed general opposition to any hunting or fishing in the Refuge System. Of the unique comments on the rule, less than one-fourth were in general opposition to the proposed changes without raising any substantive issues. In many cases, commenters stated that hunting was antithetical to the purposes of a “refuge,” which, in their opinion, should serve as an inviolate sanctuary for all wildlife. Some of these commenters generically opposed expanded or new hunting or fishing opportunities at specific stations.

Our Response: The Service prioritizes facilitating wildlife-dependent recreational opportunities, including hunting and fishing, on Service land in compliance with applicable Service law and policy. For refuges, the Administration Act, as amended, stipulates that hunting (along with fishing, wildlife observation and photography, and environmental education and interpretation), if found to be compatible, is a legitimate and priority general public use of a refuge and should be facilitated (16 U.S.C. 668dd(a)(3)(D)). Thus, we only allow hunting of resident wildlife on Refuge System lands if such activity has been determined compatible with the established purpose(s) of the refuge and the mission of the Refuge System as required by the Administration Act. For hatcheries, we allow hunting and fishing when such activity is determined not to be detrimental to the propagation and distribution of fish or other aquatic wildlife (see 50 CFR 71.1). For all 89 stations opening and/or expanding hunting and/or fishing in this rule, we determined that the proposed actions were compatible or would not have detrimental impacts.

Each station manager makes a decision regarding hunting and fishing opportunities only after rigorous examination of the available information, consultation and coordination with States and Tribes, and compliance with the National Environmental Policy Act (NEPA; 42 U.S.C. 4321 et seq.) and section 7 of the Endangered Species Act of 1973, as amended (ESA; 16 U.S.C. 1531 et seq.), as well as other applicable laws and regulations. The many steps taken before a station opens or expands a hunting or fishing opportunity on the refuge ensure that the Service does not allow any opportunity that would compromise the purpose of the station or the mission of the agency.

Hunting of resident wildlife on Service lands generally occurs consistent with State regulations, including seasons and bag limits. Station-specific hunting regulations can be more restrictive (but not more liberal) than State regulations and often are more restrictive in order to help meet specific refuge objectives. These objectives include resident wildlife population and habitat objectives, minimizing disturbance impacts to wildlife, maintaining high-quality opportunities for hunting and other wildlife-dependent recreation, eliminating or minimizing conflicts with other public uses and/or refuge management activities, and protecting public safety.

The word “refuge” includes the idea of providing a haven of safety for wildlife, and as such, hunting might seem an inconsistent use of the Refuge System. However, again, the Administration Act stipulates that hunting, if found compatible, is a legitimate and priority general public use of a refuge. Furthermore, we manage refuges to support healthy wildlife populations that in many cases produce harvestable surpluses that are a renewable resource. As practiced on refuges, hunting and fishing do not pose a threat to wildlife populations. It is important to note that taking certain individuals through hunting does not necessarily reduce a population overall, as hunting can simply replace other types of mortality. In some cases, however, we use hunting as a management tool with the explicit goal of reducing a population; this is often the case with exotic and/or invasive species that threaten ecosystem stability. Therefore, facilitating hunting opportunities is an important aspect of the Service's roles and responsibilities as outlined in the legislation establishing the Refuge System, and the Service will continue to facilitate these opportunities where compatible with the purpose of the specific refuge and the mission of the Refuge System.

We did not make any changes to the rule as a result of these comments.

Comment (3): We received comments from 13 individual State agencies and the Association of Fish and Wildlife Agencies on the proposed rule. The Oklahoma Department of Wildlife Conservation; South Dakota Department of Game, Fish, and Parks; Montana Department of Fish, Wildlife, and Parks; Idaho Department of Fish and Game; Missouri Department of Conservation; Michigan Department of Natural Resources; and Arkansas Game and Fish Commission all expressed general support for the proposed rule without additional comments. The Wisconsin Department of Natural Resources expressed general support of the changes in the proposed rule, but also requested additional changes at Necedah NWR. The New Jersey Division of Fish and Wildlife expressed general support of the changes in the proposed rule, but also requested additional changes at Cape May and Supawna Meadows NWRs. The Wyoming Game and Fish Department expressed general support of the changes in the proposed rule, but requested minor changes to the hunt units at the National Elk Refuge; minor changes to waterfowl hunting at the National Elk Refuge; additional hunting opportunities at Bamsforth, Hutton Lake, and Mortenson Lake NWRs; and additional opportunities on National Park Service and Bureau of Land Management lands. The Virginia Department of Wildlife Resources expressed general support of the changes in the proposed rule, but suggested that Eastern Shore of Virginia and Fisherman's Island NWRs provide additional analysis and details on particular hunting and fishing opportunities there and requested that Great Dismal Swamp NWR: (1) Combine a bear hunting permit with a general hunting permit, (2) allow spring turkey hunting, (3) expand to full week hunting, and (4) provide additional information about parking areas. The North Carolina Wildlife Resources Commission expressed general support of the changes in the proposed rule, but requested that we add regulatory language listing Atlantic brant among the migratory bird hunting target species for Mackay Island NWR and stating a requirement for hunters to have North Carolina State licenses and permits. The Oregon Department of Fish and Wildlife expressed general support of the changes in the proposed rule, but requested we edit the regulatory language at William L. Finley NWR to align more closely with the State regulations by removing “merganser” from the species list, as it is already considered a duck species. The Arizona Game and Fish Department expressed general support of the changes in the proposed rule, but requested the Service to consider allowing the use of falconry on refuges within the State of Arizona, including Bill Williams NWR and Havasu NWR; requested the Service to consider aligning to State regulations for the use of dogs while hunting; requested the Service consider aligning to State regulations for legal methods of take in hunting javelina; and expressed concerns about regulatory differences between refuges within the same State. Finally, the Association of Fish and Wildlife Agencies expressed general support of the changes in the proposed rule, but requested the Service consider additional opportunities on refuges in Alaska.

Our Response: The Service appreciates the support of, and is committed to working with, our State partners to identify additional opportunities for expansion of hunting and sport fishing on Service lands and waters.

In response to the Wisconsin Department of Natural Resources, we have made no changes to the rule. We will not address their concerns in this rule because the proposed expansions at Necedah NWR are no longer part of this final rule. We will, however, consider the Department's requests in shaping any future proposed openings or expansions at Necedah NWR.

In response to the New Jersey Division of Fish and Wildlife, the Service extends hours for fishing to 1 hour before legal sunrise and 1 hour after legal sunset at both Cape May and Supawna Meadows NWRs. The Service will consider additional vehicle access at Cape May NWR and crabbing/shellfishing at Cape May and Supawna Meadows NWRs for future rulemakings, but we cannot make those additions at this time.

As suggested by the Wyoming Game and Fish Department, we have renamed the hunt units at the National Elk Refuge in order to reduce confusion for the public. The Service did not make changes to the white-tailed deer hunt season dates to avoid conflict with the refuge's elk hunt, and the Service does not plan to consider opening waterfowl hunting on the refuge due to the presence of trumpeter swan populations, as trumpeter swan is a Priority 1 Species of Special Concern for the Wyoming Game & Fish Department, and due to the potential for conflict with other compatible uses on the refuge at that time. The Service appreciates the Department's comments regarding Bamsforth, Hutton Lake, and Mortenson Lake NWRs, and we will consider opening additional opportunities on those refuges in future rulemakings. The Service cannot comment on potential opportunities on National Park Service and Bureau of Land Management lands, and requests that the State work directly with those agencies for additional opportunities.

In response to the Virginia Department of Wildlife Resources, we have made no changes to the rule, but will add much of the requested information, where appropriate, to supporting documents. Specific information on how we responded to the Virginia Department of Wildlife Resources' suggestions for more detail on particular hunting and fishing opportunities at Eastern Shore of Virginia and Fisherman Island NWRs can be found in those stations' final hunt plan, compatibility determination, and finding of no significant impact documents. With respect to Great Dismal Swamp NWR, first, we cannot combine the bear hunting permit with the general hunting permit due to the strict harvest quota of 20 bears, and the associated need to be able to contact bear hunters specifically, and because refuge lands are situated in both Virginia and North Carolina, which have differing hunting regulations. Second, we are already considering spring turkey hunting for a future rulemaking. Third, we have determined that full week hunting, regardless of whether or not Sundays are included, is not compatible with other uses of the refuge and the refuge's conservation purposes and mission. Fourth, we will engage in outreach efforts to share the information about parking areas with all refuge visitors, including wildlife-dependent recreational users of the refuge.

In response to the North Carolina Wildlife Resources Commission, we have made no changes to the rule. Atlantic brant is considered a variety of dark goose under our regulations, so it does not need to be explicitly listed in station-specific regulations where dark goose hunting is authorized. Thus, the proposed authorization of light and dark goose hunting at Mackay Island NWR already allows for the hunting of Atlantic brant. The suggested language about North Carolina State licenses and permits was not adopted because: (1) It would cause confusion as the regulatory provisions at 50 CFR 32.52(e) govern refuge lands in both North Carolina and Virginia (where North Carolina licenses and permits are not necessary); and (2) this requirement is already covered by the regulation requiring each person to secure and possess the required state license at 50 CFR 32.2 As a general matter, our regulations operate against the backdrop of state regulations as a default in this way, so if our regulations do not explicitly remove any given state requirement for a given hunt then hunters must still abide by those requirements in order to hunt on Refuge System lands. Nevertheless, the refuge will ensure this requirement is also included in the refuge hunt brochure to address the concerns of the Commission.

In response to the Oregon Department of Fish and Wildlife's request to remove “merganser” from the species list in the regulatory language under William L. Finley NWR, we agree that this change will allow us to be more aligned with the State's regulations and have made that change in this final rule.

In response to the Arizona Game and Fish Department, we consider falconry a “special hunt” due to concerns regarding non-target take and so have made no changes to the rule concerning falconry. Service policy, as outlined in our Service manual at 605 FW 2.7.M. (Special Hunts), stipulates, “We will address special types of hunts, such as falconry, in the hunt section of the visitor service plan (VSP).” In other words, each refuge manager, when developing their step-down VSP (which would include a hunt plan, if appropriate) from their CCP, must first determine if hunting is compatible. Assuming it is found to be compatible, the refuge manager would next determine the conduct of the hunt, which might include the use of falconry. A refuge manager has discretion to restrict hunting and types of hunting, including falconry, if, for example, endangered or threatened species are present, the cumulative impacts of a type of hunt have not been analyzed or are not available, or if a type of special hunt is not compatible with the refuge purpose. Thus, this issue is decided individually on a refuge-by-refuge basis. The Service remains committed to opening hunting methods, including falconry and especially those methods allowed by State regulations, whenever it is possible to do so at a given refuge in a manner consistent with all purposes and objectives of the refuge, in the professional judgment of the refuge manager. Falconry has not been found compatible on Bill Williams River and Havasu NWRs.

In response to the comment from the Arizona Game and Fish Department regarding aligning dog regulations on refuges to State regulations, we have made no changes to the rule. Even though State regulations may allow dogs during hunting activities, our general refuge regulations prohibit all domesticated animals at 50 CFR 26.21(b) unless authorized by refuge-specific regulations. While refuges adopt State hunting and fishing regulations to the extent practicable, they must also comply with the general refuge regulations. Therefore, in order to allow dogs during hunting activities, each refuge must authorize the use of dogs during hunting activities in their refuge-specific entries at 50 CFR part 32. As explained above, all uses on refuges must be found compatible and must not conflict with refuge objectives. Some refuges have found that the use of dogs during hunting activities must be limited or not authorized in order to avoid conflict with refuge objectives.

In response to the comment from the Arizona Game and Fish Department regarding methods of take for javelina, we have changed the CFR to remove shotgun shooting shot as a legal method of take for javelina at Bill Williams River NWR in order to align with state regulations.

In response to the Arizona Game and Fish Department's concern regarding inconsistencies between refuges within the State, we have made no changes to the rule. Refuges within the same State often have different purposes, different endangered or threatened species, or different habitats, and therefore all hunting and fishing activities and regulations must be considered on a refuge-by-refuge basis as well. Where we do not align with State regulations, we make every attempt to align refuges within a State or geographic region to each other, but this is not always possible to ensure compatibility.

In response to the Association of Fish and Wildlife Agencies, we made no changes to the rule. A key difference from other states is that refuges in Alaska are open to all hunting and fishing uses until closed under the Alaska National Interest Lands Conservation Act (ANILCA; 16 U.S.C. 3111-3126). Where we have closed opportunities or limited the use in comparison to State regulations, we promulgate those regulations under 50 CFR part 36. We work closely with the Alaska Department of Fish and Game when making these determinations and in assessing the continued need for regulations.

Comment (4): We received comments from five Tribal governments on the rule. The Shawnee Tribe in Oklahoma and Coushatta Tribe of Louisiana both stated they did not have concerns about the proposed rule. The Iowa Tribe of Kansas and Nebraska expressed concerns about hunting of species with cultural significance at Loess Bluffs NWR and hunting of “nongame” species, both at Loess Bluffs NWR specifically and in the proposed rule generally. The Choctaw Nation of Oklahoma Historic Preservation Department requested consultation with respect to Choctaw NWR concerning cultural resource records and requested that we add an inadvertent discovery clause to our environmental assessment (EA) for the openings and expansions at the refuge. The Osage Nation Historic Preservation Office commented twice in order to: (1) Convey that the Nation had no concerns about the proposed activities at Loess Bluffs NWR, which are not included this final rule; and (2) request that the Service conduct a cultural resources survey at Sequoyah NWR before any construction begins on the two proposed new fishing ponds on the refuge.

Our Response: The Service appreciates the support of our Tribal partners and is committed to working with our Tribal partners to address their concerns around potential cultural resource, socioeconomic, and ecological impacts from hunting and fishing activities in the Refuge System.

In response to the Iowa Tribe of Kansas and Nebraska, we do not include the proposed openings and expansions at Loess Bluffs NWR in this rule. We will continue discussions with the Iowa Tribe of Kansas and Nebraska on how these acres and species may be considered for hunting openings and expansions in the future. As to the Iowa Tribe's general concern about hunting of “nongame” species in the rule overall, as explained in detail at Comment (8), below, before authorizing any given hunting and sport fishing activity on a refuge, we ensure the activity is compatible with the biological integrity and ecological health of all species on the refuge. Also, as explained at Comment (15), below, this applies as much to the hunting of predatory and even apex predator species, which some people consider “nongame” species, as it applies to other species that are more commonly considered target species for hunting or “game” species.

In response to the Choctaw Nation, we have provided the requested information, including reports, site forms, and Choctaw NWR's unanticipated discovery plan. We have also incorporated the suggested inadvertent discovery clause into the refuge's EA document, as requested.

In response to the Osage Nation, the Service is conducting a cultural resources survey and continuing discussions with the Osage Nation. The construction of the ponds and all proposed fishing activities dependent on the ponds are contingent on the results of the survey and of our discussions with the Osage Nation.

Comment (5): We received two comments with concerns that the Service did not properly engage in government-to-government consultations with Tribes in developing the openings, expansions, and other changes in the proposed rule.

Our Response: For all openings and expansions of hunting and sport fishing that the Service considers, the Service engages in government-to-government consultations with any and all potentially affected Tribal partners. As described in our response to Comment (1), above, the Service engages our Tribal partners early in the planning process along with our State and Territorial partners when developing proposed changes to hunting and sport fishing on Service lands and waters.

We did not make any changes to the rule as a result of these comments.

Comment (6): A couple commenters stated that the Service should not defer to State fish and wildlife agencies on certain hunting regulations and analysis of wildlife populations.

Our Response: The Service works closely with State agency partners on all aspects of fish and wildlife conservation and management. With respect to rules and regulations governing hunting and sport fishing, the Service makes State regulations the default for any authorized hunting and sport fishing to maximize regulatory efficiency and clarity for the public, especially hunters and anglers who must abide by the rules and regulations. The Service also makes a concerted effort to align our rules and regulations with State rules and regulations to maximize this efficiency and minimize confusion, but it is not an abdication of our responsibility to regulate hunting on the Refuge System because we still determine in every case whether or not State hunting and fishing regulations are appropriate for the given refuge. Whenever necessary for refuge purposes, conservation goals, ecological health, or compatibility with other uses, the Service imposes alternate and/or additional rules and regulations to those of the relevant State agencies. With respect to wildlife monitoring and analysis of wildlife populations, the Service does its own monitoring and analyses and looks to these first. We do also draw on the work of State partners, both because it provides more data to inform our decisions and because it ensures we have information about fish and wildlife on a larger geographic scale, which is critical for many species with large ranges that extend far from Service lands and waters. The ultimate determinations governing all hunting and sport fishing activities on NWRS lands are made by the Service, and we fulfill our responsibilities to administer hunting and sport fishing programs in a manner compatible with both ecological health and integrity and other recreational uses of refuges.

Comment (7): We received a number of comments arguing that we should have prepared an environmental impact statement (EIS) instead of station-specific environmental analyses combined with a national cumulative impact report. Some of these comments also argued that specific stations should have prepared an EIS where we prepared an environmental assessment (EA) or an EA where we prepared a categorical exclusion. One of these commenters also stated that the use of lead ammunition or tackle presents an extraordinary circumstance that does not allow for the use of a Categorical Exclusion. Relatedly, a few commenters believed it improper for our NEPA documents to be draft rather than final documents during our comment period.

Our Response: The Service disagrees with the comment that we should prepare an EIS before proposing expanded hunting and fishing opportunities on refuges or hatcheries. We completed individual EAs for, or applied categorical exclusions to, 89 refuges and hatcheries, in compliance with NEPA, to evaluate the impacts of opening or expanding hunting and fishing opportunities on the stations through this rulemaking. These EAs and categorical exclusions underwent regional and national review to address and consider these actions from a local, regional, multi-State, and/or flyway perspective, and to consider the cumulative impacts from this larger geographical context. The 2021-2022 cumulative impacts report concludes, after analyzing the collective impacts of all EAs and categorical exclusions prepared in connection with this rule, that the rule will not have significant impacts at the local, regional, or national level. The commenters who have raised these environmental analysis concerns have provided no additional information that would change this analysis or our conclusion. As discussed above, we annually conduct management activities on refuges and hatcheries that minimize or offset impacts of hunting and fishing on physical and cultural resources, including establishing designated areas for hunting; restricting levels of use; confining access and travel to designated locations; providing education programs and materials for hunters, anglers, and other users; and conducting law enforcement activities.

In this rulemaking, the Service is expanding opportunities for recreational hunting and fishing. Expanding opportunities does not necessarily result in increased impacts to refuge resources. We anticipate that for some refuges, these expansions will not result in changes in usage of the refuge. In other cases, these expansions may lead to some increase in use of refuges, but these changes will likely by minor. Opening of new refuges may attract people to the refuge, but these hunters and/or anglers were likely already participating elsewhere on State or other Federal lands. Overall, considering the decreasing trends in hunting and fishing generally, and decreasing trends of these activities on refuges specifically, we do not expect this final rule to have a significant impact on the environment. As noted in our cumulative impacts report, hunter participation trends have been generally declining, some refuges attract a very small number of participants, and often participation rates decline over the course of a season.

Finally, a Federal court found that this approach, using a bottom-up analysis to assess the cumulative impact of increased hunting and fishing across the entire Refuge System, was an appropriate way for the Service to analyze the impacts of the rule in compliance with NEPA (see Fund for Animals v. Hall, 777 F. Supp. 2d 92, 105 (D.D.C. 2011)). We disagree with the one commenter who sought to distinguish this rulemaking from that case on the basis that (1) there were multiple rulemakings before the court, and (2) this rule is larger than those rules were in terms of the number of openings and expansions. These differences do not matter to the court's conclusion that analysis of cumulative impacts through a cumulative impacts report is appropriate. First, the court reached a conclusion about what needs to be analyzed for each individual rulemaking, even though the same challenge was brought against multiple rulemakings. Second, the court could have, but did not, set any limit on the number of openings and expansions the cumulative impacts report could cover. The court likely did not do so because a rule with more openings and expansions will simply have more EAs and categorical exclusions in order to cover each station, and the cumulative impacts report will correspondingly consider a larger number of potential cumulative impacts as thoroughly as in any other iteration of this annual rule.

We also disagree with one commenter's contention that the use of lead ammunition or tackle presents an extraordinary circumstance that will not allow for the use of a categorical exclusion. This question is directly addressed by managers when they determine whether a categorical exclusion is appropriate for a given expansion to hunting and fishing on a refuge. Just as the level of lead introduced from hunting and sport fishing has been found unlikely to produce significant adverse impacts in all of our environmental assessments, it was not considered to have significant adverse impacts for those stations where an expansion to the hunting and/or fishing programs met the criteria for a categorical exclusion. Finally, as the use of lead ammunition and tackle has been allowed on refuges for decades in the ordinary course of operations, it cannot reasonably be considered an extraordinary circumstance for any station.

A few commenters raised a separate but related concern that they believed it improper for our NEPA documents to be draft rather than final documents after the Federal Register published the proposed rule. These commenters misunderstand our rulemaking process. Our longstanding approach to this annual rulemaking is that we have the required public comment period for our NEPA documents and the required public comment period for our proposed rule run concurrently and end on the same date. The NEPA documents cannot be finalized without public comment, just as we cannot issue a Final Rule before the public has commented on our proposed rule. Not only is this approach compliant with all applicable laws and regulations but it also provides important advantages for public input. First, because we do create our draft NEPA documents before drafting the proposed rule, so that our environmental impact findings can inform the proposed rule, ending both public comment periods on the same date results in longer public comment periods for our NEPA documents. As an example, in this rulemaking cycle, instead of the 30 days we would otherwise typically provide for an EA, for the EA of Great Dismal Swamp NWR the public was given 88 days to provide comments. Second, with draft NEPA documents we are able to make changes to the EA that reflect changes made to the openings and expansions in the rule in response to public comment on the rule, and vice versa. It would be cumbersome, and potentially cause confusion for the public, to go through a process of revising finalized EAs to make these same changes. All of our EAs and other underlying planning documents will be finalized and made public alongside the Final Rule, the content of which they fully informed.

In response to comments, we reviewed all EAs and categorical exclusions. Based on that review, we determined that the categorical exclusion for Necedah NWR may require further consideration, and we do not include the proposed expansions at Necedah NWR in this final rule. The Service disagrees with the assertion that, for any of the stations in this rule, we should have prepared an EIS instead of an EA or an EA instead of a categorical exclusion. We also disagree with an assertion that, for any of the stations in this rule, the analysis in the respective EA or categorical exclusion is inadequate under NEPA.

We removed the proposed expansions at Necedah NWR from the rule, but because they would have been administrative expansions, this did not require revising any of the proposed regulatory changes for Necedah NWR. Thus, we did not make any changes to the regulatory provisions in this rule as a result of these comments.

Comment (8): We received several comments that alleged the proposed rule is, or certain parts of the proposed rule are, a violation of the Service's mandate to ensure that the biological integrity, diversity, and environmental health of the Refuge System are maintained for the benefit of present and future generations of Americans (16 U.S.C 668dd(a)(4)(B)). These commenters also expressed concern about the health and genetic diversity of populations of the species being hunted.

Our Response: We do not allow hunting on a refuge if it is found incompatible with that individual refuge's purposes or with the mission of the Refuge System. Part of the mission of the Refuge System is to ensure that the biological integrity, diversity, and environmental health of the Refuge System are maintained for the benefit of present and future generations of Americans (16 U.S.C. 668dd(a)(4)(B)). Therefore, each Service station manager uses his or her “sound professional judgment” (see the definition of this term in the Service Manual at 603 FW 2.6.U., available online at https://www.fws.gov/policy/603fw2.html) in making these inherently complex management decisions to ensure that each proposed action complies with this mandate. Each manager incorporates field experience, knowledge of refuge resources, considerations of the refuge's role within an ecosystem, applicable laws, and best available science in making these decisions. Service biologists and wildlife professionals, in consultation with the State, determine the optimal number of each game animal that should reside in an ecosystem and then establish hunt parameters (e.g., bag limits, sex ratios) based on those analyses. We carefully consider how a proposed hunt fits with individual refuge goals, objectives, and strategies before allowing the hunt. The new or expanded hunting and/or fishing opportunities in this rule are not expected to individually or collectively result in significant adverse direct, indirect, or cumulative impacts to hunted populations of migratory birds and resident wildlife, nonhunted populations of migratory birds and resident wildlife, endangered and threatened species, habitat and plant resources, or other natural resources. We analyzed these impacts not only in each refuge's NEPA document and ESA Section 7 document, but also in the 2021-2022 cumulative impacts report.

The Service does not collect population data at the national level, but is able to use State population data when analyzing the impacts at individual stations or within a State. When determining the compatibility of an activity, Service policy (603 FW 2) directs station managers to utilize all available data in exercising their sound professional judgement in the decision-making process.

We did not make any changes to the rule as a direct result of these comments.

Comment (9): We received several comments that claimed the actions in the proposed rule would imperil threatened and endangered species. Some of these comments pointed to concerns regarding the Florida Panther NWR in particular.

Our Response: In compliance with section 7 of the ESA, every station determined that their proposed actions either would have “no effect” or were “not likely to adversely affect” endangered and threatened species or designated critical habitat present at that station. The Service determined that the proposed action was not likely to jeopardize any listed species, nor adversely modify its critical habitat; and that the proposed action was not likely to jeopardize any proposed or candidate species for listing as threatened or endangered. Furthermore, as described in our cumulative impacts report, because endangered and threatened species are usually highly localized, minor or negligible impacts on an endangered or threatened species at a local or even regional scale would likely have no cumulative impact on national populations of those species. Thus, considering all impacts cumulatively for each individual threatened or endangered species, it is unlikely there will be any adverse impacts on such species, their habitats, or their recovery from these openings and expansions of hunting and sport fishing.

We do not allow hunting on a refuge if it is found incompatible with that individual refuge's purposes or with the mission of the NWRS. In addition, the Service's biological integrity, diversity, and environmental health (BIDEH) policy (601 FW 3) guides decision-making with respect to management of activities on refuges, including hunting. Service biologists and wildlife professionals, in consultation with the State, determine the optimal number of each game animal that should reside in an ecosystem and then establish hunt parameters (e.g., bag limits, sex ratios) based on those analyses. We carefully consider how a proposed hunt fits with individual refuge goals, objectives, and strategies before allowing the hunt. None of the known, estimated, or projected harvests of migratory game birds, upland game, or big game species in this rulemaking is expected to have significant adverse direct, indirect, or cumulative impacts to hunted populations, non-hunted wildlife, endangered or threatened species, plant or habitat resources, wildlife-dependent recreation, prescribed fire, air, soil, water, cultural resources, refuge facilities, solitude, or socio-economics. We analyze these impacts not only in each refuge's NEPA document, but also in the 2021-2022 cumulative impacts report.

While there may be some minor, localized, and temporary (short-term) impacts to endangered and threatened species as a result of hunting or fishing activities, every station ensured that these impacts were minimized and, in many cases, offset them through a variety of management activities.

In response to the comments expressing concern specifically about Florida Panther NWR, the Service is opening three limited quota spring turkey hunts and fishing on a 19-acre pond on that refuge. Therefore, impacts on the endangered Florida panther (Puma (=Felis) concolor coryi) are expected to be negligible to minor due to the limited number of turkey hunting permits we will issue; the type, amount, and location of approved public access; and the general locations of all proposed project activities (e.g., highly disturbed areas impacted by human use before the refuge was established). As outlined in the environmental assessment (section B of the VSP), through the use of quota hunts, a sustainable harvest is expected. A limited wild turkey hunt may be held during three weekends of the Florida spring turkey season, and only one bearded turkey may be harvested seasonally by permitted hunters. The refuge hunt will adopt Florida State regulations at nearby State wildlife management areas, and also add refuge-specific regulations to ensure compatibility. Up to 25 permits on two quota weekend hunts (i.e., 50 total permits) and up to 10 family groups (i.e., 20 total permits) on the third weekend hunt may be issued annually. However, Florida Panther NWR will monitor the turkey population and hunter access to allow for adaptive management in the number of permits issued annually. Also, no new roads or trails will be needed to accommodate hunting on the refuge. The use of existing roads and trails will accommodate turkey hunting. It is estimated that fewer than 70 hunters will access the refuge, and they will take fewer than 8 turkeys each season on the refuge. The local turkey population is expected to rebound seasonally, with no significant effects anticipated. Rangewide, this slight increase in take is not expected to have a cumulative effect on the species.

In the ESA Section 7 analysis for Florida Panther NWR, we concluded, based on the best available science and professional judgment of refuge staff, that the hunting and fishing openings are not likely to adversely impact the Florida panther. We have described the turkey hunting activity above because it is the most likely source of any minor disturbances that occur for panthers on the refuge. In addition to the limits on turkey hunting detailed above, it is important to note that turkey is not a primary prey species for the Florida panther, so any temporary, minor change in the refuge's turkey population should not affect panthers. Relatedly, even though panthers will sometimes prey on turkeys, because lead ammunition is prohibited for turkey hunting on the refuge there is no concern about lead exposure from panthers scavenging hunted turkeys or turkey gut piles. Well-managed hunt programs and other outdoor recreational activities do not conflict with the Service's ability to recover the Florida panther or other Federal trust species on Florida Panther NWR. An example of this lack of conflict is evidenced by the fact that since conservation and especially genetic diversification efforts began in the 1990s the panther population has continued to increase throughout southwest Florida even though hunting and other forms of outdoor recreation have continued to occur as traditional uses across millions of acres, including on both private and public lands. Panthers are one of the most adaptable mammals in the Northern Hemisphere and have home ranges in close proximity to human occupied areas in southwest Florida (e.g., Golden Gate Estates). The proposed quota turkey hunts are anticipated to only have minimal to moderate short-term effects on the Florida panther and other Federal trust species. Panther activity may be temporarily altered as a result of human activity. However, any alteration of panther activity is expected to be insignificant.

We did not make any changes to the rule as a result of these comments.

Comment (10): Many commenters expressed concern over the use of lead ammunition and/or lead fishing tackle on refuges and hatcheries. Some commenters objected to these potential sources of lead at a particular refuge or hatchery, and many individual commenters and multiple organizations were concerned about lead nationwide and referred us to various forms of evidence on the subject of lead impacts to human and ecological health. Many of these commenters were supportive of the increased access the Service proposed, but requested the Service not allow lead ammunition or tackle. Some commenters expressed specific concerns about raptor species, including the bald eagle (Haliaeetus leucocephalus). One commenter stated that the use of lead ammunition would violate the Bald and Golden Eagle Protection Act of 1940 (16 U.S.C. 668-668c) and the Migratory Bird Treaty Act (16 U.S.C. 703 et seq.).

Our Response: The Service acknowledges concerns from commenters about the issue of bioavailability of lead in the environment and is aware of the potential impacts of lead on fish and wildlife. See, for example, Nancy Golden, et al., “A Review and Assessment of Spent Lead Ammunition and Its Exposure and Effects to Scavenging Birds in the United States,” which is available online at https://www.fws.gov/midwest/refuges/Review%20and%20Assessment%20paper.pdf. Accordingly, the Service pays special attention to species susceptible to lead uptake and to sources of lead that could impact ecological and human health.

Historically, the principal cause of lead poisoning in waterfowl was the high densities of lead shot in wetland sediments associated with migratory bird hunting activities (Kendall et al. 1996). In 1991, as a result of high bird mortality, the Service instituted a nationwide ban on the use of lead shot for hunting waterfowl and coots (see 50 CFR 32.2(k)).

Yet, there remains some concern about the bioavailability of spent lead ammunition (bullets) and fishing tackle on the environment, the health of fish and wildlife, and human health. The Service is aware of fish and wildlife species, including endangered and threatened species, that are susceptible to biomagnification of lead from their food sources or the food eaten by their food sources. There is also evidence that some species are susceptible to direct ingestion of lead ammunition or tackle due to their foraging behaviors. For example, the Service recognizes that ingested lead fishing tackle has been found to be a leading cause of mortality in adult common loons (Grade, T. et al., 2017, in Population-level effects of lead fishing tackle on common loons. The Journal of Wildlife Management 82(1): pp. 155-164). The impacts of lead on human health and safety have been a focus of several scientific studies. We are familiar with studies that have found the ingestion of animals harvested via the use of lead ammunition increased levels of lead in the human body (e.g., Buenz, E. (2016). Lead exposure through eating wild game. American Journal of Medicine, 128: p. 458).

While there are concerns of lead's general potential for ecological health impacts, we disagree with commenters that the use of lead ammunition in connection with the particular openings and expansions of hunting and fishing on the refuges and hatchery in this rulemaking will significantly impact the environment or is likely to harm endangered or threatened species. Each refuge and hatchery carefully evaluated possible impacts to the environment, including to endangered and threatened species, as part of the NEPA process. As discussed above, on stations where lead ammunition or tackle is allowed, we found that the number of hunters and anglers using lead ammunition or tackle would result in no more than a negligible increase of lead in the environment. As a result, we found there would be no significant impact to the environment from the use of lead ammunition and/or tackle for the station In addition, every refuge and hatchery looked at the impacts of these new or expanded hunting and fishing opportunities, including the allowance or prohibition of lead, on endangered and threatened species in compliance with requirements under section 7 of the ESA. The ESA requires Federal agencies to ensure that the actions they carry out, fund, or authorize do not jeopardize the continued existence of endangered or threatened species (listed species). For each station, the Service determined that the proposed action was not likely to adversely affect any listed species, nor jeopardize any listed species. We also determined that the proposed action was not likely to jeopardize any proposed or candidate species for listing as threatened or endangered.

We also disagree with the commenter who asserted that the use of lead ammunition will violate the Bald and Golden Eagle Protection Act of 1940 (Eagle Act) and the Migratory Bird Treaty Act (MBTA). The potential for lead to threaten any species, including raptors in general and eagles in particular because of their protection under these statutes, is a key part of the NEPA and ESA analyses that are conducted before the authorization of any hunting or fishing on a refuge for which lead ammunition or lead fishing tackle is allowed. This ensures hunting and fishing activities are compliant with these statutes. In fact, the MBTA explicitly authorizes the Secretary of the Interior to create regulations governing take for all of the migratory bird species covered by the treaty, including eagles (16 U.S.C. 704(a)). The promulgation of the hunting regulations in this rule under the authority of the Secretary of the Interior means that the Secretary has determined these hunting activities are compatible with the terms of the MBTA and with the international conventions that are the basis for the MBTA. Thus, the hunting regulations in this rule do not violate the MBTA or the associated treaties.

The Service continues to educate hunters and anglers on the impacts of lead on the environment, and particularly on human health and safety concerns of ingesting animals harvested with lead ammunition. We always encourage hunters and anglers to voluntarily use non-lead ammunition and tackle for all harvest activities. For both ammunition and tackle, alternatives to lead are becoming more widely available and used by hunters and anglers; and despite the traditional view that non-lead ammunition and tackle is more expensive, the costs have become comparable.

We share a strong partnership with the States in managing wildlife and therefore, when determining whether to prohibit the use of lead ammunition or tackle, we have traditionally deferred to State regulations. For example, in California, the use of lead ammunition is prohibited statewide, including on all Service lands, largely in response to the adverse impacts of lead on the endangered California condor (Gymnogyps californianus). We will continue to research this issue and plan to continue engaging with States and other partners to promote the use of non-lead ammunition and tackle.

Although there is not a Service-wide ban on lead ammunition for non-migratory bird hunting activities or on lead fishing tackle, the Service has taken specific steps to limit the use of lead in hunting and fishing activities on refuges and hatcheries. Currently, under 50 CFR 32.2(k), all refuges and hatcheries may require the use of nontoxic ammunition for all hunting other than deer and turkey hunting through brochures, signage, and other forms of public notification. For deer hunting, turkey hunting, and fishing, refuges and hatcheries must promulgate station-specific regulations. Notably, we continue, in these annual rulemakings updating the regulations for hunting and fishing on NWRs and NFHs, to phase out the use of lead on Service lands and waters. Currently, including the regulatory changes in this rule, 82 of the 434 stations open to hunting restrict lead ammunition use for deer and/or turkey hunting, and 23 of the 378 stations open to fishing restrict lead tackle for fishing. In this rule, 17 stations are putting forward restrictions on the use of lead ammunition and/or lead fishing tackle. However, we acknowledge that with the increased access provided to hunters and anglers on Service lands and waters in the past few years, despite the Service's efforts to mitigate the impact of lead on the environment, the increase in number of hunting and angling opportunities has outpaced the increase in number of opportunities subject to lead use restrictions.

Based on the recent historic expansions in our hunting and fishing programs, and per our policy, the Service will continue to evaluate lead use in hunting and fishing on Service lands and waters.

Comment (11): A few commenters expressed opposition to a prohibition on lead ammunition for hunting. The arguments these commenters put forward were that hunters on a given refuge would not take enough shots to create dangerous levels of lead and that reducing lead is a positive move but regulations prohibiting lead might result in anger and backlash.

Our Response: We recognize that lead in the environment carries risks for fish and wildlife, which is why lead ammunition is not allowed for waterfowl hunting on any refuge and lead ammunition is prohibited on refuges in California in order to protect the California condor. However, most hunting and sport fishing activities do not introduce enough lead into the environment to pose a significant danger to any species or to make it likely listed species will experience adverse effects. Accordingly, lead ammunition and tackle are currently allowed where our NEPA and ESA analyses determine the activity is not likely to result in dangerous levels of lead exposure. Even for the hunting and sport fishing opportunities where we have determined lead will be allowed, we educate hunters about lead and encourage the use of nontoxic alternatives. This education and encouragement, coupled with the declining price of nontoxic alternatives and others trends, have allowed us to introduce lead prohibitions for all or some hunting and sport fishing activities, in addition to waterfowl hunting, on many of our refuges without significant opposition from our State partners, local hunters and anglers, or other stakeholders. This includes provisions prohibiting the use of lead ammunition or lead fishing tackle for 17 different stations in this rule.

Comment (12): We received several comments concerned with impacts of this rule on migratory birds. A few of these commenters were particularly concerned about those refuges whose purposes include “inviolate sanctuaries for migratory birds” or that have been designated as “important bird areas” (IBAs) by the Audubon Society.

Our Response: All of the migratory bird hunting opportunities on Service lands are done within the frameworks set by the Service in compliance with the MBTA. These frameworks set season lengths, bag limits, and areas for migratory game bird hunting and ensure that hunting will not have adverse impacts on the populations of the various species of migratory birds through rigorous biological monitoring, information collection, and data review. To determine the appropriate frameworks for each species, the Service considers factors such as population size and trend, geographical distribution, annual breeding effort, the condition of breeding and wintering habitat, the number of hunters, and the anticipated harvest. After frameworks are established for season lengths, bag limits, and areas for migratory game bird hunting, States may select season dates, bag limits, and other regulatory options for the hunting seasons. States may always be more restrictive in their selections than the Federal frameworks, but never more permissive. For more information on this process, see the 2021-2022 cumulative impacts report at http://www.regulations.gov under Docket No. FWS-HQ-NWRS-2021-0027.

Our analysis in the cumulative impacts report of the expansion of hunting of migratory game birds on Service lands through this rule indicates that the proposed harvests, or intentional take, of each species will constitute a negligible component of both national and flyway harvest. Station-specific migratory game bird hunting regulations are established within the above discussed frameworks and in compliance with NEPA to ensure that adverse impacts will not accumulate over time; thus, the harvest is expected to have a negligible impact on migratory bird resources within NWRs.

In addition to all hunting for migratory game birds being set within this national framework, and as with all species hunted in the Refuge System, each station must also ensure that the hunting or fishing opportunity is compatible, or in the case of NFHs not detrimental, with the purpose of that station and complies with applicable provisions of NEPA, ESA, and other applicable laws and policy before opening or expanding migratory bird hunting. This thorough process ensures that the Service has analyzed the potential impacts of the proposed hunting or fishing opportunity and determined that the opportunity would not have a significant impact on any migratory bird species, not just the targeted species.

Where inviolate sanctuaries occur on NWRs, all uses must be evaluated for appropriateness and, if necessary, compatibility. The language within the Administration Act only applies to those lands with the designation of inviolate sanctuary for migratory birds. With this in mind, other uses (e.g., big game hunting, hiking, auto tours, etc.) can be allowed as long as they are compatible. When determining compatibility, the Service must consider the high bar that the inviolate sanctuary designation established.

In addition, refuges with this designation will have to evaluate the influence of uses occurring or potentially occurring on other portions of the refuge and how they may affect the inviolate sanctuaries. Although this designation sets a higher level of consideration, it is clear that Congress intended for these areas to be considered for use when compatible. In the case of IBA designations from the Audubon Society, while several refuges in the rule do have these IBA designations, these designations do not place any additional legal restrictions related to migratory birds on management of these refuges. As discussed previously, each station goes through several different processes, including compatibility determinations, NEPA compliance, and ESA compliance, to ensure that the hunting and fishing opportunities proposed would have no significant impacts on populations of migratory birds in compliance with the Service's mandates under the MBTA, Administration Act, or other applicable laws and policies.

We did not make any changes to the rule as a result of these comments.

Comment (13): A number of commenters mentioned climate change, as a general environmental issue, as something we should consider in developing this rule. A few of these commenters specifically argued that we did not fully consider the impacts this rule could have in conjunction with the separate impacts of climate change on fish, wildlife, and other refuge resources. One comment invoked Executive Order 14008, which calls on government agencies to “combat the climate crisis” through conservation and other measures.

Our Response: The Service recognizes climate change as a threat to human and ecological health and operates in compliance with Executive Order (E.O.) 14008. The conservation goals and operations of the Refuge System are well-aligned with E.O. 14008, and this rule in particular is consistent with the Executive order.

We consider climate change factors in this rule, as with all actions on Service lands. Where appropriate, the effects of climate change on individual species and refuge natural resources are considered throughout the individual NEPA documents, individual ESA section 7 documents, and cumulative impacts report. If such analysis determined that a given hunting or sport fishing activity, in conjunction with the effects of climate change, would result in adverse impacts to protected species or biological integrity, then the refuge manager would not authorize the activity.

In addition to considering the impacts of climate change on the management of wildlife, we respond to a changing climate through the annual process of setting hunting and fishing seasons. Hunting seasons are based on biological monitoring and coordination with our State partners. In some circumstances, seasons may be adjusted based on predicted harvest rates, population levels, seasonal factors, and other assessments. While this process is not necessarily climate-based, over time, as the variables mentioned above change, we respond by altering regulations accordingly. These regulatory changes are only incremental changes that build on previous changes. Any major changes in station or environmental conditions, such as an unsustainable decrease in a species' population or sizeable increases in refuge or hatchery acreage or public uses, would trigger additional planning, NEPA review, compatibility determinations, and ESA section 7 evaluation processes. The Service may reevaluate compatibility at any time if conditions warrant. These required planning and management processes ensure that adverse impacts will not accumulate over time.

We did not make any changes to the rule as a result of these comments.

Comment (14): We also received various comments expressing the sentiment that “trophy hunting,” baiting, and hounding of predators are “unsportsmanlike” activities and inappropriate uses on Service lands. Some comments also expressed a desire for the Service to enact a ban on “hunting contests.”

Our Response: The Service does not attempt to define or authorize “trophy hunting” in any of our laws, regulations, or policies concerning hunting. We follow State hunting and fishing regulations (except for where we determine it is necessary to be more restrictive on individual stations), including State regulations concerning responsible hunting, or prohibitions on wanton waste (defined as “to intentionally waste something negligently or inappropriately”).

We apply this same stance on alleged “hunting contests.” The Service follows State bag limits for species open to hunting, except where we may restrict bag limits in order to meet compatibility requirements for the activity. In States where excessive take of particular species is encouraged for sport only, the Service would restrict bag limits. We only allow hunting on refuges and hatcheries when we have determined that the opportunity is sustainable and compatible. For example, “contests” targeting non-game species where there are no bag limits under State regulations, including species classified as “predators” under State laws, are permitted in Oregon and Idaho. However, the Service would not issue permits for coyote hunting “contests” at refuges in these States for several reasons, including unacceptable disturbance impacts to other game and nongame species, conflicts with other user groups, and conflicts with the Service's BIDEH policy.

Under 50 CFR 26.21(b), the use of dogs for hounding is prohibited on refuges unless authorized by station-specific regulations, and many refuges only authorize the use of dogs for retrieval of migratory birds, upland game birds, and small game. Most refuges that allow dogs require that the dogs are under the immediate control of the hunter at all times or leashed, unless actively retrieving an animal. Most of the commenters who expressed opposition to the use of dogs referenced Silvio O. Conte NWR specifically. The use of dogs will still be allowed at Silvio O. Conte NWR for hunting of waterfowl and game species in accordance with state regulations. However, because of the concerns of commenters we will require hunters who wish to use more than two dogs at a time for hunting of any species anywhere on the refuge to obtain a special use permit and on the Putney Mountain Unit specifically we are only allowing the use of dogs for migratory bird and grouse hunting.

In States where baiting is allowed, most refuges have elected to be more restrictive and not support this method of hunting. Furthermore, most of the commenters who expressed opposition to baiting referenced Silvio O. Conte NWR specifically, but that refuge does not allow baiting.

We made changes to the rule for the use of dogs at Silvio O. Conte NWR as described above, but made no other changes to the rule as a result of these comments.

Comment (15): We received a few comments expressing concern about opening and expanding opportunities for hunting of predator species. Some commenters alleged that we did not give enough consideration to the impacts of those proposed hunts, and that the hunts conflicted with the Service's mandates under the Administration Act to maintain the biological integrity, diversity, and environmental health of the refuge. One of these commenters also brought our attention to the omission of coyote from species lists for three refuges in our cumulative impacts report.

Our Response: Refuge managers consider predator management decisions on a case-by-case basis. As with all species, a refuge manager makes a decision about managing predator populations, which are included in the category of resident wildlife, including allowing predatory species to be hunted, only after careful examination to ensure the action would comply with relevant laws, policies, and directives. The Administration Act, as amended, directs the Service to manage refuges for “biological integrity, diversity, and environmental health.” Predators play a critical role in the integrity, diversity, and overall health of ecosystems, so before allowing predators to be hunted, a refuge manager must ensure that these actions do not threaten the integrity, diversity, or health of the refuge ecosystem. The manager must also determine that the action is compatible with refuge purposes and the mission of the Refuge System, and in keeping with the refuge's CCP and other step-down plans. In addition, the refuge manager analyzes the impacts of the actions on the environment through the NEPA process and section 7 of the ESA. Therefore, a refuge manager must take many steps to ensure that any opportunity for hunting predators on a refuge meets the Service's applicable laws and policies.

For example, we received one comment advocating for the hunting of predator species during established State seasons at Sherburne NWR in Minnesota. The refuge manager at Sherburne NWR had already considered adding such hunts, but determined that the seasons and hours of predator hunting in Minnesota would conflict with the months of the year and hours of the day in which the refuge is open to the public. Sherburne NWR observes a sanctuary period from March 1 through August 31, and is only open during daylight hours. Predator hunting in Minnesota is primarily at night and primarily during the summer months. We will not be able to grant the request of this commenter because it is not compatible with the conservation purposes and practices of Sherburne NWR.

The Administration Act, as amended, also mandates that regulations allowing hunting or fishing of fish and resident wildlife within the Refuge System shall be, to the extent practicable, consistent with State fish and wildlife laws, regulations, and management plans (16 U.S.C. 668dd(m)). Therefore, all the opportunities for hunting predators in this rule that are intended to bring greater consistency with State fish and wildlife laws, regulations, and management plans are part of realizing the Service's mission. Moreover, these, as with all predator hunting determinations and all hunting and fishing determinations, were only made after careful consideration by the refuge manager to ensure that such actions would not threaten the integrity, diversity, and overall health of the ecosystem and were compatible with both the purpose of the refuge and the mission of the Refuge System. For NFHs, the hatchery manager made the decision that such opportunities were not detrimental to the propagation of fish, wildlife, or aquatic species (50 CFR 70.1). Finally, both the NEPA process and the rulemaking process provide opportunities for the public to provide comments and any additional information on impacts of our actions. We considered the additional information provided from the public on this issue during these public comment periods and determined that they did not affect our initial determinations that these small and minor opportunities for hunting predators on specific refuges or hatcheries will have no more than minor impacts on the population health of these species or other wildlife at the local, regional, or national level.

Lastly, one commenter noted that for a particular predator (coyote) the cumulative impacts report omitted proposed hunts from the narrative descriptions of the openings and expansions for three stations: Bogue Chitto NWR, Loess Bluffs NWR, and Malheur NWR. Those typographical errors have been corrected for Bogue Chitto NWR and Malheur NWR. In the case of Loess Bluffs NWR, all hunting openings and expansions described in the May 4, 2021, proposed rule are not included in this final rule, in recognition of concerns expressed by the Iowa Tribe of Kansas and Nebraska.

We have changed the cumulative impacts report as described, but did not make any changes to the rule as a result of these comments.

Comment (16): One commenter stated that the Service did not properly consider the impacts of allowing beaver hunting because beaver dams can alter water flow in ways that provide habitats for other species.

Our Response: This rule includes the opening or expansion of beaver hunting on multiple refuges, both as a target species and as incidental take during hunts for other species. For each of these refuges individually, the NEPA analysis and ESA section 7 analysis consider the potential impacts of allowing hunters to take beaver. As with all target species, the refuge manager must ensure that authorizing hunting does not threaten the integrity, diversity, or health of the refuge ecosystem. This includes effects on other species from the loss of individuals from the given target species, which encompasses effects from the absence of beaver dams that change water flows just as it encompasses effects from reduced predation, reduced foraging pressure, and other mechanisms that can impact non-target species. The manager must also determine that the action is compatible with refuge purposes and the mission of the Refuge System, and in keeping with the refuge's CCP and other step-down plans. As a result, the beaver hunts in this rule do not present a threat to ecosystem health or other species either directly from the take of individual beavers or indirectly through the effect of beaver hunting on the number and strength of beaver dams. In fact, on many refuges beavers are already managed by refuge staff to prevent habitat damage caused by beaver dams, which can have negative impacts on vegetation, moist soil units, and other refuge resources. Finally, the Service does not anticipate substantial take of beavers on any particular refuge or cumulatively.

We did not make any changes to the rule as a result of this comment.

Comment (17): We received several comments that expressed concern over some aspect of public safety. Commenters raised concerns about openings or expansions of hunting at certain stations based on the conflicts with other visitors to the refuge or the need for adequate funding and/or staffing. In particular, the most common specific concern was that the increase in openings and expansions of hunting and sport fishing would overwhelm existing law enforcement capacity. These concerns were expressed for multiple specific stations and as a nationwide issue.

Our Response: The Service considers public safety to be a top priority. In order to open or expand hunting or sport fishing on a refuge, we must find the activity compatible. In order to find an activity compatible, the activity must not “materially interfere with or detract from” public safety, wildlife resources, or the purpose of the refuge (see the Service Manual at 603 FW 2.6.B., available online at https://www.fws.gov/policy/603fw2.html). For this rulemaking, we specifically analyzed the possible impacts of the changes to hunting programs at each refuge and hatchery on visitor use and experience, including public safety concerns and possible conflicts between user groups.

Hunting of resident wildlife on refuges generally occurs consistent with State regulations, which are designed to protect public safety. Refuges may also develop refuge-specific hunting regulations that are more restrictive than State regulations in order to help meet specific refuge objectives, including protecting public safety. Refuges use many techniques to ensure the safety of hunters and visitors, such as requiring hunters to wear blaze orange, controlling the density of hunters, limiting where firearms can be discharged (e.g., not across roads, away from buildings), and using time and space zoning to limit conflicts between hunters and other visitors. It is worth noting that injuries and deaths related to hunting are extremely rare, both for hunters themselves and for the nonhunting public.

Public comment is important in ensuring we have considered all available information and concerns before making a final decision on a proposed opening or expansion. For all of the proposed openings or expansions of hunting in our May 4, 2021, proposed rule (86 FR 23794), we have determined that there are sufficient protections in place as part of the hunt program at that station to ensure public safety. For more information on the Service's efforts to ensure public safety at a particular station, please see that station's hunt plan, compatibility determination, and associated NEPA analysis.

Regarding concerns about lack of funding or staffing, Service policy (603 FW 2.12.A.(7)) requires station managers to determine that adequate resources (including personnel, which in turn includes law enforcement) exist or can be provided by the Service or a partner to properly develop, operate, and maintain the use in a way that will not materially interfere with or detract from fulfillment of the refuge purpose(s) and the Service's mission. If resources are lacking for establishment or continuation of wildlife-dependent recreational uses, the refuge manager will make reasonable efforts to obtain additional resources or outside assistance from States, other public agencies, local communities, and/or private and nonprofit groups before determining that the use is not compatible. When Service law enforcement resources are lacking, we are often able to rely upon State fish and game law-enforcement capacity to assist in enforcement of hunting and fishing regulations. One commenter noted that our hunt plan document for the Potomac River NWR Complex specifically states that State law enforcement will take on the role of enforcing hunting and fishing regulations and asked that the hunt plan provide further detail. Specific information on how we responded to this comment letter's request for more detail on particular hunting and fishing opportunities at Potomac River NWR Complex can be found in that station's final hunt plan, compatibility determination, and finding of no significant impact documents.

For all 89 stations opening or expanding hunting and/or sport fishing in this rule, we have determined that we have adequate resources, including law enforcement personnel, to develop, operate, and maintain the hunt programs.

We did not make any additional changes to the rule as a result of these comments.

Comment (18): We received additional comments supporting the requests made by the Arizona Game and Fish Department to allow falconry on refuges within the State and to align dog regulations on refuges to State regulations. They also echoed the concern from the State about inconsistencies on refuges within the State.

Our Response: As described in our response to Comment (3), above, we determine both whether falconry and the use of dogs for hunting is compatible on a refuge-by-refuge basis. We also determine refuge regulations on a refuge-by-refuge basis, and while we strive to achieve consistency on refuges within a State, different regulations are sometimes required. This allows us to ensure that these uses are compatible with the purposes of the refuge.

We did not make any changes to the rule as a direct result of these comments.

Comment (19): We received two comments about reduced hunt quality from hunter overcrowding at particular refuges. One comment expressed concerns that the changes, especially removing the lottery limitation on waterfowl hunting, at Sam D. Hamilton Noxubee NWR would lead to hunter overcrowding. The other comment expressed concerns that additional gun hunting for deer at Sherburne NWR would reduce the quality of the current deer bow hunting season on that refuge.

Our Response: For Sam D. Hamilton Noxubee NWR, the Service does not conclude removing the lottery draw will impact the quality of the waterfowl hunt or lead to overcrowding, as more areas will be open to hunting resulting in reduced overcrowding. As outlined in the NEPA and planning documents for the change, the Service will eliminate the lottery waterfowl hunting on the refuge to reduce the application process for the users and the associated administrative burden for the refuge. The hunt program was designed to be supportive of hunters of diverse backgrounds. Further, the Service designed the hunt program on the refuge to better align, where appropriate and possible, with State regulations.

For Sherburne NWR, the Service recognizes that the new muzzleloader deer hunting as proposed may create problems for the existing bow hunting season. Accordingly, we are modifying the new muzzleloader hunting: instead of opening muzzleloader hunting in Areas A, B, and C we will only open it in Area A. The muzzleloader hunting will otherwise operate as proposed. This change ensures that Area B will only be open to bow hunters after the existing 9-day gun season ends. Area C will remain closed to all hunting following the 9-day gun season.

We changed the hunting at Sherburne NWR from the proposed rule as described, but did not make any changes to the regulatory text of the rule or any other changes as a direct result of these comments.

Comment (20): A couple of commenters stated that hunting and sport fishing activities could introduce invasive species to refuge lands or waters.

Our Response: We are aware of the ecological threats posed by invasive species and make it a part of all Service actions to limit the spread of invasive species. Many of the refuges opening or expanding hunting and sport fishing under this rule have both mitigation measures for invasive species in connection with the hunting and sport fishing activities and separate measures taken on refuge lands and waters to limit invasive species.

We also explicitly consider invasive species in our analyses of proposed hunting and sport fishing openings and expansions. As one of the two commenters noted, the cumulative impacts report directly addresses concerns about invasive species. We conclude there that invasive species do not present a significant risk, at individual refuges or cumulatively, because the participants in activities that present the risk of introducing invasive species generally come to the refuge from within the local area and are few in number.

Moreover, in some cases and as seen in this rule, we may use hunting as a management tool with the explicit goal of reducing populations of invasive species that threaten ecosystem stability. Therefore, facilitating hunting opportunities is an important aspect of the Service's roles and responsibilities for management of invasive species.

We did not make any changes to the rule as a result of these comments.

Comment (21): One commenter quoted the proposed rule's description of the Service's statutory authority to promulgate this rule and interpreted the quotation as indicating a “compatibility assessment” was not prepared for each station in the rule.

Our Response: This commenter has misinterpreted the quoted language from the rule. The proposed rule's preamble states, “[w]e develop specific management plans for each refuge prior to opening it to hunting or sport fishing. In many cases, we develop station-specific regulations to ensure the compatibility of the programs with the purpose(s) for which we established the refuge or hatchery and the Refuge and Hatchery System mission” (86 FR 23794, May 4, 2021, p. 86 FR 23795). This explains that management plans for many refuges call for promulgating station-specific regulations that ensure the compatibility of hunting and fishing programs with the purpose of the given refuge. As described in response to Comment (6), above, the appropriate State regulations set the default rules for hunting and sport fishing activities that are authorized on a refuge, but the Service often has to supplement these regulations with our own regulations to ensure compatibility. These are the regulations described as being needed “in many cases” and many such regulations are contained in this rule. The proposed rule's preamble goes on to state, “[w]e ensure initial compliance with the Administration Act and the Recreation Act for hunting and sport fishing on newly acquired land through an interim determination of compatibility made at or near the time of acquisition” (86 FR 23794, May 4, 2021, p. 86 FR 23795). This describes another step, separate from developing regulations, in the process of planning hunting and sport fishing activities on a refuge: making a compatibility determination based on the nature of the hunting or sport fishing activity under consideration and the purposes of the particular refuge. These compatibility determinations must be and are made for every activity at every station that offers hunting or sport fishing activities. The phrase “in many cases” as used in the proposed rule is not grammatically tied to compatibility determinations and would never be used by the Service to describe compatibility determinations, as they are a necessary management step for all stations that offer wildlife-dependent recreation.

We did not make any changes to the rule as a direct result of this comment.

Comment (22): One commenter argued that the proposed rule violates the Recreation Act in not curtailing public recreation, violates the Administration Act in not preserving biological integrity, and violates the Improvement Act in disrupting ecological processes.

Our Response: We disagree with the commenter's statement that this rule violates the Recreation Act. The Recreation Act provides that the Secretary shall curtail public recreation use generally in order to ensure accomplishment of the primary purposes for which said conservation areas were acquired or established. Thus, Congress delegated the responsibility of determining when to curtail all types of public recreation in the interest of the conservation purposes of each refuge to the Secretary of the Interior, and by extension to the Service. We disagree with the commenter's claim that the Recreation Act calls on the Secretary to curtail public recreation uses generally, especially when the later-enacted Administration Act and Improvement Act explicitly allow, and even prioritize, hunting and sport fishing on refuges. The commenter's interpretation also goes against the spirit of the Recreation Act because this statute was meant to facilitate public use and enjoyment of conservation areas, like refuge system lands. Moreover, there is nothing in this Act to indicate that, as the commenter implied, a recreational use must “provide income” to the Service or be necessary for wildlife management in order for the Secretary to authorize it.

We disagree with the commenter's statement that this rule violates the Administration Act. The commenter is correct that the Secretary, and by extension the Service, must create regulations for hunting within the Refuge System that “ensure that the biological integrity, diversity, and environmental health of the System are maintained.” The commenter is incorrect in concluding that this rule violates this part of the Refuge system mission because the commenter fails to recognize that our compatibility determination, NEPA, ESA section 7, and cumulative impacts report processes and analyses take into full account both lead exposure risks and food chain impacts. From these analyses, we determine that our fishing and hunting activities comply with our BIDEH policies based upon the best available science and the professional judgment of Service employees.

The commenter first states that allowing lead shot for certain turkey hunts does not ensure biological integrity and environmental health. Where our analysis and expertise indicate that lead presents a significant danger to biological integrity and environmental health, the use of lead is not allowed; the primary examples are that lead ammunition is prohibited for all waterfowl hunting on all refuges, and all lead is prohibited from NWRs in the State of California in order to protect the California condor. The potential for lead to threaten biological integrity and environmental health is a key part of the NEPA and ESA analyses that are conducted before the authorization of any hunting or sport fishing activity on a refuge for which lead ammunition or tackle is allowed. For more on the topic of the use of lead for hunting and fishing in the Refuge System, see our response to Comment (10), above.

The commenter next states that allowing the hunting of species at or near the top of the food chain in their given habitat does not ensure biological integrity because it would cause overpopulation of prey species lower on the food chain. While this rule does open or expand hunting of the specific species mentioned by the commenter (pronghorn, sandhill crane, and black bear) and other species atop or near the top of food chains, these hunts will not cause disruptive changes to population sizes of any species. Predators play a critical role in the integrity, diversity, and overall health of ecosystems, so before allowing predators to be hunted, a refuge manager must ensure that these actions do not threaten the integrity, diversity, or health of the refuge ecosystem. The manager must also determine that the action is compatible with refuge purposes and the mission of the Refuge System, and in keeping with the refuge's CCP and other step-down plans. Hunting that would cause too large a reduction in the population of any species or overpopulation of any species would not be authorized, including under this rule. For more on the topic of authorized hunting of predator species in the Refuge System, see our response to Comment (15), above.

We disagree with the commenter's statement that this rule violates the Improvement Act. The commenter claims that the Improvement Act “demands the conservation of ecological processes,” but no such language appears in the Improvement Act. The Improvement Act states instead that the Secretary shall provide for the conservation of fish, wildlife, and plants, and their habitats within the Refuge System. Even though the notion of “ecological processes” is absent from the statute, the Service does always consider the health and genetic diversity of wildlife populations in administering hunting and sport fishing within the Refuge System. As already noted above, for any proposed hunting activity the refuge manager must ensure that it does not threaten the integrity, diversity, or health of the refuge ecosystem. The manager must also determine that the action is compatible with refuge purposes and the mission of the Refuge System, and in keeping with the refuge's CCP and other step-down plans. If hunting would not be a viable tool for a given population, because of genetic diversity concerns or otherwise, other methods of preventing overpopulation are employed. The example of hunting providing a benefit for managing deer populations that the Service provided online, and which the commenter cited, is only meant to illustrate a potential benefit from certain hunts, not that such a benefit is the only consideration when authorizing hunting. While hunting may be a part of a refuge's population control strategies for certain species, the Service considers all effects of hunting (e.g., impacts to genetic diversity) and compatibility with conservation purposes before authorizing such an activity.

The commenter concludes that any hunting at all on refuges will disrupt ecological processes and should therefore not be allowed. While the Improvement Act does not include any discussion of “ecological processes,” it does, however, direct that the Secretary shall both recognize compatible wildlife-dependent recreational uses as the priority general public uses of the Refuge System and ensure that opportunities are provided within the Refuge System for compatible wildlife-dependent recreational uses. The Improvement Act's definition of “wildlife-dependent recreational use” includes a use of a refuge involving hunting (among four other uses). Thus, the Service is actually directed by the statute to not only allow but to prioritize hunting on refuges whenever compatible with the conservation mission of the Refuge System.

We did not make any changes to the rule as a direct result of this comment.

Comment (23): We received two comments that touched on the proposed rule's discussion of the economic impacts of the rule. One commenter argued that we must use a survey to determine how much non-consumptive, wildlife-dependent recreational use days might decrease because of this rule and include local economic impacts from a decrease in visitation from such users. The second commenter claimed that we must conduct a benefit-cost analysis for this rule and that it must include the cost to the Service to implement the rule and any loss of revenue from non-consumptive users.

Our Response: For the first comment, it is important to note that calculations of the local economic impacts are done for purposes of the Regulatory Flexibility Act (5 U.S.C. 601 et seq.) to support our determination that the rule will not have a significant economic impact on a substantial number of small entities. The rule is not promulgated solely because of the estimated benefits to local economies; the hunting and sport fishing openings and expansions in the rule are promulgated because of the public recreational benefits they provide, which the Service does not quantify. The commenter is correct that non-consumptive users are an important user group at our refuges and hatcheries, and they do bring benefits to local economies. However, the commenter's argument that we need to consider economic impacts of the rule on non-consumptive users, and presumably that it would change our finding on the significance of the rule's impact if we did, does not persuade us for two key reasons. First, if the impacts the commenter describes, lost revenue for local economies from fewer non-consumptive use days at refuges and hatcheries, were to occur as a result of this rule, they would be offset by the increased revenues that we have calculated for the added hunting and fishing use days. This means that calculating both impacts, again assuming there in fact were lost non-consumptive use days, could never result in a larger monetary impact estimate than could be calculated by only considering one or the other alone. Thus, calculating net economic impacts from both user groups would not change the significance determination.

Second, calculating only the economic impact of the rule's effects on non-consumptive users of the refuges would not likely result in a higher estimate of maximum nationwide economic impact because there are no expected significant effects on this user group, which means the estimated economic impacts would be virtually zero. As discussed above in our response to Comment (17), this rule is not expected to significantly impact non-consumptive users. None of the provisions in this rule regulate non-consumptive uses of the refuge, and all openings and expansions of hunting and fishing are assessed for compatibility with non-consumptive uses. The Service has put in place many restrictions on hunting and fishing programs, including some added in response to comments on this rule, in order to ensure that we balance the various priority wildlife-dependent recreation uses on all refuges and hatcheries. We do not expect the rule to significantly affect non-consumptive use of the refuges and hatcheries.

Regarding the second comment, if a rulemaking is designated as a “significant” regulatory action under E.O. 12866 by the Office of Management and Budget's (OMB's) Office of Information and Regulatory Affairs (OIRA), then that rulemaking must, to the extent possible, include a detailed analysis of the benefits and costs of the action. OIRA determined that this rulemaking is “not significant” under E.O. 12866, so a detailed analysis of the costs and benefits of this action is not required. However, we provide our factual basis for certifying that this rule will not have a significant economic impact on a substantial number of small entities below under Regulatory Flexibility Act. As earlier in this response, counting the revenue impacts to local economies from potential lost non-consumptive use days would not lead to finding a significant economic impact resulting from this rule. The same holds true for the costs of implementation, although in that case the reason it is expected to be a small monetary cost is that refuge managers evaluated their proposals prior to the publication of the May 4, 2021, proposed rule and ensured that the hunting and fishing openings and expansions in this rule can be administered with current budgets and staff, which are already used to operate various other programs on refuges. Estimates of implementation costs can be found in stations' EAs for those stations that have prepared an EA, and for those that have prepared a Categorical Exclusion document under NEPA the hunting and fishing activities covered are necessarily minor changes that will result in negligible implementation costs. In general, the costs attributable to the hunting and fishing openings and expansions specifically, in terms of both wages and infrastructure, will be negligible compared to the local economic benefits, as only a few staff are needed to administer a program for many hunters.

Finally, it is worth noting that, taking all of this together, it is almost certain that a benefit-cost analysis, pursuant to OMB Circular A-4, would find the benefits of this rule exceed the costs. As explained, no cost is expected in the form of decreased non-consumptive use days and the signage, staffing, and other costs to the Service in administering the hunting and fishing opportunities is unlikely to be greater than the benefits to local economies adjacent to stations, even though those are expected to be no more than $1.4 million. This would be enough to expect benefits to exceed costs already, but this would not yet account for the recreational benefits of the hunting and sport fishing opportunities. A full and thorough benefit-cost analysis would quantify this benefit using the hunt and fish use day estimates and the best available information about the price of similar hunting activity on private lands. For example, the company onX estimates the average cost to be at least $10 per acre for a hunting lease (see https://www.onxmaps.com/hunt/blog/how-do-hunting-leases-work#:~:text=Today's%20hunters%20can%20expect%20to,the%20distance%20from%20town%20(ie.). This realized economic surplus for hunters and anglers would be an important part of any benefit-cost analysis and would ensure benefits exceed costs. That is reflected in the Improvement Act, where Congress emphasized the importance of providing this public benefit, finding that the Refuge System's conservation mission has been facilitated by providing Americans opportunities to participate in compatible wildlife-dependent recreation, including fishing and hunting, on Refuge System lands. A thorough benefit-cost analysis would also consider the fish and wildlife population management benefits of hunting and sport fishing to the extent that they provide population controls and target invasive species. That has a direct and quantifiable benefit in terms of reduced work hours from eliminating or reducing the need for refuge staff themselves to harvest fish and wildlife for population control and invasive species. Thus, we have determined that this rule is justified in terms of the ratio of benefits to costs, even if it will not have a significant impact on the economy.

We did not make any changes to the rule, including to our Regulatory Flexibility Act discussion and our certification that this rule will not have a significant impact on a substantial number of small entities, as a result of these comments.

Comment (24): One commenter expressed concern that proposed hunting activities on refuges within the Potomac River NWR Complex, especially hunting of American black duck, would be inconsistent with or detrimental to the Atlantic Coast Joint Venture, a regional bird conservation effort in which the Service is a partner organization.

Our Response: We remain committed to and supportive of the Atlantic Coast Joint Venture (ACJV) and its habitat and species conservation objectives. In permitting hunting within the Potomac River NWR Complex and allowing the hunting of American black duck as a target species, we are following all restrictions advocated by the ACJV and only providing limited hunting. For example, at Featherstone NWR, we will allow black duck hunting on 36 acres and the hunting season is November 17-28 and December 18-January 30, with a daily bag limit of two black ducks. Similarly, the Virginia Department of Wildlife Resources, another partner to the ACJV, allows some hunting of American black duck on lands under its jurisdiction. Finally, as with any hunting in the Refuge System, hunting openings and expansions in the Potomac River NWR Complex have been evaluated by refuge managers for limited environmental effects, absence of adverse impacts to endangered species, compatibility with refuge purposes, and consistency with the refuge's CCP. In authorizing these hunts, we have determined that they will not impede conservation efforts for the American black duck or other species of interest to the ACJV.

We did not make any changes to the rule as a result of this comment.

Comment (25): We received two comments with concerns that the information in the proposed rule was not easily understood, specifically in Table 1 concerning the meaning of “O” and “E” in the table.

Our Response: As designated by the table key for the proposed rule's Table 1, “O” designates that the station is opening a new species in the respective category of species to hunting or opening fishing on the station, and “E” designates that the station is expanding hunting for species in the respective category or expanding sport fishing on the station.

We revised Table 1 to account for changes to hunting and fishing openings and expansions in response to other public comments, but did not make any changes to the rule as a result of this comment.

Comment (26): Two commenters expressed concern about the use and disposal of fishing line on the Potomac River NWR Complex.

Our Response: The Service recognizes that discarded fishing line can present a danger to fish and to wildlife. In general, we educate anglers about this problem and the importance of proper disposal of fishing line. In this particular case, in addition to enforcing all State regulations on sport fishing, the refuges in the Potomac River NWR Complex will include information in their brochures and on their websites directing anglers to dispose of trash and fishing line, of all varieties, properly.

We did not make any changes to the rule as a result of these comments.

Changes From the Proposed Rule

As discussed above, under Summary of Comments and Responses, based on comments we received on the proposed rule and NEPA documents for individual refuges and hatcheries, we made changes in this final rule to Bill Williams River, Bald Knob, Big Lake, Cache River, Holla Bend, Wapanocca, Cape May, Supawna Meadows, and William L. Finley NWRs. For Bald Knob, Big Lake, Cache River, Holla Bend, and Wapanocca NWRs, we removed the proposed language adding armadillo to the list of species available to hunt in response to comments and made administrative language changes to align the regulatory language across these refuges. For William L. Finley NWR, we removed the proposed language adding merganser to the list of species available to hunt in response to the State of Oregon's request for alignment. For Cape May and Supawna Meadows NWRs, we extended the hours we are open to fishing in response to the State of New Jersey. Under Bill Williams River NWR, we modified the methods of take allowed for javelina hunting in response to the State of Arizona. For Missisquoi and Silvio O. Conte NWRs, we revised our language authorizing the use of dogs while hunting in response to comments.

We removed all proposed hunting and fishing openings and expansions at Necedah NWR and Loess Bluffs NWR. The expansions at Necedah NWR are not included in this final rule because the underlying analyses for these actions may require further consideration. There are still regulatory changes for Necedah NWR in this final rule, but these are administrative revisions for consistency and clarity unrelated to the proposed expansions. The openings and expansions at Loess Bluffs NWR are not included in this final rule because of concerns expressed by the Iowa Tribe of Kansas and Nebraska. We will continue discussions with the Iowa Tribe of Kansas and Nebraska on how these acres and species may be considered for opening to hunting in the future.

We have removed the language authorizing fishing at the former National Bison Range refuge in Montana. This refuge has been transferred to the Confederated Salish and Kootenai Tribes through the Consolidated Appropriations Act, 2021 (Pub. L. 116-260), and we no longer have jurisdiction over public use on the land.

We made minor, clarifying edits to the regulatory language for other refuges, including Dale Bumpers White River, Bayou Sauvage, Bayou Teche, Big Branch Marsh, Bogue Chitto, Cat Island, Mandalay, Sam D. Hamilton Noxubee, Sequoyah, and Wichita Mountains NWRs.

Effective Date

We are making this rule effective upon publication (see DATES, above). We provided a 60-day public comment period for the May 4, 2021, proposed rule (86 FR 23794). We have determined that any further delay in implementing these station-specific hunting and sport fishing regulations would not be in the public interest, in that a delay would hinder the effective planning and administration of refuges' and hatcheries' hunting and sport fishing programs. This rule does not impact the public generally in terms of requiring lead time for compliance. Rather, it relieves restrictions in that it allows activities on refuges and hatcheries that we would otherwise prohibit. Therefore, we find good cause under 5 U.S.C. 553(d)(3) to make this rule effective upon publication.

Amendments to Existing Regulations

Updates to Hunting and Fishing Opportunities on NWRs and NFHs

This document codifies in the Code of Federal Regulations all of the Service's hunting and/or sport fishing regulations that we are updating since the last time we published a rule amending these regulations (85 FR 54076; August 31, 2020) and that are applicable at Refuge System and Hatchery System units previously opened to hunting and/or sport fishing. This rule better informs the general public of the regulations at each station, to increase understanding and compliance with these regulations, and to make enforcement of these regulations more efficient. In addition to now finding these regulations in 50 CFR parts 32 and 71, visitors to our refuges and hatcheries may find them reiterated in literature distributed by each station or posted on signs.

Table 1—Changes for 2021-2022 Hunting/Sport Fishing Season
Station | State | Migratory bird hunting | Upland game hunting | Big game hunting | Sport fishing
Audubon NWR | North Dakota | Closed | Already Open | E | Already Open.
Bald Knob NWR | Arkansas | O/E | O/E | Already Open | Already Open.
Bayou Sauvage NWR | Louisiana | O/E | O | O | E.
Bayou Teche NWR | Louisiana | O/E | O/E | E | Already Open.
Big Branch Marsh NWR | Louisiana | O/E | O/E | O/E | E.
Big Lake NWR | Arkansas | Closed | O | O/E | Already Open.
Bill Williams River NWR | Arizona | E | O/E | O/E | Already Open.
Bogue Chitto NWR | Louisiana & Mississippi | O/E | O/E | E | Already Open.
Bond Swamp NWR | Georgia | E | E | E | Already Open.
Brazoria NWR | Texas | O | Closed | Closed | E.
Cache River NWR | Arkansas | O/E | O | E | Already Open.
Caddo Lake NWR | Texas | Closed | O | Already Open | Closed.
Camas NWR | Idaho | O | Already Open | O | Closed.
Cape May NWR | New Jersey | O/E | O/E | E | E.
Cat Island NWR | Louisiana | O/E | O/E | E | Already Open.
Charles M. Russell NWR | Montana | Already Open | Already Open | O | Already Open.
Cherry Valley NWR | Pennsylvania | E | O/E | E | Already Open.
Choctaw NWR | Alabama | O | O/E | E | Already Open.
Crab Orchard NWR | Illinois | Already Open | Already Open | Already Open | E.
Cypress Creek NWR | Illinois | E | E | E | E.
Dale Bumpers White River NWR | Arkansas | O | Already Open | Already Open | Already Open.
Delta NWR | Louisiana | O/E | O/E | O/E | Already Open.
Desert NWR | Nevada | O | O | Already Open | Closed.
Don Edwards NWR | California | E | Closed | Closed | Already Open.
Eastern Shore of Virginia NWR | Virginia | O | O | O/E | O.
Elizabeth Hartwell Mason Neck NWR | Virginia | Closed | Closed | E | O.
Ernest F. Hollings ACE Basin NWR | South Carolina | Already Open | Closed | O | Already Open.
Everglades Headwaters NWR | Florida | E | E | E | Already Open.
Featherstone NWR | Virginia | N | Closed | Closed | N.
Felsenthal NWR | Arkansas | O/E | E | E | Already Open.
Fisherman Island NWR | Virginia | N | Closed | Closed | Closed.
Florida Panther NWR | Florida | Closed | Closed | N | N.
Franklin Island NWR | Maine | N | Closed | Closed | Closed.
Grand Bay NWR | Alabama & Mississippi | O | O | O | O.
Great Dismal Swamp NWR | Virginia | Closed | O | O/E | Already Open.
Great River NWR | Missouri | C | C | C | Already Open.
Great Swamp NWR | New Jersey | O | O | O/E | Closed.
Green Lake NFH | Maine | Closed | Closed | Closed | N.
Hackmatack NWR | Illinois | E | E | E | E.
Harbor Island NWR | Michigan | O | O | E | O.
Harris Neck NWR | Georgia | Closed | Closed | O/E | Already Open.
Havasu NWR | Arizona | O/E | O | Already Open | Already Open.
Holla Bend NWR | Arkansas | Closed | O/E | O/E | E.
J. Clark Salyer NWR | North Dakota | Already Open | E | E | Already Open.
James River NWR | Virginia | Closed | O | O/E | O.
Julia Butler Hansen Refuge | Oregon & Washington | E | Closed | Already Open | Already Open.
Kern NWR | California | O | Already Open | Closed | Closed.
Kootenai NWR | Idaho | Already Open | Already Open | Already Open | E.
Lacreek NWR | South Dakota | Already Open | Already Open | Already Open | E.
Lake Alice NWR | North Dakota | Already Open | E | E | Already Open.
Las Vegas NWR | New Mexico | O | O | O | Closed.
Mackay Island NWR | North Carolina & Virginia | O | Closed | O/E | Already Open.
Malheur NWR | Oregon | E | E | E | Already Open.
Mandalay NWR | Louisiana | O/E | O | E | Already Open.
Middle Mississippi River NWR | Missouri | Already Open | E | E | Already Open.
Minnesota Valley NWR | Minnesota | Already Open | Already Open | E | Already Open.
Missisquoi NWR | Vermont | Already Open | O | Already Open | Already Open.
Moosehorn NWR | Maine | E | E | E | Already Open.
Muleshoe NWR | Texas | N | N | N | Closed.
National Elk Refuge | Wyoming | Closed | Closed | O | Already Open.
Neal Smith NWR | Iowa | E | E | E | Closed.
Neches River NWR | Texas | N | N | N | Closed.
Northern Tallgrass Prairie NWR | Minnesota & Iowa | E | E | E | E.
Occoquan Bay NWR | Virginia | Closed | O | O/E | O.
Ohio River Islands NWR | Pennsylvania, Kentucky, & West Virginia | O | O | O | Already Open.
Ottawa NWR | Ohio | E | E | E | E.
Ouray NWR | Utah | O | Already Open | O | Already Open.
Patoka River NWR | Indiana | E | E | E | E.
Petit Manan NWR | Maine | E | E | E | Closed.
Plum Tree Island NWR | Virginia | E | Closed | Closed | O.
Pond Island NWR | Maine | N | Closed | Closed | Closed.
Presquile NWR | Virginia | Closed | O | O/E | O.
Rappahannock River Valley NWR | Virginia | Closed | O | O/E | Already Open.
Red River NWR | Louisiana | O | O | Already Open | Already Open.
Rice Lake NWR | Minnesota | Already Open | Already Open | E | Already Open.
Sam D. Hamilton Noxubee NWR | Mississippi | O/E | O/E | E | Already Open.
Sequoyah NWR | Oklahoma | Already Open | Already Open | Already Open | E.
Sherburne NWR | Minnesota | O | E | E | Already Open.
Silvio O. Conte NWR | New Hampshire | E | O/E | E | E.
Sunkhaze Meadows NWR | Maine | Already Open | E | Already Open | Already Open.
Supawna Meadows NWR | New Jersey | O | O | O/E | E.
Tensas River NWR | Louisiana | O | O | O | Already Open.
UL Bend NWR | Montana | Already Open | Already Open | O | Already Open.
Upper Ouachita NWR | Louisiana | O/E | O | Already Open | Already Open.
Wallkill River NWR | New York & New Jersey | E | E | E | Already Open.
Wapanocca NWR | Arkansas | C | O | E | Already Open.
Waubay NWR | South Dakota | Closed | Closed | Already Open | E.
Wichita Mountains NWR | Oklahoma | Already Open | Closed | Already Open | E.
William L. Finley NWR | Oregon | O | Closed | E | Already Open.
Key:
N = New station opened (New Station).
O = New species and/or new activity on a station previously open to other activities (Opening).
E = Station already open to activity adds new lands/waters, modifies areas open to hunting or fishing, extends season dates, adds a targeted hunt, modifies season dates, modifies hunting hours, etc. (Expansion).
C = Station closing the activity on some or all acres (Closing).

The changes for the 2021-2022 hunting/fishing season noted in the table above are each based on a complete administrative record which, among other detailed documentation, also includes a hunt plan, a compatibility determination (for refuges), and the appropriate National Environmental Policy Act (NEPA; 42 U.S.C. 4321 et seq.) analysis, all of which were the subject of a public review and comment process. These documents are available upon request.

Through these openings and expansions, we open or expand hunting or sport fishing on 2,066,116 acres within the National Wildlife Refuge System and the National Fish Hatchery System.

Fish Advisory

For health reasons, anglers should review and follow State-issued consumption advisories before enjoying recreational sport fishing opportunities on Service-managed waters. You can find information about current fish-consumption advisories on the internet at: http://www.epa.gov/fish-tech.

Required Determinations

Regulatory Planning and Review (Executive Orders 12866 and 13563)

Executive Order 12866 provides that the Office of Information and Regulatory Affairs (OIRA) will review all significant rules. OIRA has determined that this rulemaking is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This rule opens or expands hunting and sport fishing on 88 NWRs and 1 NFH. As a result, visitor use for wildlife-dependent recreation on these stations will change. If the stations establishing new programs were a pure addition to the current supply of those activities, it would mean an estimated maximum increase of 40,839 user days (one person per day participating in a recreational opportunity; see Table 2). Because the participation trend is flat in these activities since 1991, this increase in supply will most likely be offset by other sites losing participants. Therefore, this is likely to be a substitute site for the activity and not necessarily an increase in participation rates for the activity.

Table 2—Estimated Maximum Change in Recreation Opportunities in 2021-2022
[Dollars in thousands]
Station | Additional hunting days | Additional fishing days | Additional expenditures
Audubon NWR | 10 |  | $0.3
Bald Knob NWR | 30 |  | 1.0
Bayou Sauvage NWR | 344 |  | 11.6
Bayou Teche NWR | 472 |  | 15.9
Big Branch Marsh NWR | 120 |  | 4.0
Big Lake NWR | 2 |  | 0.1
Bill Williams River NWR | 66 |  | 2.2
Bogue Chitto NWR | 45 |  | 1.5
Bond Swamp NWR | 220 | 160 | 13.0
Brazoria NWR | 86 | 365 | 15.7
Cache River NWR | 60 |  | 2.0
Caddo Lake NWR | 87 |  | 2.9
Camas NWR | 250 |  | 8.4
Cape May NWR | 100 |  | 3.4
Cat Island NWR | 45 |  | 1.5
Charles M. Russell NWR | 10 |  | 0.3
Cherry Valley NWR
Choctaw NWR | 82 |  | 2.8
Crab Orchard NWR |  | 3,000 | 105.2
Cypress Creek NWR | 15 |  | 0.5
Dale Bumpers White River NWR | 132 |  | 4.4
Delta NWR | 85 |  | 2.9
Desert NWR | 103 |  | 3.5
Don Edwards NWR | 118 |  | 4.0
Eastern Shore of Virginia NWR | 414 |  | 13.9
Elizabeth Hartwell Mason Neck NWR |  | 1,200 | 42.1
Ernest F. Hollings ACE Basin NWR | 14 |  | 0.5
Everglades Headwaters NWR
Featherstone NWR | 670 | 1,200 | 64.7
Felsenthal NWR | 1,000 |  | 33.7
Fisherman Island NWR | 150 |  | 5.1
Florida Panther NWR | 6 | 365 | 13.0
Franklin Island NWR | 137 |  | 4.6
Grand Bay NWR | 920 | 730 | 56.6
Great Dismal Swamp NWR | 465 |  | 15.7
Great River NWR
Great Swamp NWR | 500 |  | 16.8
Green Lake NFH |  | 365 | 12.8
Hackmatack NWR | 40 | 30 | 2.4
Harbor Island NWR | 62 | 100 | 5.6
Harris Neck NWR | 68 |  | 2.3
Havasu NWR | 89 |  | 3.0
Holla Bend NWR | 100 |  | 3.4
J. Clark Salyer NWR | 10 |  | 0.3
James River NWR | 160 | 1,200 | 47.5
Julia Butler Hansen Refuge | 50 |  | 1.7
Kern NWR | 30 |  | 1.0
Kootenai NWR |  | 50 | 1.8
Lacreek NWR |  | 15 | 0.5
Lake Alice NWR | 10 |  | 0.3
Las Vegas NWR | 28 |  | 0.9
Mackay Island NWR | 200 |  | 6.7
Malheur NWR | 232 |  | 7.8
Mandalay NWR | 519 |  | 17.5
Middle Mississippi River NWR | 10 |  | 0.3
Minnesota Valley NWR
Missisquoi NWR | 400 |  | 13.5
Moosehorn NWR | 50 |  | 1.7
Muleshoe NWR | 75 | 10 | 2.9
National Elk Refuge | 48 |  | 1.6
Neal Smith NWR | 27 |  | 0.9
Neches River NWR | 2,161 |  | 72.8
Northern Tallgrass Prairie NWR | 69.6 | 5.48 | 2.5
Occoquan Bay NWR | 280 | 1,200 | 51.5
Ohio River Islands NWR | 530 |  | 17.9
Ottawa NWR | 18 | 160 | 6.2
Ouray NWR | 45 |  | 1.5
Patoka River NWR | 15 | 2 | 0.6
Petit Manan NWR | 700 |  | 23.6
Plum Tree Island NWR |  | 300 | 10.5
Pond Island NWR | 138 |  | 4.6
Presquile NWR | 10 | 1,200 | 42.4
Rappahannock NWR | 497 |  | 16.7
Red River NWR
Rice Lake NWR | 48 |  | 1.6
Sam D. Hamilton Noxubee NWR | 7 |  | 0.2
Sequoyah NWR |  | 2,000 | 70.1
Sherburne NWR | 444 |  | 15.0
Silvio O. Conte NWR | 50 | 0 | 1.7
Sunkhaze Meadows NWR | 10 |  | 0.3
Supawna Meadows NWR | 500 |  | 16.8
Tensas River NWR | 16 |  | 0.5
UL Bend NWR | 10 |  | 0.3
Upper Ouachita NWR | 45 |  | 1.5
Wallkill River NWR
Wapanocca NWR | 130 | 90 | 7.5
Waubay NWR |  | 15 | 0.5
Wichita Mountains NWR |  | 12,123 | 425.2
William L. Finley NWR | 264 |  | 8.9
Total | 14,954 | 25,885 | 1,411.5

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System and the Hatchery System yields approximately $1.4 million in recreation-related expenditures (see Table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $5.3 million (2020 dollars) (Southwick Associates, Inc., 2018). Using a local impact multiplier would yield more accurate and smaller results. However, we employed the national impact multiplier due to the difficulty in developing local multipliers for each specific region.

Since we know that most of the fishing and hunting occurs within 100 miles of a participant's residence, then it is unlikely that most of this spending will be “new” money coming into a local economy; therefore, this spending will be offset with a decrease in some other sector of the local economy. The net gain to the local economies will be no more than $5.3 million, and likely less. Since 80 percent of the participants travel less than 100 miles to engage in hunting and fishing activities, their spending patterns will not add new money into the local economy and, therefore, the real impact will be on the order of about $1.1 million annually.

Small businesses within the retail trade industry (such as hotels, gas stations, taxidermy shops, bait-and-tackle shops, and similar businesses) may be affected by some increased or decreased station visitation. A large percentage of these retail trade establishments in the local communities around NWRs and NFHs qualify as small businesses (see Table 3, below). We expect that the incremental recreational changes will be scattered, and so we do not expect that the rule will have a significant economic effect on a substantial number of small entities in any region or nationally. As noted previously, we expect at most $1.4 million to be spent in total in the refuges' local economies. The maximum increase will be less than three-hundredths of 1 percent for local retail trade spending (see Table 3, below). Table 3 does not include entries for those NWRs and NFHs for which we project no changes in recreation opportunities in 2021-2022; see Table 2, above.

Table 3—Comparative Expenditures for Retail Trade Associated With Additional Station Visitation for 2021-2022
[Thousands, 2020 dollars]
Station/county(ies) | Retail trade in 2017 1 | Estimated maximum addition from new activities | Addition as % of total | Establishments in 2017 1 | Establishments with fewer than 10 employees in 2017 1
Audubon
McLean, ND | $95,006 | $0.3 | <0.01 | 39 | 29
Bald Knob
White, AR | 1,110,661 | 1.0 | <0.01 | 311 | 234
Bayou Sauvage
Orleans, LA | 3,694,534 | 11.6 | <0.01 | 1,343 | 1,021
Bayou Teche
St. Mary, LA | 559,081 | 15.9 | <0.01 | 186 | 145
Big Branch Marsh
St. Tammany, LA | 4,242,548 | 4.0 | <0.01 | 901 | 596
Big Lake
Mississippi, AR | 442,920 | 0.1 | <0.01 | 144 | 115
Bill Williams River
La Paz, AZ | 475,421 | 1.1 | <0.01 | 82 | 59
Mohave, AZ | 3,234,501 | 1.1 | <0.01 | 615 | 397
Bogue Chitto
Washington, LA | 352,900 | 0.5 | <0.01 | 146 | 110
St. Tammany, LA | 4,242,548 | 0.5 | <0.01 | 901 | 596
Pearl River, MS | 693,664 | 0.5 | <0.01 | 186 | 132
Bond Swamp
Bibb, GA | 2,835,352 | 6.5 | <0.01 | 780 | 555
Twiggs, GA | 22,447 | 6.5 | 0.03 | 13 | 11
Brazoria
Brazoria, TX | 4,992,876 | 15.7 | <0.01 | 831 | 546
Cache River
Woodruff, AR | 47,310 | 0.5 | <0.01 | 31 | 26
Monroe, AR | 66,530 | 0.5 | <0.01 | 35 | 27
Jackson, AR | 242,527 | 0.5 | <0.01 | 68 | 48
Prairie, AR | 54,178 | 0.5 | <0.01 | 32 | 23
Caddo Lake
Harrison, TX | 638,384 | 2.9 | <0.01 | 184 | 145
Camas
Jefferson, ID | 221,301 | 8.4 | <0.01 | 56 | 37
Cape May
Cape May, NJ | 2,043,622 | 3.4 | <0.01 | 644 | 502
Cat Island
East Feliciana, LA | 82,906 | 1.5 | <0.01 | 41 | 30
Charles M. Russell
Blaine, MT | 43,638 | <0.1 | <0.01 | 22 | 16
Phillips, MT | 46,381 | <0.1 | <0.01 | 24 | 17
McCone, MT | 17,671 | <0.1 | <0.01 | 9 | 6
Fergus, MT | 166,443 | <0.1 | <0.01 | 62 | 51
Petroleum, MT | D | <0.1 | <0.01 | 3 | 3
Garfield, MT | 14,204 | <0.1 | <0.01 | 4 | 2
Valley, MT | 145,264 | <0.1 | <0.01 | 49 | 39
Choctaw
Choctaw, AL | 95,301 | 2.8 | <0.01 | 55 | 42
Crab Orchard
Williamson, IL | 1,240,677 | 105.2 | 0.01 | 259 | 168
Cypress Creek
Alexander, IL | 19,644 | 0.5 | <0.01 | 18 | 14
Dale Bumpers White River
Arkansas, AR | 319,247 | 1.1 | <0.01 | 94 | 64
Monroe, AR | 66,530 | 1.1 | <0.01 | 35 | 27
Phillips, AR | 156,413 | 1.1 | <0.01 | 79 | 62
Desha, AR | 130,625 | 1.1 | <0.01 | 64 | 49
Delta
Plaquemines, LA | 119,957 | 2.9 | <0.01 | 65 | 52
Desert
Clark, NV | 33,837,749 | 3.5 | <0.01 | 6,178 | 3,828
Don Edwards
Alameda, CA | 28,390,575 | 4.0 | <0.01 | 4,347 | 2,923
Eastern Shore of Virginia
Northampton, VA | 117,772 | 13.9 | 0.01 | 59 | 45
Elizabeth Hartwell Mason Neck
Fairfax, VA | 1,818,140 | 42.1 | <0.01 | 252 | 136
Ernest F. Hollings ACE Basin
Charleston, SC | 9,065,573 | 0.5 | <0.01 | 2,003 | 1,334
Hampton, SC | 178,354 | 0.5 | <0.01 | 76 | 59
Lancaster, SC | 825,599 | 0.5 | <0.01 | 237 | 174
Featherstone, VA
Prince William, VA | 6,705,340 | 64.7 | <0.01 | 1,164 | 683
Felsenthal
Ashley, AR | 193,246 | 11.2 | 0.01 | 68 | 53
Union, AR | 591,376 | 11.2 | <0.01 | 186 | 131
Bradley, AR | 75,395 | 11.2 | 0.01 | 33 | 25
Fisherman Island
Northampton, VA | 117,772 | 5.1 | <0.01 | 59 | 45
Florida Panther
Collier, FL | 7,710,838 | 13.0 | <0.01 | 1,455 | 1,019
Franklin Island
Knox, ME | 760,425 | 4.6 | <0.01 | 256 | 183
Grand Bay
Mobile, AL | 5,921,035 | 28.3 | <0.01 | 1,514 | 1,040
Jackson, MS | 1,410,824 | 28.3 | <0.01 | 407 | 296
Great Dismal Swamp
Sufolk City, VA | 1,225,412 | 7.8 | <0.01 | 229 | 148
Chesapeake City, VA | 4,415,609 | 7.8 | <0.01 | 782 | 445
Great Swamp
Morris, NJ | 11,015,983 | 16.8 | <0.01 | 1,809 | 1,221
Green Lake
Hancock, ME | 1,001,578 | 12.8 | <0.01 | 350 | 261
Hackamatack
McHenry, IL | 4,115,924 | 1.2 | <0.01 | 938 | 607
Walworth, WI | 1,596,199 | 1.2 | <0.01 | 361 | 258
Harbor Island
Chippewa, MI | 521,726 | 5.6 | <0.01 | 148 | 98
Harris Neck
McIntosh, GA | 96,007 | 2.3 | <0.01 | 45 | 35
Havasu
Mohave, AZ | 3,234,501 | 3.0 | <0.01 | 615 | 397
Holla Bend
Pope, AR | 945,241 | 1.7 | <0.01 | 272 | 185
Yell, AR | 132,972 | 1.7 | <0.01 | 50 | 38
J. Clark Salyer
Bottineau, ND | 109,978 | 0.2 | <0.01 | 29 | 21
McHenry, ND | 33,913 | 0.2 | <0.01 | 19 | 14
James River
Prince George, VA | 303,359 | 47.5 | 0.02 | 65 | 42
Julia Butler Hansen
Clatsop, OR | 808,973 | 0.6 | <0.01 | 269 | 215
Columbia, OR | 417,825 | 0.6 | <0.01 | 119 | 77
Wahkiakum, WA | 8,582 | 0.6 | 0.01 | 6 | 5
Kern
Kern, CA | 9,906,906 | 1.0 | <0.01 | 1,966 | 1,250
Kootenai
Boundary, ID | 123,467 | 1.8 | <0.01 | 47 | 37
Lacreek
Meade, SD | 325,901 | 0.5 | <0.01 | 91 | 67
Lake Alice
Bottineau, ND | 109,978 | 0.2 | <0.01 | 29 | 21
McHenry, ND | 33,913 | 0.2 | <0.01 | 19 | 14
Las Vegas
San Miguel, NM | 231,666 | 0.9 | <0.01 | 79 | 49
Mackay Island
Currituck, NC | 327,336 | 3.4 | <0.01 | 135 | 109
Virginia Beach City, VA | 6,499,109 | 3.4 | <0.01 | 1,468 | 893
Malheur
Harney, OR | 169,776 | 7.8 | <0.01 | 29 | 17
Mandalay
Terrebonne, LA | 1,964,261 | 17.5 | <0.01 | 475 | 317
Middle Mississippi River
Perry, MO | 294,900 | 0.3 | <0.01 | 82 | 46
Missisquoi
Franklin, VT | 876,359 | 13.5 | <0.01 | 176 | 112
Moosehorn
Washington, ME | 438,713 | 1.7 | <0.01 | 141 | 88
Muleshoe
Bailey, TX | 49,284 | 2.9 | 0.01 | 21 | 15
National Elk Refuge
Teton, WY | 676,935 | 1.6 | <0.01 | 255 | 211
Neal Smith
Jasper, IA | 408,507 | 0.9 | <0.01 | 105 | 73
Neches River
Cameron, TX | 4,868,360 | 36.4 | <0.01 | 1,084 | 686
Anderson, TX | 631,510 | 36.4 | 0.01 | 167 | 124
Northern Tallgrass Prairie
Murray, MN | 60,148 | 0.6 | <0.01 | 44 | 33
Kandiyohi, MN | 914,193 | 0.6 | <0.01 | 208 | 145
Clay, MN | 779,998 | 0.6 | <0.01 | 161 | 95
Clay, IA | 504,926 | 0.6 | <0.01 | 102 | 70
Occoquan Bay
Prince William, VA | 6,705,340 | 51.5 | <0.01 | 1,164 | 683
Ohio River Islands
Beaver, PA | 1,717,000 | 4.5 | <0.01 | 495 | 325
Boyd, KY | 903,141 | 4.5 | <0.01 | 236 | 137
Wood, OH | 1,976,330 | 4.5 | <0.01 | 369 | 218
Wood, WV | 1,631,635 | 4.5 | <0.01 | 361 | 210
Ottawa
Ottawa, OH | 467,388 | 6.2 | <0.01 | 133 | 99
Ouray
Uintah, UT | 471,207 | 1.5 | <0.01 | 134 | 88
Patoka River
Pike, IN | 67,144 | 0.3 | <0.01 | 32 | 23
Gibson, IN | 529,720 | 0.3 | <0.01 | 116 | 76
Petit Manan
Washington, ME | 438,713 | 4.7 | <0.01 | 141 | 88
Hancock, ME | 1,001,578 | 4.7 | <0.01 | 350 | 261
Knox, ME | 760,425 | 4.7 | <0.01 | 256 | 183
Lincoln, ME | 511,948 | 4.7 | <0.01 | 204 | 157
Cumberland, ME | 7,424,447 | 4.7 | <0.01 | 1,454 | 936
Plum Tree Island
York, VA | 1,014,306 | 10.5 | <0.01 | 201 | 135
Pond Island
Knox, ME | 760,425 | 4.6 | <0.01 | 256 | 183
Presquile
Chesterfield, VA | 7,122,893 | 42.4 | <0.01 | 958 | 589
Rappahannock
Essex, VA | 233,522 | 3.3 | <0.01 | 65 | 48
King George, VA | 362,404 | 3.3 | <0.01 | 64 | 42
Westmoreland, VA | 122,436 | 3.3 | <0.01 | 44 | 31
Richmond, VA | 2,386,644 | 3.3 | <0.01 | 795 | 578
Caroline, VA | 324,067 | 3.3 | <0.01 | 63 | 48
Rice Lake
Aitkin, MN | 148,260 | 1.6 | <0.01 | 69 | 48
Sam D. Hamilton Noxubee
Noxubee, MS | 65,033 | 0.1 | <0.01 | 40 | 35
Winston, MS | 211,903 | 0.1 | <0.01 | 86 | 67
Oktibbeha, MS | 558,982 | 0.1 | <0.01 | 173 | 130
Sequoyah
Sequoyah, OK | 362,456 | 23.4 | 0.01 | 116 | 87
Muskogee, OK | 958,492 | 23.4 | <0.01 | 263 | 175
Haskell, OK | 154,591 | 23.4 | 0.02 | 37 | 23
Sherburne
Sherburne, MN | 985,715 | 15.0 | <0.01 | 203 | 126
Silvio O. Conte
Coos, NH | 575,506 | 0.6 | <0.01 | 172 | 126
Essex, VT | 14,718 | 0.6 | <0.01 | 18 | 15
Windham, VT | 606,157 | 0.6 | <0.01 | 236 | 171
Sunkhaze Meadows
Waldo, ME | 417,407 | 0.1 | <0.01 | 171 | 131
Kennebec, ME | 2,624,338 | 0.1 | <0.01 | 522 | 320
Penobscot, ME | 3,443,680 | 0.1 | <0.01 | 705 | 445
Supawna Meadows
Salem County, NJ | 607,072 | 16.8 | <0.01 | 174 | 119
Tensas River
Madison, LA | 115,029 | 0.3 | <0.01 | 32 | 20
Tensas, LA | 25,165 | 0.3 | <0.01 | 14 | 12
UL Bend
Phillips, MT | 46,381 | 0.3 | <0.01 | 24 | 17
Upper Ouachita
Union, LA | 184,987 | 0.8 | <0.01 | 56 | 45
Morehouse, LA | 207,578 | 0.8 | <0.01 | 74 | 53
Wapanocca
Crittenden, AR | 702,406 | 7.5 | <0.01 | 149 | 104
Waubay
Day, SD | 86,538 | 0.5 | <0.01 | 30 | 18
Wichita Mountains
Comanche, OK | 1,412,420 | 425.2 | 0.03 | 407 | 274
William L. Finley
Linn, OR | 1,504,418 | 8.9 | <0.01 | 357 | 241
1 U.S. Census Bureau. “D” denotes sample size too small to report data.

With the small change in overall spending anticipated from this rule, it is unlikely that a substantial number of small entities will have more than a small impact from the spending change near the affected stations. Therefore, we certify that this rule will not have a significant economic effect on a substantial number of small entities as defined under the Regulatory Flexibility Act (5 U.S.C. 601 et seq.). A regulatory flexibility analysis is not required. Accordingly, a small entity compliance guide is not required.

Small Business Regulatory Enforcement Fairness Act

This rule is not a major rule under 5 U.S.C. 804(2), the Small Business Regulatory Enforcement Fairness Act. We anticipate no significant employment or small business effects. This rule:

a. Will not have an annual effect on the economy of $100 million or more. The minimal impact would be scattered across the country and will most likely not be significant in any local area.

b. Will not cause a major increase in costs or prices for consumers; individual industries; Federal, State, or local government agencies; or geographic regions. This rule will have only a slight effect on the costs of hunting opportunities for Americans. If the substitute sites are farther from the participants' residences, then an increase in travel costs will occur. The Service does not have information to quantify this change in travel cost but assumes that, since most people travel less than 100 miles to hunt, the increased travel cost will be small. We do not expect this rule to affect the supply or demand for hunting opportunities in the United States, and, therefore, it should not affect prices for hunting equipment and supplies, or the retailers that sell equipment.

c. Will not have significant adverse effects on competition, employment, investment, productivity, innovation, or the ability of U.S.-based enterprises to compete with foreign-based enterprises. This rule represents only a small proportion of recreational spending at NWRs. Therefore, this rule will have no measurable economic effect on the wildlife-dependent industry, which has annual sales of equipment and travel expenditures of $72 billion nationwide.

Unfunded Mandates Reform Act

Since this rule will apply to public use of federally owned and managed refuges, it will not impose an unfunded mandate on State, local, or Tribal governments or the private sector of more than $100 million per year. This rule will not have a significant or unique effect on State, local, or Tribal governments or the private sector. A statement containing the information required by the Unfunded Mandates Reform Act (2 U.S.C. 1531 et seq.) is not required.

Takings (E.O. 12630)

In accordance with E.O. 12630, this rule will not have significant takings implications. This rule will affect only visitors at NWRs and NFHs, and describes what they can do while they are on a Service station.

Federalism (E.O. 13132)

As discussed under Regulatory Planning and Review and Unfunded Mandates Reform Act, above, this rule will not have sufficient federalism implications to warrant the preparation of a federalism summary impact statement under E.O. 13132. In preparing this rule, we worked with State governments.

Civil Justice Reform (E.O. 12988)

In accordance with E.O. 12988, the Department of the Interior has determined that this rule will not unduly burden the judicial system and that it meets the requirements of sections 3(a) and 3(b)(2) of the Order.

Energy Supply, Distribution or Use (E.O. 13211)

On May 18, 2001, the President issued E.O. 13211 on regulations that significantly affect energy supply, distribution, and use. E.O. 13211 requires agencies to prepare Statements of Energy Effects when undertaking certain actions. Because this rule adds 7 NWRs to the list of refuges open to hunting and sport fishing, opens or expands hunting or sport fishing at 81 other NWRs, and opens 1 NFH to sport fishing, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on NWRs and NFHs with Tribal governments having adjoining or overlapping jurisdiction before we propose the regulations.

Paperwork Reduction Act (PRA)

This final rule contains existing and new information collections that we have submitted to the Office of Management and Budget (OMB) for review and approval under the Paperwork Reduction Act of 1995 (PRA, 44 U.S.C. 3501 et seq.). All information collections require approval by the OMB under the PRA. We may not conduct or sponsor and you are not required to respond to a collection of information unless it displays a currently valid OMB control number. The OMB has reviewed and approved the information collection requirements associated with hunting and sport fishing activities across the National Wildlife Refuge System and National Fish Hatchery System and assigned the following OMB control numbers:

• 1018-0140, “Hunting and Sport Fishing Application Forms and Activity Reports for National Wildlife Refuges, 50 CFR 25.41, 25.43, 25.51, 26.32, 26.33, 27.42, 30.11, 31.15, 32.1 to 32.72” (Expires 12/31/2023),

• 1018-0102, “National Wildlife Refuge Special Use Permit Applications and Reports, 50 CFR 25, 26, 27, 29, 30, 31, 32, & 36” (Expires 01/31/2024),

• 1018-0135, “Electronic Federal Duck Stamp Program” (Expires 01/31/2023),

• 1018-0093, “Federal Fish and Wildlife Permit Applications and Reports—Management Authority; 50 CFR 13, 15, 16, 17, 18, 22, 23” (Expires 08/31/2023), and

• 1024-0252, “The Interagency Access Pass and Senior Pass Application Processes” (Expires 09/30/2023).

In accordance with the PRA and 5 CFR 1320.8(d)(1), we provide the general public and other Federal agencies with an opportunity to comment on our request to revise OMB control number 1018-0140. This helps us assess the impact of our information collection requirements and minimize the public's reporting burden. It also helps the public understand our information collection requirements and provide the requested data in the desired format.

The Service's final rule (RIN 1018-BF09) opens, for the first time, hunting and sport fishing on seven NWRs, opens or expands hunting and sport fishing at 81 other NWRs, and opens hunting or sport fishing on one unit of the NFH. The additional burden associated with these new or expanded hunting and sport fishing opportunities, as well as the revised information collections identified below, require OMB approval.

Many refuges offer hunting and sport fishing activities without collecting any information. Those refuges that do collect hunter and angler information do so seasonally, usually once a year at the beginning of the hunting or sport fishing season. Some refuges may elect to collect the identical information via a non-form format (letter, email, or through discussions in person or over the phone). Some refuges provide the form electronically over the internet. In some cases, because of high demand and limited resources, we often provide hunt opportunities by lottery, based on dates, locations, or type of hunt.

The requested changes to the existing information collections identified below require OMB approval:

Hunting Applications/Permit (FWS Form 3-2439, Hunt Application—National Wildlife Refuge System)

Form 3-2439 collects the following information from individuals seeking hunting experiences on the NWRs:

• Lottery Application: Refuges who administer hunting via a lottery system will use Form 3-2439 as the lottery application. If the applicant is successful, the completed Form 3-2439 also serves as their permit application, avoiding a duplication of burden on the public filling out two separate forms.

• Date of application: We often have application deadlines and this information helps staff determine the order in which we received the applications. It also ensures that the information is current.

• Methods: Some refuges hold multiple types of hunts, i.e., archery, shotgun, primitive weapons, etc. We ask for this information to identify which opportunity(ies) a hunter is applying for.

• Species Permit Type: Some refuges allow only certain species, such as moose, elk, or bighorn sheep to be hunted. We ask hunters to identify which species hunt they are applying for.

• Applicant information: We collect name, address, phone number(s), and email so we can contact the applicant/permittee either during the application process, when the applicant is successful in a lottery drawing, or after receiving a permit.

• Party Members: Some refuges allow the permit applicant to include additional hunters in their group. We collect the names of all additional hunters, when allowed by the refuge.

• Parent/Guardian Contact Information: We collect name, relationship, address, phone number(s), and email for a parent/guardian of youth hunters. We ask for this information in the event of an emergency.

• Date: We ask hunters for their preferences for hunt dates.

• Hunt/Blind Location: We ask hunters for their preferences for hunt units, areas, or blinds.

• Special hunts: Some refuges hold special hunts for youth, hunters who are disabled, or other underserved populations. We ask hunters to identify if they are applying for these special hunts. For youth hunts, we ask for the age of the hunter at the time of the hunt.

• Signature and date: To confirm that the applicant (and parent/guardian, if a youth hunter) understands the terms and conditions of the permit.

Requested revisions to FWS Form 3-2439:

With this submission, we updated the title of the form to include NFHs. We also updated the Privacy Act Statement on the form to include applicability to all hunting permits (rather than only migratory bird hunting) and to also include references to authorized hunting on NFHs.

Harvest/Fishing Activity Reports

We have four harvest/fishing activity reports, depending on the species. We ask users to report on their success after their experience so that we can evaluate hunt quality and resource impacts. We requested to use the following activity reports, which we distribute during appropriate seasons, as determined by State or Federal regulations:

• FWS Form 3-2359 (Big Game Harvest Report).

• FWS Form 3-2360 (Sport Fishing Report).

• FWS Form 3-2361 (Migratory Bird Hunt Report).

• FWS Form 3-2362 (Upland/Small Game/Furbearer Report).

We collect the following information on the harvest reports:

• Name of refuge and location: We ask this to track responses by location, which is important when we manage more than one refuge or activity area from one office.

• Date: We ask when the hunter/angler participated in the activity. This helps us identify use trends so we have resources available.

• Hours/Time in/out: We ask this to determine how long the hunter/angler participated in the activity. We also use this to track use so we can allocate resources appropriately.

• Name, City, State: We ask for a name so we can identify the user. We ask for residence information to help establish use patterns (if users are local or traveling).

• Number harvested/caught based on species: We ask this to determine the impacts on wildlife/fish populations, relative success, and quality of experience.

• Species harvested/caught: We ask this to determine the impacts on wildlife/fish populations, relative success, and quality of experience.

Requested revisions to harvest activity reports:

With this submission, we requested approval of a new harvest form (FWS Form 3-2542, “Hunter Harvest Report”) to replace FWS Forms 3-2359, 3-2361, and 3-2362 to simplify reporting requirements and to reduce burden on the public. In addition to the fields previously approved by OMB on the original three harvest report forms, we added the following additional fields to aid the refuge in management of the reports:

• State-issued hunter identification (ID)/license number (NOTE: Refuges/hatcheries that rely on the State agency to issue hunting permits are not required to collect the permittee's personal identifying information (PII) on the harvest form. Those refuges/hatcheries may opt to collect only the State ID number assigned to the hunter in order to match harvest data with their issued permit. Refuges/hatcheries will collect either hunter PII or State-issued ID number, but not both.)

• Species observed—Data will be used by refuge/hatchery staff to document the presence of rare or unusual species.

• Permit number/type—Data will be used to link the harvest report to the issued permit.

• Hunt Tag Number—Data will be used to link the harvest report to the species-specific hunt tag.

• Number of youth (younger than age 18) in party—Data will be used to better understand volume of youth hunting on a refuge/hatchery. Specific hunter names are not collected, just total number of youths in hunting party.

• Harvested by—Data will be used to determine ratio of adults to youth hunters. Specific hunter names are not collected.

• Species observed—Data will be used by a refuge/hatchery to determine the presence of any unusual species (e.g., threatened or endangered species, or invasive species).

Self-Clearing Check-In Permit (FWS Form 3-2405)

FWS Form 3-2405 has three parts:

• Self-Clearing Daily Check-in Permit. Each user completes this portion of the form (date of visit, name, and telephone numbers) and deposits it in the permit box prior to engaging in any activity on the refuge.

• Self-Clearing Daily Visitor Registration Permit. Each user must complete the front side of the form (date, name, city, State, zip code, and purpose of visit) and carry this portion while on the refuge. At the completion of the visit, each user must complete the reverse side of the form (number of hours on refuge, harvest information (species and number), harvest method, angler information (species and number), and wildlife sighted (e.g., black bear and hog)) and deposit it in the permit box.

• Self-Clearing Daily Vehicle Permit. The driver and each user traveling in the vehicle must complete this portion (date) and display in clear view in the vehicle while on the refuge.

We use FWS Form 3-2405 to collect:

• Information on the visitor (name, address, and contact information). We use this information to identify the visitor or driver/passenger of a vehicle while on the refuge. This is extremely valuable information should visitors become lost or injured. Law enforcement officers can easily check vehicles for these cards in order to determine a starting point for the search or to contact family members in the event of an abandoned vehicle. Having this information readily available is critical in a search and rescue situation.

• Purpose of visit (hunting, sport fishing, wildlife observation, wildlife photography, auto touring, birding, hiking, boating/canoeing, visitor center, special event, environmental education class, volunteering, other recreation). This information is critical in determining public use participation in wildlife management programs. This not only allows the refuge to manage its hunt and other visitor use programs, but also to increase and/or improve facilities for non-consumptive uses that are becoming more popular on refuges. Data collected will also help managers better allocate staff and resources to serve the public as well as develop annual performance measures.

• Success of harvest by hunters/anglers (number and type of harvest/caught). This information is critical to wildlife management programs on refuges. Each refuge will customize the form by listing game species and incidental species available on the refuge, hunting methods allowed, and data needed for certain species (e.g., for deer, whether itis a buck or doe and the number of points; or for turkeys, the weight and beard and spur lengths).

• Visitor observations of incidental species. This information will help managers develop annual performance measures and it provides information to help develop resource management planning.

• Photograph of animal harvested (specific refuges only). This requirement documents the sex of animal prior to the hunter being eligible to harvest the opposite sex (where allowed).

• Date of visit and/or area visited.

• Comments. We encourage visitors to comment on their experience.

Requested revisions to FWS Form 3-2405:

With this submission, we added vehicle license plate number, State issued, and make/model of vehicle fields as optional fields for refuges/hatcheries. This information is required by law enforcement purposes for search and rescue/emergency response activities, as well as to verify ownership of vehicles in the event of damage on the refuge/hatchery, accidents, or other related law enforcement purposes.

We have not requested any changes to the remaining information collections identified below, which are currently approved by OMB:

Sport Fishing Application/Permit (FWS Form 3-2358, “Sport Fishing-Shrimping-Crabbing-Frogging Permit Application”)

Form 3-2358 allows the applicant to choose multiple permit activities, and requests the applicant provide the state fishing license number. The form provides the refuge with more flexibility to insert refuge-specific requirements/instructions, along with a permit number and validity dates for season issued.

We collect the following information from individuals seeking sport fishing experiences:

• Date of application: We often have application deadlines and this information helps staff determine the order in which we received the applications. It also ensures that the information is current.

• State fishing license number: We ask for this information to verify the applicant is legally licensed by the State (where required).

• Permit Type: On sport fishing permits, we ask what type of activity (crabbing, shrimping, frogging, etc.) is being applied for.

• Applicant information: We collect name, address, phone number(s), and email so we can contact the applicant/permittee either during the application process or after receiving a permit.

• Signature and date: To confirm that the applicant (and parent/guardian, if a youth hunter) understands the terms and conditions of the permit.

Labeling/Marking Requirements

As a condition of the permit, some refuges require permittees to label hunting and/or sport fishing gear used on the refuge. This equipment may include items such as the following: Tree stands, blinds, or game cameras; hunting dogs (collars); flagging/trail markers; boats; and/or sport fishing equipment such as jugs, trotlines, and crawfish or crab traps. Refuges require the owner label their equipment with their last name, the State-issued hunting/fishing license number, and/or hunting/fishing permit number. Refuges may also require equipment for youth hunters include “YOUTH” on the label. This minimal information is necessary in the event the refuge needs to contact the owner.

Required Notifications

On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges encompassing privately owned lands, referred to as “easement overlay refuges” or “limited-interest easement refuges,” may also require the hunter obtain written or oral permission from the landowner prior to accessing the land.

Due to the wide range of hunting and sport fishing opportunities offered on the NWRs and NFHs, the refuges and fish hatcheries may customize the forms to remove any fields that are not pertinent to the recreational opportunities they offer. Refuges will not add any new fields to the forms, but the order of the fields may be reorganized. Refuges may also customize the forms with instructions and permit conditions specific to a particular unit for the hunting/sport fishing activity.

Title of Collection: Hunting and Fishing Application Forms and Activity Reports for National Wildlife Refuges and National Fish Hatcheries, 50 CFR 32 and 71.

OMB Control Number: 1018-0140.

Form Number: FWS Forms 3-2358, 3-2360, 3-2405, 3-2439, and 3-2542.

Type of Review: Revision of a currently approved collection.

Respondents/Affected Public: Individuals and households.

Respondent's Obligation: Required to Obtain or Retain a Benefit.

Frequency of Collection: On occasion.

Estimated Annual Non-Hour Burden Cost: None.

Activity | Annual number of responses | Completion time per response | Total annual burden hours
Fish/Crab/Shrimp Application/Permit (Form 3-2358) | 2,659 | 5 minutes | 222
Harvest Reports (Forms 3-2360 and 3-2542 NEW) | 590,986 | 15 minutes | 147,747
Hunt Application/Permit (Form 3-2439) | 360,998 | 10 minutes | 60,166
Labeling/Marking Requirements | 2,326 | 10 minutes | 388
Required Notifications | 489 | 30 minutes | 245
Self-Clearing Check-In Permit (Form 3-2405) | 672,945 | 5 minutes | 56,079
Totals | 1,630,403 |  | 264,847

The above burden estimates indicate an expected total of 1,630,403 responses and 264,847 burden hours across all of our forms. These totals reflect expected increases of 24,331 responses and 3,963 burden hours relative to our previous information collection request. We expect such burden increases as a direct result of the increased number of hunting and fishing opportunities on Service stations under the rule.

As part of our continuing effort to reduce paperwork and respondent burdens, and in accordance with 5 CFR 1320.8(d)(1), we invite the public and other Federal agencies to comment on any aspect of this revision to an existing information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

On May 4, 2021, we published a proposed rule (86 FR 23794) which solicited comments on the information collection requirements described in this supporting statement for a period of 60 days, ending July 6, 2021. We received no comments regarding the information collection requirements in response to the proposed rule.

This final rule is effective immediately upon publication, for the reasons set forth above under Effective Date. We will, however, accept and consider all public comments concerning the information collection requirements received in response to this final rule. Send your written comments and suggestions on this information collection to the Service Information Collection Clearance Officer, U.S. Fish and Wildlife Service, 5275 Leesburg Pike, MS: PRB (JAO/3W), Falls Church, VA 22041-3803 (mail); or Info_Coll@fws.gov (email). Please reference “OMB Control Number 1018-0140” in the subject line of your comments.

Endangered Species Act Section 7 Consultation

We comply with section 7 of the Endangered Species Act of 1973, as amended (16 U.S.C. 1531 et seq.), when developing comprehensive conservation plans and step-down management plans—which would include hunting and/or fishing plans—for public use of refuges and hatcheries, and prior to implementing any new or revised public recreation program on a station as identified in 50 CFR 26.32. We have completed section 7 consultations on each of the affected stations.

National Environmental Policy Act

We analyzed this rule in accordance with the criteria of the National Environmental Policy Act of 1969 (NEPA; 42 U.S.C. 4332(C)), 43 CFR part 46, and 516 Departmental Manual (DM) 8.

A categorical exclusion from NEPA documentation applies to publication of amendments to station-specific hunting and fishing regulations because they are technical and procedural in nature, and the environmental effects are too broad, speculative, or conjectural to lend themselves to meaningful analysis (43 CFR 46.210 and 516 DM 8). Concerning the actions that are the subject of this rulemaking, we have complied with NEPA at the project level when developing each action. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E. Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Christian Myers, Division of Natural Resources and Conservation Planning, National Wildlife Refuge System, is the primary author of this rulemaking document.

List of Subjects

50 CFR Part 32

Fishing, Hunting, Reporting and recordkeeping requirements, Wildlife, Wildlife refuges.

50 CFR Part 71

Fish, Fishing, Wildlife.

Signing Authority

The Assistant Secretary for Fish and Wildlife and Parks approved this document and authorized the undersigned to sign and submit the document to the Office of the Federal Register for publication electronically as an official document of the Department of the Interior. Shannon Estenoz, Assistant Secretary for Fish and Wildlife and Parks, approved this document on August 10, 2021, for publication.

Regulation Promulgation

For the reasons set forth in the preamble, we amend title 50, chapter I, subchapters C and E of the Code of Federal Regulations as follows:

SUBCHAPTER C—THE NATIONAL WILDLIFE REFUGE SYSTEM

PART 32—HUNTING AND FISHING

1. The authority citation for part 32 continues to read as follows:

Authority: 5 U.S.C. 301; 16 U.S.C. 460k, 664, 668dd-668ee, and 715i; Pub. L. 115-20, 131 Stat. 86.

2. Amend § 32.7 by:

a. Redesignating paragraphs (i)(6) through (15) as paragraphs (i)(7) through (16) and adding a new paragraph (i)(6);

b. Revising paragraph (s);

c. Removing paragraph (z)(17);

d. Redesignating paragraphs (z)(18) through (25) as paragraphs (z)(17) through (24);

e. Redesignating paragraphs (qq)(12) through (14) as paragraphs (qq)(14) through (16) and adding new paragraphs (qq)(12) and (13); and

f. Redesignating paragraphs (tt)(5) through (12) as paragraphs (tt)(7) through (14) and adding new paragraphs (tt)(5) and (6).

The additions and revision read as follows:

§ 32.7 What refuge units are open to hunting and/or sport fishing?

* * * * *

(i) * * *

(6) Florida Panther National Wildlife Refuge.

* * * * *

(s) Maine. (1) Franklin Island National Wildlife Refuge.

(2) Moosehorn National Wildlife Refuge.

(3) Petit Manan National Wildlife Refuge.

(4) Pond Island National Wildlife Refuge.

(5) Rachel Carson National Wildlife Refuge.

(6) Sunkhaze Meadows National Wildlife Refuge.

(7) Umbagog National Wildlife Refuge.

* * * * *

(qq) * * *

(12) Muleshoe National Wildlife Refuge.

(13) Neches River National Wildlife Refuge.

* * * * *

(tt) * * *

(5) Featherstone National Wildlife Refuge.

(6) Fisherman Island National Wildlife Refuge.

* * * * *

3. Amend § 32.20 by:

a. Adding paragraph (c)(1);

b. Revising paragraphs (c)(2) and (3);

c. Removing paragraph (c)(4)(ii); and

d. Redesignating paragraphs (c)(4)(iii) through (v) as paragraphs (c)(4)(ii) through (iv).

The addition and revisions read as follows:

§ 32.20 Alabama.

* * * * *

(c) Choctaw National Wildlife Refuge—(1) Migratory game bird hunting. We allow hunting of duck, light and dark geese, coot, and merganser on designated areas of the refuge subject to the following conditions:

(i) We only allow migratory game bird hunting during the Special Youth, Veteran, and Active Military Personnel Waterfowl Hunting Days determined by the State. Regular waterfowl season shooting hours, bag limits, and legal arms and ammunition apply to the special days.

(ii) You must remove all decoys, blind materials, and harvested game from the refuge (see § 27.93 of this chapter) by 1 p.m. each day.

(iii) Hunters may enter the refuge at 4 a.m. and must stop hunting at 12 p.m. (noon) each day.

(iv) We allow the use of dogs for retrieval of migratory birds.

(v) We allow the incidental take of coyote, beaver, opossum, nutria, raccoon, and feral hog during any refuge hunt with the weapons legal for that hunt, as governed by the State of Alabama.

(2) Upland game hunting. We allow hunting of squirrel and rabbit, and incidental take of coyote, beaver, raccoon, opossum, and nutria, on designated areas of the refuge subject to the following conditions:

(i) We prohibit leaving unattended personal property, including, but not limited to, boats or vehicles of any type, geocaches, lumber, and cameras, overnight on the refuge (see § 27.93 of this chapter).

(ii) All persons age 15 or younger, while hunting on the refuge, must be in the presence and under direct supervision of a licensed or exempt hunter age 21 or older. A licensed hunter supervising a youth must hold a valid State license for the species being hunted. One adult may supervise no more than two youth hunters.

(iii) We allow the use of dogs when hunting squirrel and rabbit.

(iv) Hunters may only hunt during designated days and times.

(v) The condition set forth at paragraph (c)(1)(v) of this section applies.

(3) Big game hunting. We allow hunting of white-tailed deer and incidental take of feral hog subject to the following conditions:

(i) The conditions set forth at paragraphs (c)(1)(v), and (c)(2)(i) and (ii) of this section apply.

(ii) Deer hunters may place one portable stand or blind on the refuge for use while deer hunting, but only during the open deer season. The stand must be clearly labeled with the hunter's State hunting license number. You may leave the stand or blind on the refuge overnight during the deer season.

(iii) While climbing a tree, installing a tree stand that uses climbing aids, or hunting from a tree stand on the refuge, hunters must use a fall-arrest system (full body harness) that is manufactured to the Tree Stand Manufacturers Association's standards.

(iv) Deer hunts are archery only except during the State Special Opportunity Areas (SOA) hunt.

(v) The State SOA hunt will occur 4 days per year on the refuge as specified by State SOA regulations.

(vi) Hunters must be selected for and possess a State limited quota permit in order to participate in the State SOA hunt on the refuge.

(vii) We allow the use of muzzleloaders only during the State SOA hunt.

* * * * *

4. Amend § 32.22 by:

a. Revising paragraphs (a)(1) through (3), (b)(1)(iii), (c)(1)(i), (c)(2) introductory text, (c)(3)(ii), and (e);

b. Adding paragraphs (h)(1)(iv) and (v); and

c. Revising paragraphs (h)(2)(ii) and (iii), and (h)(3)(ii).

The revisions and additions read as follows:

§ 32.22 Arizona.

* * * * *

(a) * * * (1) Migratory game bird hunting. We allow hunting of mourning and white-winged dove on designated areas of the refuge subject to the following conditions:

(i) We allow only shotguns and archery equipment for hunting.

(ii) We prohibit hunting within 50 yards (45 meters) of any road or trail open to public use and within ¼ mile (402 meters) of any building.

(iii) You must remove boats, equipment, temporary blinds, stands, etc., at the end of each day's activities (see § 27.93 of this chapter).

(iv) Hunters may enter the refuge ½ hour before legal sunrise and must leave the refuge no later than ½ hour after legal sunset.

(2) Upland game hunting. We allow hunting of Gambel's quail, Eurasian collared-dove, cottontail rabbit, coyote, gray fox, and kit fox on designated areas of the refuge subject to the following conditions:

(i) The conditions set forth at paragraphs (a)(1)(i) through (iv) of this section apply, except that we also allow muzzleloading shotguns for cottontail rabbit hunting.

(ii) We allow hunting of Gambel's quail in alignment with the State quail season.

(iii) We allow hunting of cottontail rabbit from September through February aligning with the beginning of the State dove season and the end of the State quail season.

(iv) We allow hunting of Eurasian collared-dove during the State mourning and white-winged dove season.

(v) We prohibit night hunting from ½ hour after legal sunset until ½ hour before legal sunrise the following day.

(3) Big game hunting. We allow hunting of desert bighorn sheep and javelina on designated areas of the refuge subject to the following conditions:

(i) The conditions set forth at paragraphs (a)(1)(ii) through (iv) of this section apply.

(ii) We allow the use of rifles, muzzleloaders, and archery for desert bighorn sheep hunting.

(iii) We allow shotguns shooting slugs and archery equipment for javelina hunting.

* * * * *

(b) * * *

(1) * * *

(iii) We allow the use of dogs when hunting.

* * * * *

(c) * * *

(1) * * *

(i) We require hunters to obtain a visitor access permit (Department of Defense form/requirement) from the refuge.

* * * * *

(2) Upland game hunting. We allow hunting of Gambel's quail, Eurasian collared-dove, desert cottontail rabbit, antelope jackrabbit and black-tailed jackrabbit, coyote, bobcat, and kit and gray fox in designated areas of the refuge subject to the following conditions:

* * * * *

(3) * * *

(ii) We require Special Use Permits for all guides (FWS Form 3-1383-C), stock animals (FWS Form 3-1383-G), and bighorn sheep hunters (FWS Form 3-1383-G).

* * * * *

(e) Havasu National Wildlife Refuge—(1) Migratory game bird hunting. We allow hunting of mourning and white-winged dove, duck, American coot, common gallinule, goose, and snipe on designated areas of the refuge subject to the following conditions:

(i) We prohibit falconry.

(ii) We allow only shotguns, crossbows, and archery equipment for hunting.

(iii) You must remove all decoys, boats, trash items, cameras, temporary blinds, stands, and other equipment at the end of each day's activities (see §§ 27.93 and 27.94 of this chapter).

(iv) We allow the use of dogs when hunting.

(v) The following conditions apply to Pintail Slough (Quota Hunt Area):

(A) We require a fee for Quota waterfowl hunting.

(B) We limit the number of persons at each waterfowl hunt blind or field to four. Observers cannot hold shells or guns for hunting unless in possession of a valid State hunting license and stamps.

(C) Waterfowl hunters must hunt within the designated boundaries of their assigned blind or field.

(D) You may use only native vegetation or materials for making or fixing hunt blinds.

(E) We allow waterfowl hunting on Wednesdays, Saturdays, and Sundays. Waterfowl hunting ends at 2 p.m. MST (Mountain Standard Time). Hunters must be out of the Pintail Slough area by 3 p.m. MST.

(F) We allow dove hunting at the Pintail Slough Quota Hunt Area outside the general State waterfowl season.

(2) Upland game hunting. We allow hunting of Gambel's quail, cottontail rabbit, Eurasian collared-dove, African collared-dove, black-tailed jackrabbit, bobcat, coyote, gray fox, and kit fox on designated areas of the refuge subject to the following conditions:

(i) The conditions set forth at paragraphs (e)(1)(i) through (iv) of this section apply, except that we also allow pneumatic weapons, muzzleloaders, and hand guns for upland game hunting.

(ii) We prohibit night hunting from ½ hour after legal sunset until ½ hour before legal sunrise the following day.

(iii) We allow hunting of Gambel's quail, cottontail rabbit, Eurasian collared-dove, African collared-dove, black-tailed jackrabbit, bobcat, coyote, gray fox, and kit fox from September 1-March 15.

(iv) We allow the incidental take of Gambel's quail, cottontail rabbit, Eurasian collared-dove, African collared-dove, black-tailed jackrabbit, bobcat, coyote, gray fox, and kit fox in the Pintail Slough Quota Hunt Area during the general State waterfowl season by hunters possessing a valid permit (FWS Form 3-2439) at their designated waterfowl hunt blind or field.

(3) Big game hunting. We allow hunting of desert bighorn sheep and the incidental take of feral hog on designated areas of the refuge subject to the following conditions:

(i) The conditions set forth at paragraphs (e)(1)(i) and (iii) of this section apply.

(ii) We allow only rifles for desert bighorn sheep hunting.

(4) Sport fishing. We allow fishing on designated areas of the refuge subject to the following conditions:

(i) The condition set forth at paragraph (e)(1)(iii) of this section applies.

(ii) We prohibit overnight boat mooring and shore anchoring unless actively fishing, as governed by State regulations.

* * * * *

(h) * * *

(1) * * *

(iv) You must remove all equipment, cameras, temporary blinds, stands, etc., at the end of each day's activities (see § 27.93 of this chapter).

(v) We allow Eurasian collared-dove hunting only during mourning and white-winged dove seasons.

(2) * * *

(ii) We prohibit night hunting from ½ hour after legal sunset until ½ hour before legal sunrise the following day.

(iii) We allow quail hunting during State seasons. For all other upland game species, we only allow hunting when a species season dates overlap with a general or archery State deer or javelina hunt season, except for youth-only seasons.

(3) * * *

(ii) We allow hunting of black bear only when the State season dates overlap with a general or archery State deer or javelina hunt season, except for youth-only seasons.

* * * * *

5. Amend § 32.23 by revising paragraphs (a) through (f), and (i) to read as follows:

§ 32.23 Arkansas.

* * * * *

(a) Bald Knob National Wildlife Refuge—(1) Migratory game bird hunting. We allow hunting of duck, goose, coot, merganser, snipe, woodcock, rail, gallinule, crow, and dove on designated areas of the refuge subject to the following conditions:

(i) We require a signed refuge hunting permit (FWS Form 3-2439). Anyone on the refuge in possession of hunting equipment must sign and possess the permit (FWS Form 3-2439) at all times.

(ii) During the quota gun deer hunt, we close the refuge to all other hunts and public entry, unless the refuge is closed to deer hunting at that time due to implementation of State flood closure zone regulations.

(iii) Hunters may enter the refuge beginning at 4 a.m. Except when hunting applicable goose species during the State Conservation Order, waterfowl hunters must exit the refuge by 1 p.m. All other hunters, including those hunting applicable goose species during the State Conservation Order, must exit the refuge no later than 1 hour after legal sunset.

(iv) We allow waterfowl hunting until 12 p.m. (noon), except that during the State Conservation Order, you may hunt for applicable goose species until legal sunset. Snipe, woodcock, rail, gallinule, crow, and dove hunters may hunt until legal sunset.

(v) When waterfowl hunting, you may not possess more than 25 shotgun shells while in the field, except that during the State Conservation Order, there is no limit on the number of shells you may possess while hunting applicable goose species.

(vi) We prohibit hunting closer than 100 yards (91 meters) to another hunter or hunting party.

(vii) You must remove decoys, blinds, boats, and all other equipment at the end of each day's hunt (see § 27.93 of this chapter).

(viii) All hunters age 11 and younger who possess valid hunter education certification must remain within normal sight and voice contact with an adult age 18 or older who possesses a valid State hunting license. Hunters age 15 and younger who have not completed hunter education must be under the direct supervision (within arm's reach) of an adult age 21 or older who possesses a valid State hunting license. One adult may supervise up to two youth hunters for migratory bird and upland game hunting, but may supervise only one youth during big game hunting.

(ix) We allow incidental take of beaver, muskrat, nutria, river otter, mink, bobcat, fox, striped skunk, and coyote during any refuge hunt with the weapons legal for that hunt, subject to applicable State seasons and regulations.

(x) We allow the use of dogs when migratory game bird hunting.

(xi) We close the Waterfowl Sanctuary Hunt Unit to all entry and hunting from November 15 to February 28, except that quota gun deer hunters may hunt in that Unit when the season overlaps with these dates.

(xii) We allow waterfowl hunting from mowed and/or graveled road rights-of-way, but we prohibit all other hunting from these rights-of-way.

(xiii) We allow only hunters to use all-terrain vehicles (ATVs) and only from September 1 through March 31, except that during the State Conservation Order, hunters may use ATVs for hunting applicable goose species.

(xiv) Hunters may use conventional motor vehicles, ATVs, bicycles, and e-bikes only on public use roads, levee tops, designated ATV trails (open to ATVs only), and established parking lots not closed by a locked gate, other barrier, or signage.

(xv) Hunters and anglers may use conventional motor vehicles only in the Bison, Waterfowl Sanctuary, and Core Waterfowl Area Hunt Units and only from March 1 through November 14.

(xvi) From November 15 through February 28, we close the Core Waterfowl Area Hunt Unit to all hunting, fishing, and public entry at 1 p.m. daily, except that during the State Conservation Order, you may hunt applicable goose species in this Unit until legal sunset.

(xvii) We prohibit the use of personal watercraft (e.g., jet skis), airboats, and hovercraft for hunting and fishing on the refuge.

(2) Upland game hunting. We allow hunting of squirrel, rabbit, quail, raccoon, opossum, beaver, muskrat, nutria, river otter, mink, bobcat, fox, striped skunk, and coyote on designated areas of the refuge subject to the following conditions:

(i) The conditions set forth at paragraphs (a)(1)(i), (ii), (viii), (ix), and (xi) through (xvii) of this section apply.

(ii) Hunters may use shotguns, rifles and handguns chambered for rimfire cartridges, air rifles, and archery tackle.

(iii) We allow squirrel, rabbit, opossum, raccoon, and quail hunting according to season dates and bag limits provided in the annual refuge public use brochure.

(iv) We allow the use of dogs when hunting upland game.

(v) Hunters may enter the refuge beginning at 4 a.m. and must exit the refuge by 1 hour after legal sunset, except that we allow hunting of raccoon and opossum at night (from 30 minutes after legal sunset to 30 minutes before legal sunrise) on the refuge.

(vi) We prohibit hunting from a vehicle.

(3) Big game hunting. We allow hunting of deer and turkey, and the incidental take of feral hog, on designated areas of the refuge subject to the following conditions:

(i) The conditions set forth at paragraphs (a)(1)(i), (ii), (viii), (ix), and (xi) through (xvii), (2)(v), and (2)(vi) of this section apply.

(ii) We allow archery/crossbow, modern gun, and muzzleloader deer hunting according to season dates and bag limits provided in the annual refuge public use brochure.

(iii) Turkey hunting will be conducted in the Bison, Waterfowl Sanctuary, and Mingo Creek Hunt Units according to season dates and bag limits provided in the annual refuge public use brochure.

(iv) Hunters may use only shotguns with slugs, muzzleloaders, handguns with barrel lengths greater than 4 inches, large-bore air rifles, and archery/crossbow tackle for modern gun deer hunting on the Bison, Core Waterfowl Area, and Waterfowl Sanctuary Hunt Units.

(v) You may erect portable stands and blinds 7 days prior to the refuge deer season and must remove them from the waterfowl sanctuary prior to November 15, except for stands used by quota gun deer hunters, which you must remove by the last day of the quota gun deer hunt (see § 27.93 of this chapter). You must remove all stands on the remainder of the refuge within 7 days of the closure of archery season (see § 27.93 of this chapter).

(vi) We prohibit leaving any tree stand, blind, or game camera on the refuge without the owner's Arkansas Game and Fish Commission customer identification number clearly written on it in a conspicuous location.

(vii) We prohibit the possession or use of lead shot and buckshot for deer hunting. We allow lead shot for turkey hunting.

(viii) During the quota gun deer hunt, we allow only hunters possessing a valid quota gun deer hunting permit (FWS Form 3-2439) on the refuge and only for the purposes of deer hunting and the incidental take of allowable species.

(ix) Hunters may only take feral hog incidental to modern gun and muzzleloader deer hunts and during specified periods for archery deer hunting according to season dates provided in the annual refuge public use brochure.

(x) We prohibit the use of dogs for deer hunting.

(xi) During the quota turkey hunts, only hunters possessing a valid quota turkey hunting permit (FWS Form 3-2439) will be allowed to enter the open hunt units and only for the purposes of turkey hunting.

(4) Sport fishing. We allow sport fishing, frogging, and crawfishing on designated areas of the refuge subject to the following conditions:

(i) The conditions set forth at paragraph (a)(1)(ii), (xi), (xv) through (xvii), and (a)(3)(viii) and (xi) of this section apply.

(ii) We prohibit the take or possession of turtles and/or mollusks (see § 27.21 of this chapter).

(iii) We allow fishing, frogging, and crawfishing for personal use only. All crawfish traps must have the owner's Arkansas Game and Fish Commission license customer identification number permanently affixed.

(iv) You may enter the refuge to fish, frog, or crawfish beginning at 4 a.m. and must exit by 1 hour after legal sunset.

(v) We prohibit tournament fishing on the refuge.

(b) Big Lake National Wildlife Refuge. (1) [Reserved]

(2) Upland game hunting. We allow hunting of squirrel, rabbit, quail, raccoon, nutria, coyote, beaver, muskrat, river otter, mink, bobcat, fox, striped skunk, and opossum on designated areas of the refuge subject to the following conditions:

(i) We require a signed refuge hunt permit (FWS Form 3-2439). Anyone on the refuge in possession of hunting equipment must sign and possess the permit (FWS Form 3-2439) at all times.

(ii) During the quota gun deer hunt, we close the refuge to all other hunts and public entry.

(iii) We allow incidental take of nutria, beaver, muskrat, river otter, mink, bobcat, fox, striped skunk, and coyote during any refuge hunt with the weapons legal for that hunt, subject to applicable State seasons and regulations.

(iv) We allow squirrel, rabbit, raccoon, opossum, and quail hunting according to season dates and bag limits provided in the annual refuge public use brochure.

(v) We allow the use of dogs only for squirrel, rabbit, and quail hunting in the refuge area north of Timm's Point.

(vi) Hunters may only use shotguns, rifles and handguns chambered for rimfire cartridges, air rifles, and archery tackle.

(vii) We prohibit hunting from mowed and/or gravel road rights-of-way.

(viii) Hunters may enter the refuge beginning at 4 a.m. and must exit the refuge by 1 hour after legal sunset, except that we allow hunting of raccoon and opossum at night (from 30 minutes after legal sunset to 30 minutes before legal sunrise) on the refuge.

(ix) All hunters age 11 and younger who possess valid hunter education certification must remain within normal sight and voice contact with an adult age 18 or older who possesses a valid State hunting license. Hunters age 15 and younger who have not completed hunter education must be under the direct supervision (within arm's reach) of an adult age 21 or older who possesses a valid State hunting license. One adult may supervise up to two youth hunters for upland game hunting, but may supervise only one youth during big game hunting.

(x) From November 1 to February 28, we close all waterfowl sanctuaries to all hunting and public entry.

(xi) Hunters and anglers may not leave motor vehicles, bicycles, e-bikes, or boats overnight on the refuge.

(xii) We only allow use of all-terrain vehicles (ATVs) by hunters with mobility-impairments, and the refuge manager must authorize this use in writing.

(xiii) Hunters and anglers may use motor vehicles, bicycles, and e-bikes only on public use roads not closed by a locked gate, other barrier, or signage.

(xiv) From November 1 through February 28, boat access is restricted to launching at Seven Mile boat ramp and using Ditch 28 only.

(xv) We prohibit the use of personal watercraft (e.g., jet skis), airboats, and hovercraft for hunting and fishing on the refuge.

(xvi) We prohibit hunting from a vehicle.

(3) Big game hunting. We allow hunting of white-tailed deer, turkey, and incidental take of feral hog on designated areas of the refuge subject to the following conditions:

(i) The conditions set forth at paragraphs (b)(2)(i) through (iii), and (vii) through (xvi) of this section apply.

(ii) We allow archery/crossbow, modern gun, and muzzleloader deer hunting according to season dates and bag limits provided in the annual refuge public use brochure.

(iii) Modern gun deer hunters may only use shotguns with slugs, muzzleloaders, handguns with barrel lengths greater than 4 inches, large-bore air rifles, and archery/crossbow tackle.

(iv) You may erect portable stands or blinds 7 days prior to the refuge deer season and must remove them 7 days after the closure of archery season (see § 27.93 of this chapter).

(v) We prohibit leaving any tree stand, blind, or game camera on the refuge without the owner's Arkansas Game and Fish Commission customer identification number clearly written on it in a conspicuous location.

(vi) Hunters may only take feral hog incidental to modern gun and muzzleloader deer hunts and during a specified period during archery deer hunting according to season dates provided in the annual refuge public use brochure.

(vii) We prohibit the possession or use of lead shot or buckshot for deer hunting. We allow lead shot for turkey hunting.

(viii) Turkey hunting is conducted according to season dates and bag limits provided in the annual refuge public use brochure.

(ix) During the quota gun deer hunts, only hunters possessing a valid quota gun deer permit (FWS Form 3-2439) may use the refuge and only for the purposes of deer hunting and the incidental take of allowable species.

(x) During the quota gun turkey hunts, we close the refuge Wildlife Auto Drive Road to other hunting and public entry, and only hunters possessing a valid quota gun turkey permit (FWS Form 3-2439) may use that area of the refuge and only for the purposes of turkey hunting.

(xi) We prohibit the use of dogs for deer hunting.

(4) Sport fishing. We allow sport fishing, frogging, and crawfishing on designated areas of the refuge subject to the following conditions:

(i) The conditions set forth at paragraphs (b)(2)(ii), (x), (xi), (xii) through (xv), and (b)(3)(ix) and (x) of this section apply.

(ii) Anglers may launch boats only in designated areas.

(iii) We allow frogging and crawfishing for personal use only. All crawfish traps must have the owner's Arkansas Game and Fish Commission license customer identification number permanently affixed.

(iv) We prohibit the take or possession of turtles and/or mollusks (see § 27.21 of this chapter).

(v) We allow fishing, frogging, and crawfishing on all refuge waters from March 1 through October 31.

(vi) We allow fishing in the Sand Slough-Mud Slough area from November 1 through February 28 only with the use of nonmotorized boats and electric trolling motors; anglers may enter this area at 4 a.m. and must depart by 1 hour after legal sunset.

(vii) We prohibit climbing onto or fishing from any water control structure and associated wingwalls and fences, or the top of the Floodway Dam south of Highway 18.

(viii) We prohibit tournament fishing on the refuge.

(c) Cache River National Wildlife Refuge—(1) Migratory game bird hunting. We allow hunting of duck, goose, coot, merganser, snipe, woodcock, rail, gallinule, crow, and dove on designated areas of the refuge subject to the following conditions:

(i) We require a signed refuge hunting permit (FWS Form 3-2439). Anyone on the refuge in possession of hunting equipment must sign and possess the permit (FWS Form 3-2439) at all times.

(ii) Hunters may enter the refuge beginning at 4 a.m. Except when hunting applicable goose species during the State Conservation Order, waterfowl hunters must exit the refuge by 1 p.m. All other hunters, including those hunting applicable goose species during the State Conservation Order, must exit the refuge no later than 1 hour after legal sunset.

(iii) We allow waterfowl hunting until 12 p.m. (noon), except that during the State Conservation Order, you may hunt for applicable goose species until legal sunset.

(iv) You must remove decoys, blinds, boats, and all other equipment at the end of each day's hunt (see § 27.93 of this chapter).

(v) From March 1 through October 31, hunters and anglers may leave boats displaying valid registration on the refuge.

(vi) During the regular State waterfowl hunting season, we prohibit the use of boats on the refuge from 12 a.m. (midnight) to 4 a.m.

(vii) We allow the use of dogs when migratory game bird hunting.

(viii) We allow waterfowl hunting on flooded refuge roads.

(ix) During the quota gun deer hunt, we close the refuge to all other hunts and public entry, unless the refuge is closed to deer hunting at that time due to implementation of State flood closure zone regulations.

(x) All hunters age 11 and younger who possess valid hunter education certification must remain within normal sight and voice contact with an adult age 18 or older who possesses a valid State hunting license. Hunters age 15 and younger who have not completed hunter education must be under the direct supervision (within arm's reach) of an adult age 21 or older who possesses a valid State hunting license. One adult may supervise up to two youth hunters for migratory bird and upland game hunting, but may supervise only one youth during big game hunting.

(xi) We allow incidental take of beaver, muskrat, nutria, river otter, mink, bobcat, fox, striped skunk, and coyote during any refuge hunt with the weapons legal for that hunt, subject to applicable State season and regulations.

(xii) From November 15 to February 28, we close all waterfowl sanctuaries to all hunting and public entry.

(xiii) We allow only hunters to use all-terrain vehicles (ATVs) and only from September 1 through March 31, except that during the State Conservation Order, hunters may use ATVs for hunting applicable goose species.

(xiv) Hunters and anglers may not operate conventional motor vehicles, ATVs, bicycles, or e-bikes on any road or trail closed by a locked gate, other barrier, or signage.

(xv) Hunter and anglers may not leave motor vehicles, ATVs, bicycles, or e-bikes unattended overnight on the refuge.

(xvi) We prohibit the use of personal watercraft (e.g., jet skis), airboats, and hovercraft for hunting and fishing on the refuge.

(2) Upland game hunting. We allow hunting of squirrel, rabbit, quail, raccoon, opossum, beaver, muskrat, nutria, river otter, mink, bobcat, fox, striped skunk, and coyote on designated areas of the refuge subject to the following conditions:

(i) The conditions set forth at paragraphs (c)(1)(i), (v), (vi), and (ix) through (xvi) of this section apply.

(ii) We allow squirrel, rabbit, raccoon, opossum, and quail hunting according to season dates and bag limits provided in the annual refuge public use brochure.

(iii) We allow the use of dogs when hunting upland game.

(iv) We prohibit hunting from mowed and/or graveled road rights-of-way.

(v) Hunters may use only shotguns, rifles and handguns chambered for rimfire cartridges, air rifles, and archery tackle.

(vi) Hunters may enter the refuge beginning at 4 a.m. and must exit the refuge by 1 hour after legal sunset, except that we allow hunting of raccoon and opossum at night (from 30 minutes after legal sunset to 30 minutes before legal sunrise) on the refuge.

(vii) We prohibit hunting from a vehicle.

(3) Big game hunting. We allow hunting of deer and turkey, and incidental take of feral hog, on designated areas of the refuge subject to the following conditions:

(i) The conditions set forth at paragraphs (c)(1)(i), (v), (vi), and (ix) through (xvi), and (c)(2)(iv), (vi) and (vii) of this section apply.

(ii) We allow archery/crossbow, modern gun, and muzzleloader deer hunting according to season dates and bag limits provided in the annual refuge public use brochure.

(iii) Hunters may take only feral hog incidental to modern gun and muzzleloader deer hunts and during a specified period during archery deer hunting according to season dates provided in the annual refuge public use brochure.

(iv) Hunters may only use shotguns with slugs, muzzleloaders, handguns with barrel lengths greater than 4 inches, large-bore air rifles, and archery/crossbow tackle for modern gun deer hunting on the Dixie, Dixie Waterfowl Sanctuary, and Plunkett Farm Waterfowl Sanctuary Hunt Units.

(v) You may erect portable stands or blinds 7 days prior to the refuge deer season, and you must remove them from the waterfowl sanctuaries prior to November 15, and from the rest of the refuge within 7 days of the closure of archery season (see § 27.93 of this chapter).

(vi) We prohibit leaving any tree stand, blind, or game camera on the refuge without the owner's Arkansas Game and Fish Commission customer identification number clearly written on it in a conspicuous location.

(vii) We prohibit the possession or use of lead shot and buckshot for deer hunting. We allow lead shot for turkey hunting.

(viii) During the quota gun deer hunt, we allow only hunters possessing a valid quota gun deer hunting permit (FWS Form 3-2439) on the refuge and only for the purposes of deer hunting and the incidental take of allowable species.

(ix) Turkey hunting will be conducted in designated areas according to season dates and bag limits provided in the annual refuge public use brochure.

(x) We prohibit the use of dogs for deer hunting.

(4) Sport fishing. We allow sport fishing, frogging, and crawfishing on designated areas of the refuge subject to the following conditions:

(i) The conditions set forth at paragraphs (c)(1)(v), (vi), (ix), (xii), (xiv) through (xvi), and (c)(3)(viii) of this section apply.

(ii) We prohibit the take or possession of turtles and/or mollusks (see § 27.21 of this chapter).

(iii) We allow frogging and crawfishing for personal use only. All crawfish traps must have the owner's Arkansas Game and Fish Commission license customer identification number permanently affixed.

(iv) We prohibit tournament fishing on the refuge.

(d) Dale Bumpers White River National Wildlife Refuge—(1) Migratory game bird hunting. We allow hunting of waterfowl (duck, goose, merganser, and coot), dove, and woodcock on designated areas of the refuge subject to the following conditions:

(i) We require an annual public use permit (FWS Form 3-2439) to hunt, fish, launch boats, and utilize campgrounds.

(ii) We allow waterfowl hunting from legal shooting hours until 12 p.m. (noon).

(iii) We allow the use of dogs when migratory game bird hunting.

(iv) We allow woodcock hunting beginning December 1 until the end of the State woodcock season on the North Unit following State legal shooting hours and bag limit.

(v) We prohibit goose hunting outside the State duck season.

(vi) We allow dove hunting only during the Statewide season in September and October, as specified in the refuge public use brochure.

(vii) You must remove blinds, blind material, and decoys from the refuge by 1 p.m. each day (see § 27.93 of this chapter).

(viii) Waterfowl hunters may enter the North Unit, Jack's Bay Hunt Area, and Levee Hunt Area no earlier than 4 a.m. on days hunting is allowed, as identified in the refuge public use brochure.

(ix) We prohibit boating from November 1 to March 1 in the South Unit Waterfowl Hunt Areas, except from 4 a.m. to 1 p.m. on designated waterfowl hunt days.

(x) We allow waterfowl hunting on outlying tracts; the conditions set forth at paragraphs (d)(1)(ii), (vii), and (viii) of this section apply.

(xi) We only allow all-terrain vehicles (ATVs) for wildlife-dependent hunting and fishing activities. We prohibit the use of ATVs after December 15 each year in designated South Unit areas as shown in the refuge public use brochure.

(xii) We allow incidental take of beaver, coyote, and nutria during any refuge hunt with the weapons legal for that hunt, subject to applicable State seasons and regulations.

(xiii) During refuge-wide quota muzzleloader and quota gun deer hunts, we close the refuge to all non-quota hunting.

(xiv) All youth hunters age 15 and younger must remain within sight and normal voice contact of an adult age 21 or older who possesses a valid State hunting license. One adult may supervise no more than two youth hunters.

(2) Upland game hunting. We allow hunting of squirrel, rabbit, and all furbearers (as governed by State law), and the incidental take of beaver, coyote, and nutria, on designated areas of the refuge subject to the following conditions:

(i) The conditions set forth at paragraphs (d)(1)(i), and (xi) through (xiv) of this section apply.

(ii) We allow hunting of rabbit and squirrel on the North Unit from September 1 through January 31.

(iii) On the North Unit only, we allow the use of dogs when hunting rabbit and squirrel from December 1 through January 31.

(iv) We allow rabbit and squirrel hunting on the South Unit from September 1 through November 30.

(v) We allow furbearer hunting. The annual public use brochure provides season dates and methods.

(vi) We allow the use of dogs for hunting furbearers from legal sunset to legal sunrise. Hunters must tether or pen all dogs used for furbearer hunting from legal sunrise to legal sunset and at any time they are not involved in actual hunting.

(3) Big game hunting. We allow the hunting of white-tailed deer and turkey, and the incidental take of feral hog, on designated areas of the refuge subject to the following conditions:

(i) The conditions set forth at paragraphs (d)(1)(i), (ix), and (xi) through (xiii) of this section apply.

(ii) Archery deer seasons on the North Unit are from October 1 through January 31, except during quota muzzleloader and quota gun deer hunts, when the archery season is closed.

(iii) Archery deer seasons on the South Unit are from October 1 through December 31, except during quota muzzleloader and quota gun deer hunts, when the archery season is closed.

(iv) Muzzleloader season for deer will begin in October and will continue for a period of up to 3 days of quota hunting in the North and South Units, and no more than 4 days of non-quota hunting in the North Unit.

(v) The gun deer hunt will begin in November and will continue for a period of no more than 3 days of quota hunting in the North and South Units, and no more than 2 days of non-quota hunting in the North Unit.

(vi) We restrict hunt participants for quota hunts to those drawn for a quota permit (FWS Form 3-2439). The permits are nontransferable and nonrefundable.

(vii) Hunters may only take feral hog incidental to deer season dates identified in the refuge public use brochure.

(viii) We prohibit organized deer drives. We define a “deer drive” as an organized or planned effort to pursue, drive, chase, or otherwise frighten or cause deer to move in the direction of any person(s) who is part of the organized or planned hunt and known to be waiting for the deer.

(ix) We prohibit firearm deer hunting from or across roads, ATV trails, levees, and maintained utility rights-of-way.

(x) You may only use portable deer stands and ground blinds. You may erect stands or blinds up to 7 days before each hunt, but you must remove them within 7 days after each hunt (see § 27.93 of this chapter). All unattended deer stands and blinds on the refuge must have the owner's State hunting license number clearly displayed.

(xi) We close the Kansas Lake Area to all entry on December 1 and reopen it on March 1.

(xii) We prohibit the possession of buckshot on the refuge.

(xiii) An adult age 21 or older possessing a valid hunting license must accompany and be within sight and normal voice contact of hunters age 15 and younger. One adult may supervise no more than one youth hunter.

(xiv) The annual refuge public use brochure provides season dates and methods for turkey hunting.

(4) Sport fishing. We allow sport fishing, frogging, and crawfishing on designated areas of the refuge subject to the following conditions:

(i) The conditions set forth at paragraphs (d)(1)(i) and (ix) of this section apply.

(ii) We allow sport fishing in refuge-owned waters as follows:

(A) We allow fishing year-round in:

(1) Big Island Chute, LaGrue, Essex, Prairie, Scrubgrass, and Brooks Bayous;

(2) Moon and Belknap Lakes next to Arkansas Highway 1;

(3) Indian Bay;

(4) Arkansas Post Canal and adjacent drainage ditches;

(5) Borrow ditches located adjacent to the west bank of that portion of the White River Levee north of the Graham Burke pumping station; and

(6) All waters in the refuge-owned North Unit and scattered tracts.

(B) We open all other South Unit refuge waters to sport fishing from March 1 through November 30, unless posted otherwise.

(iii) We allow frogging on all refuge-owned waters open for sport fishing as follows:

(A) We allow frogging on the South Unit from the beginning of the State season through November 30.

(B) We allow frogging on the North Unit for the entire State season.

(iv) We prohibit all commercial and recreational harvest of turtle on all property administered by Dale Bumpers White River National Wildlife Refuge (see § 27.21 of this chapter).

(v) We prohibit take or possession of any freshwater mussel (see § 27.21 of this chapter), and we prohibit the shelling of mussels on the refuge.

(vi) Boats (16 feet or less) displaying valid registration or Arkansas Game and Fish Commission's license customer identification number may be left on the refuge from March 1 through October 31.

(e) Felsenthal National Wildlife Refuge—(1) Migratory game bird hunting. We allow hunting of American woodcock, duck, light and dark goose, merganser, and coot on designated areas of the refuge subject to the following conditions:

(i) Hunters and anglers must possess and carry a signed refuge public use brochure while hunting or fishing.

(ii) Waterfowl hunters may enter the refuge beginning at 4 a.m. We allow waterfowl hunting until 12 p.m. (noon).

(iii) Hunters must remove decoys, blinds, boats, and all other equipment by 1 p.m. each day (see § 27.93 of this chapter).

(iv) We close areas of the refuge posted with “Area Closed” signs and identify them on the refuge public use brochure map as a waterfowl sanctuary. We close waterfowl sanctuaries to all public entry and public use from November 15 to February 15.

(v) We allow hunting of duck, light and dark goose, merganser, and coot during the State waterfowl season except during scheduled refuge quota gun deer hunts.

(vi) We allow American woodcock hunting during the State season except during scheduled refuge quota hunts. Woodcock hunters may enter the refuge beginning at 4 a.m. and must exit by 1 hour after legal sunset.

(vii) All youth hunters age 15 and younger must remain within sight and normal voice contact of an adult age 21 or older who possesses a valid State hunting license. One adult may supervise no more than two youth hunters.

(viii) We allow only all-terrain vehicles/utility-type vehicles (ATVs/UTVs) for hunting and fishing activities according to regulations provided in the refuge public use brochure.

(ix) You may use bikes, horses, and mules on roads and ATV/UTV trails (when open to motor vehicle and ATV/UTV traffic, respectively) as a mode of transportation for hunting and fishing activities on the refuge except during the quota deer hunts.

(x) We prohibit hunting within 150 feet (45 meters) of roads, pipelines, and trails open to motor vehicle use (including ATV/UTV trails).

(xi) We allow the incidental take of beaver, nutria, and coyote during any daytime refuge hunt with weapons and ammunition allowed for that hunt. There is no bag limit.

(xii) We allow the use of dogs when hunting.

(2) Upland game hunting. We allow hunting of quail, squirrel, rabbit, raccoon, and opossum (as governed by State law), and incidental take of beaver, nutria, and coyote, on designated areas of the refuge subject to the following conditions:

(i) The conditions set forth at paragraphs (e)(1)(i), (iv), and (vii) through (xi) of this section apply.

(ii) We allow hunting for quail, squirrel, rabbit, raccoon, and opossum on the refuge during State seasons through January 31. We close upland game hunting during refuge quota gun deer hunts.

(iii) We do not open for the spring squirrel hunting season, or for the summer/early fall raccoon hunting season.

(iv) We allow the use of dogs for squirrel and rabbit hunting from December 1 through January 31, and for quail and raccoon/opossum hunting during the open season on the refuge for these species.

(3) Big game hunting. We allow hunting of white-tailed deer and turkey, and incidental take of feral hog, on designated areas of the refuge subject to the following conditions:

(i) The conditions set forth at paragraphs (e)(1)(i), (iv), and (viii) through (xi) of this section apply.

(ii) We allow archery deer hunting on the refuge from the opening of the State season through January 31, except during refuge deer quota hunts.

(iii) We allow muzzleloader and modern gun deer hunting during designated times and seasons, within specified State seasons as listed in the refuge public use brochure.

(iv) Total deer harvested refuge-wide is two deer (two does, or one buck and one doe, as governed by State law) regardless of method. A doe must be harvested before a buck.

(v) We prohibit buckshot for modern gun deer hunting.

(vi) You may only use portable deer stands erected no earlier than the opening day of archery season, and you must remove them no later than January 31 each year (see § 27.93 of this chapter).

(vii) We prohibit the use of deer decoy(s).

(viii) Turkey hunting (Archery, Youth, and Quota) will be conducted during designated times and seasons, within specified State seasons as listed in the refuge public use brochure.

(ix) We restrict quota hunt participants to those selected for a quota permit (FWS Form 3-2439), except that one nonhunting adult age 21 or older possessing a valid hunting license must accompany the youth hunter age 15 and younger.

(x) An adult age 21 or older possessing a valid hunting license must accompany and be within sight and normal voice contact of hunters age 15 and younger. One adult may supervise no more than one youth hunter.

(xi) We allow the use of one tree stand or ground blind, and one game camera, on the refuge if the owner's State hunting license number is clearly written on them in a conspicuous location.

(xii) We restrict hunt participants for quota hunts to those drawn for a quota permit (FWS Form 3-2439). These permits are nontransferable, and the permit fees are nonrefundable.

(xiii) The incidental taking of feral hogs will be governed by Arkansas Game and Fish Commission regulations concerning the taking of feral hogs on State Wildlife Management Areas (WMAs). Subject to State regulations, we allow incidental take of feral hogs during daytime refuge deer quota hunts (without the use of dogs) and during a specified period during archery deer hunting with legal hunting equipment and ammunition allowed for those hunts according to the season dates provided in the refuge public use brochure. There is no bag limit.

(4) Sport fishing. We allow sport fishing, frogging, and crawfishing on designated areas of the refuge subject to the following conditions:

(i) The conditions set forth at paragraphs (e)(1)(i), (iii), (iv), (viii), and (ix) of this section apply.

(ii) We prohibit fishing in the waterfowl sanctuary area when the sanctuary is closed, with the exception of the main channel of the Ouachita and Saline Rivers and the borrow pits along Highway 82. We post the waterfowl sanctuary area with “Area Closed” signs and identify those areas in refuge hunt brochures.

(iii) During the refuge quota gun deer hunts, we allow fishing only in areas accessible from the Ouachita and Saline Rivers and from Eagle, Jones, and Pereogeethe Lakes.

(iv) You must move or remove trotlines when receding water levels expose them.

(v) We allow frogging and crawfishing for personal use only during designated times and seasons, within specified State seasons as listed in the refuge public use brochure.

(vi) We prohibit the take or possession of turtles and/or mollusks (see § 27.21 of this chapter).

(f) Holla Bend National Wildlife Refuge. (1) [Reserved]

(2) Upland game hunting. We allow hunting of squirrel, rabbit, quail, raccoon, opossum, beaver, muskrat, nutria, river otter, mink, fox, striped skunk, coyote, and bobcat on designated areas of the refuge subject to the following conditions:

(i) We require a signed refuge hunting permit (FWS Form 3-2439). Anyone on the refuge in possession of hunting equipment must sign and possess the permit (FWS Form 3-2439) at all times.

(ii) We allow squirrel, rabbit, raccoon, opossum, and quail hunting according to season dates and bag limits provided in the annual refuge public use brochure.

(iii) We only allow use of all-terrain vehicles (ATVs) by hunters and anglers with mobility impairments, and the refuge manager must authorize this use in writing.

(iv) Hunters and anglers may use boats in designated areas and at times provided in the annual refuge public use brochure.

(v) All hunters age 11 and younger who possess valid hunter education certification must remain within normal sight and voice contact with an adult age 18 or older who possesses a valid State hunting license. Hunters age 15 and younger who have not completed hunter education must be under the direct supervision (within arm's reach) of an adult age 21 or older who possesses a valid State hunting license. One adult may supervise up to two youth hunters for upland game hunting, but may supervise only one youth during big game hunting.

(vi) During the quota youth gun deer and turkey hunts, we close the refuge to all other hunting and public entry.

(vii) We allow incidental take of beaver, muskrat, nutria, river otter, mink, bobcat, fox, striped skunk, and coyote during any refuge hunt with the weapons legal for that hunt, subject to applicable State seasons and regulations.

(viii) Hunters and anglers may use bicycles and e-bikes only on public use roads and designated trails not closed by a locked gate, other barrier, or signage.

(ix) During the mentored youth squirrel and rabbit hunts, the mentoring adult may supervise up to two hunting youths. Youth hunters may only use shotguns, rifles and handguns chambered for rimfire cartridges, air rifles, and archery tackle. We prohibit adults from hunting during mentored hunts.

(x) Hunters must enter and exit the refuge from designated roads and parking lots only.

(xi) We limit raccoon and opossum hunting to nighttime hunting only.

(xii) Hunter and anglers may not leave motor vehicles, bicycles, e-bikes, or boats unattended overnight on the refuge.

(xiii) We prohibit hunting from a vehicle.

(xiv) We prohibit the use of personal watercraft (e.g., jet skis), airboats, and hovercraft for hunting and fishing on the refuge.

(3) Big game hunting. We allow hunting of deer, black bear, and turkey on designated areas of the refuge subject to the following conditions:

(i) The conditions set forth at paragraphs (f)(2)(i), (iii) through (viii), (x), and (xii) through (xiv) of this section apply.

(ii) We allow archery/crossbow hunting for white-tailed deer and turkey according to season dates and bag limits provided in the annual refuge public use brochure.

(iii) Youth modern gun deer hunts will be conducted according to season dates and bag limits provided in the refuge public use brochure.

(iv) We allow the take of black bear incidental to refuge archery and modern gun deer hunts subject to applicable State seasons and regulations.

(v) The refuge will conduct youth-only quota spring gun turkey hunts according to season dates and bag limits provided in the refuge public use brochure.

(vi) You may erect portable stands or blinds 7 days before the start of the season, and you must remove them from the refuge within 7 days after the season ends (see § 27.93 of this chapter).

(vii) We prohibit leaving any tree stand, blind, or game camera on the refuge without the owner's Arkansas Game and Fish Commission customer identification number clearly written on it in a conspicuous location.

(viii) We prohibit organized drives. We define a “drive” as an organized or planned effort to pursue, drive, chase, or otherwise frighten or cause game to move in the direction of any person(s) who is part of the organized or planned hunt and known to be waiting for the game.

(ix) You must check all harvested turkey, bear, and deer at the refuge check station.

(x) We prohibit the use of dogs for deer hunting.

(xi) Big game hunters may enter the refuge 1 hour before legal sunrise and must exit by 1 hour after legal sunset.

(4) Sport fishing. We allow sport fishing, frogging, and crawfishing on designated areas of the refuge subject to the following conditions:

(i) The conditions set forth at paragraphs (f)(2)(iii), (iv), (vi), (viii), (xii), and (xiv) of this section apply.

(ii) We allow fishing, frogging, and crawfishing on all waters only from March 1 through October 31 from legal sunrise to legal sunset.

(iii) Anglers must remove boats from the refuge at the end of each day's fishing activity (see § 27.93 of this chapter).

(iv) We prohibit the take or possession of turtles and/or mollusks (see § 27.21 of this chapter).

(v) We allow frogging and crawfishing for personal use only. All crawfish traps must have the owner's Arkansas Game and Fish Commission license customer identification number permanently affixed.

(vi) We prohibit access to refuge waters and land from the Arkansas River.

(vii) We limit trotlines, setline, limblines, yo-yo and free-floating fishing devices to 20 per person; any line that extends into the water must be cotton.

(viii) Trotlines, setlines, limblines, yo-yos, and free-floating fishing devices must be clearly labelled with the angler's Arkansas Game and Fish Commission license customer identification number, and cannot be left overnight or unattended.

* * * * *

(i) Wapanocca National Wildlife Refuge. (1) [Reserved]

(2) Upland game hunting. We allow hunting of squirrel, rabbit, raccoon, nutria, beaver, coyote, quail, muskrat, river otter, mink, bobcat, fox, striped skunk, and opossum on designated areas of the refuge subject to the following conditions:

(i) We require a signed refuge hunting permit (FWS Form 3-2439). Anyone on the refuge in possession of hunting equipment must sign and possess the permit (FWS Form 3-2439) at all times.

(ii) Hunters may enter the refuge at 4 a.m. and must leave the refuge no later than 1 hour after legal sunset, except that we allow hunting of raccoon and opossum at night on the refuge.

(iii) During the quota gun hunts, we close the refuge to all other hunts and public entry.

(iv) We allow squirrel, rabbit, raccoon, opossum, and quail hunting according to season dates and bag limits provided in the annual refuge public use brochure.

(v) We allow the incidental take of nutria, beaver, muskrat, river otter, mink, bobcat, fox, striped skunk, and coyote during any refuge hunt with the weapons allowed for that hunt, subject to applicable State seasons and regulations.

(vi) Hunters may use only shotguns, rifles and handguns chambered for rimfire cartridges, air rifles, and archery tackle.

(vii) We prohibit hunting from mowed and/or gravel road rights-of-way.

(viii) All hunters age 11 and younger who possess valid hunter education certification must remain within normal sight and voice contact with an adult age 18 or older who possesses a valid State hunting license. Hunters age 15 and younger who have not completed hunter education must be under the direct supervision (within arm's reach) of an adult age 21 or older who possesses a valid State hunting license. One adult may supervise up to two youth hunters for upland game hunting, but may supervise only one youth during big game hunting.

(ix) From December 1 to February 28, we close all waterfowl sanctuaries (including Wapanocca Lake) to all hunting and public entry.

(x) We prohibit the use of all-terrain vehicles (ATVs), except that ATVs may be used by mobility-impaired hunters possessing written authorization issued by the refuge manager.

(xi) Hunters and anglers may use motor vehicles, bicycles, and e-bikes only on public use roads not closed by a locked gate, other barrier, or signage.

(xii) Hunters and anglers must use the public boat ramp on Highway 77 to launch motorized boats into Wapanocca Lake.

(xiii) Hunters and anglers must operate boats at speeds of less than 5 miles per hour between the Highway 77 boat launch and the open lake.

(xiv) We prohibit the use of personal watercraft (e.g., jet skis), airboats, and hovercraft for hunting and fishing on the refuge.

(xv) Hunter and anglers may not leave motor vehicles, bicycles, e-bikes, or boats unattended overnight on the refuge.

(xvi) We prohibit hunting from a vehicle.

(xvii) The Round Pond and Pygmon Units in St. Francis County are subject to all regulations for hunting and fishing for Wapanocca NWR.

(3) Big game hunting. We allow hunting of white-tailed deer and turkey, and incidental take of feral hog, on designated areas of the refuge subject to the following conditions:

(i) The conditions set forth at paragraphs (i)(2)(i) through (iii), (v), and (vii) through (xvii) of this section apply.

(ii) During the quota gun deer hunts, we allow only hunters possessing a valid quota gun deer hunting permit (FWS Form 3-2439) on the refuge and only for the purposes of deer hunting and the incidental take of allowable species.

(iii) You may erect portable stands or blinds 7 days prior to the refuge deer season, and you must remove them from the waterfowl sanctuaries by December 1 (see § 27.93 of this chapter). You must remove all stands and blinds on the remainder of the refuge within 7 days of the closure of archery season (see § 27.93 of this chapter).

(iv) We allow portable tree stands, blinds, and game cameras on the refuge only if the owner's Arkansas Game and Fish Commission customer identification number is clearly written on them in a conspicuous location.

(v) We allow archery/crossbow, muzzleloader, and modern gun deer hunting according to season dates and bag limits provided in the annual refuge public use brochure.

(vi) Hunters may only use shotguns with slugs, muzzleloaders, handguns with barrel lengths longer than 4 inches, large-bore air rifles, and archery/crossbow tackle for modern gun deer hunting.

(vii) Hunters may only take feral hog incidental to modern gun and muzzleloader deer hunts and during a specified period during archery deer hunting according to season dates provided in the annual refuge public use brochure.

(viii) The annual refuge public use brochure provides season dates and bag limits for turkey hunting.

(ix) We prohibit the possession or use of lead shot or buckshot for deer hunting. We allow lead shot for turkey hunting.

(x) We prohibit the use of dogs for deer hunting.

(4) Sport fishing. We allow sport fishing, frogging, and crawfishing on designated areas of the refuge subject to the following conditions:

(i) The conditions set forth at paragraphs (i)(2)(iii), (ix), (x) through (xv), and (xvii), and (i)(3)(ii) of this section apply.

(ii) From March 1 through November 30, we allow fishing, frogging, and crawfishing on all refuge waters. From December 1 through February 28, we allow bank fishing only on Woody Pond and other non-waterfowl sanctuary areas.

(iii) Anglers, including those frogging and crawfishing, may enter the refuge at 4 a.m. and must leave the refuge no later than 1 hour after legal sunset.

(iv) We prohibit the take or possession of turtles and/or mollusks (see § 27.21 of this chapter).

(v) Anglers may launch boats only in designated areas.

(vi) We allow fishing, frogging, and crawfishing for personal use only. All crawfish traps must have the owner's Arkansas Game and Fish Commission license customer identification number permanently affixed.

(vii) We prohibit tournament fishing.

* * * * *

6. Amend § 32.24 by:

a. In paragraph (e)(1)(ii), in the first sentence, removing the word “A8N” and adding in its place the word “A8”; and

b. Revising paragraphs (e)(1)(vii) and (i)(1) introductory text to read as follows:

§ 32.24 California.

* * * * *

(e) * * *

(1) * * *

(vii) You may not possess more than 25 shot shells while in the field once you have left your assigned parking lot for Ponds AB1, A2E, AB2, A3N, A3W, A5, A7, and A8, and the Ravenswood Unit.

* * * * *

(i) * * *

(1) Migratory game bird hunting. We allow hunting of goose, duck, coot, snipe, and moorhen on designated areas of the refuge subject to the following conditions:

* * * * *

7. Amend § 32.27 by revising paragraphs (a)(1)(ii) and (b)(1)(ii) to read as follows:

§ 32.27 Delaware.

* * * * *

(a) * * *

(1) * * *

(ii) You must complete and return a Harvest Report (FWS Form 3-2542), available at the refuge administration office or on the refuge's website, within 15 days of the close of the season.

* * * * *

(b) * * *

(1) * * *

(ii) You must complete and return a Harvest Report (FWS Form 3-2542), available at the refuge administration office or on the refuge's website, within 15 days of the close of the season.

* * * * *

8. Amend § 32.28 by:

a. Revising paragraphs (e)(1) through (3);

b. Redesignating paragraphs (f) through (o) as paragraphs (g) through (p);

c. Adding a new paragraph (f); and

d. Revising newly redesignated paragraphs (j)(2)(i), (j)(3)(i), (j)(3)(vii), (k)(1)(x), (n)(3)(ii), (iv), and (viii).

The revisions and addition read as follows:

§ 32.28 Florida.

* * * * *

(e) * * * (1) Migratory game bird hunting. We allow hunting of migratory game birds and the incidental take of nonnative wildlife as defined by the State on designated areas of the refuge in accordance with State regulations and applicable State Wildlife Management Area regulations.

(2) Upland game hunting. We allow upland game hunting and the incidental take of nonnative wildlife as defined by the State on designated areas of the refuge in accordance with State regulations and applicable State Wildlife Management Area regulations.

(3) Big game hunting. We allow big game hunting and the incidental take of nonnative wildlife as defined by the State on designated areas of the refuge in accordance with State regulations and applicable State Wildlife Management Area regulations.

* * * * *

(f) Florida Panther National Wildlife Refuge. (1)-(2) [Reserved]

(3) Big game hunting. We allow hunting of turkey on designated areas of the refuge subject to the following conditions:

(i) We require a valid Florida Panther National Wildlife Refuge Big Game Quota Hunt Permit purchased through the Florida Fish and Wildlife Conservation Commission. The quota hunt permit is a limited entry quota permit, and is nontransferable.

(ii) You must have a valid signed Florida Panther NWR turkey hunt brochure, which is free and non-transferrable.

(iii) Each Big Game Quota Hunt Permit is issued for the take of 1 bearded turkey. A family hunt/camp experience permit is issued for take of 2 bearded turkeys.

(iv) We allow bows, crossbows, PCP air guns propelling a bolt or arrow, and shotguns using #2 or smaller shot size.

(v) We require an adult, age 18 or older, to supervise hunters age 15 and younger. The adult must remain within sight and normal voice contact of the youth hunter.

(vi) Hunters possessing a valid Big Game Quota Hunt Permit purchased through the Florida Fish and Wildlife Conservation Commission may access the refuge no earlier than 2 hours before legal sunrise and must leave the refuge no later than legal sunset. Hunters possessing a valid family hunt/camp experience permit may remain on the refuge overnight.

(vii) We allow hunting from ½ hour before legal sunrise until 1 p.m.

(viii) We allow only federally approved nontoxic shot (see § 32.2(k)).

(ix) We only allow permitted hunters participating in the limited entry quota hunt to operate off-road vehicles (swamp buggies, all-terrain/utility-type vehicles) on designated roads, trails, and firebreaks.

(x) We allow hunters with permits to scout 7 days prior to the individual's permitted hunt.

(4) Sport fishing. We allow fishing on designated areas of the refuge subject to the following conditions:

(i) We allow fishing from legal sunrise to legal sunset.

(ii) We only allow hook and line. We prohibit snatch hooks, cast nets, seines, trotlines, jugs, and yo-yos.

* * * * *

(j) * * *

(2) * * *

(i) The conditions set forth at paragraphs (j)(1)(i) through (viii) of this section apply.

* * * * *

(3) * * *

(i) The conditions set forth at paragraphs (j)(1)(i) through (viii) of this section apply.

* * * * *

(vii) Hunters must fill out a Harvest Report (FWS Form 3-2542) and check all game harvested during all deer and hog hunts.

* * * * *

(k) * * *

(1) * * *

(x) You must stop at a posted refuge waterfowl check station and report statistical hunt information on the Harvest Report (FWS Form 3-2542) to refuge personnel.

* * * * *

(n) * * *

(3) * * *

(ii) The conditions set forth at paragraphs (n)(2)(ii) and (iv) through (vii) of this section apply.

* * * * *

(iv) There is a two deer limit per hunt, as specified at paragraph (n)(3)(vi) of this section, except during the youth hunt, when the limit is as specified at paragraph (n)(3)(vii) of this section. The limit for turkey is one per hunt.

* * * * *

(viii) Mobility-impaired hunters may have an assistant accompany them. You may transfer permits (State-issued permit) issued to the hunter to assistants. We limit those hunt teams to harvesting white-tailed deer and feral hog within the limits provided at paragraph (n)(3)(vi) of this section.

* * * * *

9. Amend § 32.29 by revising paragraph (e)(3) to read as follows:

§ 32.29 Georgia.

* * * * *

(e) * * *

(3) Big game hunting. We allow hunting of white-tailed deer and turkey, and the incidental take of coyote, armadillo, and feral hog, on designated areas of the refuge subject to the following conditions:

(i) We require a signed refuge hunt permit (FWS Form 3-2439) for all hunters age 16 and older. Hunters must sign the permit and carry it with them at all times when hunting.

(ii) Each hunter may place one stand on the refuge during the week preceding each hunt, but must remove the stand by the end of each hunt (see § 27.93 of this chapter).

(iii) We prohibit hunting within 100 yards (91 meters) of Harris Neck Road, the refuge entrance drive, Visitor Contact Station/Office, Barbour River Landing, Barbour River Road, or Gould's Cemetery.

(iv) We require hunters to check-in and check-out each hunt day. We require personal identification to check-in and check-out.

(v) We require hunters to check all harvested game at the check station before leaving the refuge each day.

(vi) Hunters may take five deer (no more than two antlered), and we will issue State bonus tags for two of these.

(vii) During the gun hunt, we allow only shotguns (20 gauge or larger), muzzleloaders, bows, air rifles (.30 caliber or larger), and air bows, as governed by State regulations. We prohibit the use of centerfire rifles.

(viii) We allow the incidental take of armadillo, feral hog, and coyote during any refuge hunt with the weapons legal for that hunt, subject to applicable State seasons and regulations. There is no bag limit for these species.

(ix) The turkey hunt is a youth-only, archery hunt limited to 2 days per year. To participate in the turkey hunt, youth must complete an application (FWS Form 3-2439), submit the completed application to the refuge, and be selected by lottery. Each youth hunter selected by lottery to participate in the turkey hunt must possess a free signed refuge hunt brochure while hunting.

* * * * *

10. Amend § 32.31 by:

a. Revising paragraphs (b)(1) and (2);

b. Adding paragraph (b)(3); and

c. Revising paragraph (e)(4).

The revisions and addition read as follows:

§ 32.31 Idaho.

* * * * *

(b) * * * (1) Migratory game bird hunting. We allow hunting of duck, goose, coot, snipe, and dove on designated areas of the refuge subject to the following conditions:

(i) We allow hunters to access the refuge 1 hour before legal shooting time.

(ii) You may only use portable blinds or construct temporary blinds of natural vegetation. Blinds will be available for general use on a first-come, first-served basis. You must remove portable blinds, decoys, and other personal property at the end of each day's hunt (see § 27.93 of this chapter).

(iii) We allow the use of dogs when hunting.

(iv) You may take Eurasian collared-doves only during the State seasons for migratory birds and upland game birds.

(2) Upland game hunting. We allow hunting of pheasant, grouse, and partridge on designated areas of the refuge subject to the following conditions:

(i) The condition set forth at paragraph (b)(1)(iii) of this section applies.

(ii) We allow hunters to access the refuge ½ hour before legal shooting time.

(iii) Hunters must wear a minimum of 36 square inches (232.3 square centimeters) of blaze orange, and a blaze orange head covering.

(3) Big game hunting. We allow hunting of elk on designated areas of the refuge subject to the following conditions:

(i) The conditions set forth at paragraphs (b)(2)(ii) and (iii) of this section apply.

(ii) You must carry a signed copy of the refuge hunting regulations and hunt map (signed brochure) in the field while hunting.

* * * * *

(e) * * *

(4) Sport fishing. We allow sport fishing on designated areas of the refuge subject to the following conditions:

(i) We allow bank fishing only.

(ii) We prohibit launching boats from, and landing boats on, the banks of Deep Creek.

* * * * *

11. Amend § 32.32 by:

a. Revising paragraph (b)(4);

b. Removing paragraph (c)(1)(ii);

c. Redesignating paragraph (c)(1)(iii) as paragraph (c)(1)(ii);

d. Revising paragraph (c)(2)(i);

e. Removing paragraphs (c)(4)(i), (v), and (vi);

f. Redesignating paragraphs (c)(4)(ii) through (iv) as paragraphs (c)(4)(i) through (iii); and

g. Revising paragraphs (f)(1) through (3), (g)(2)(ii), (g)(3), (k)(2)(v), and (k)(3)(i).

The revisions read as follows:

§ 32.32 Illinois.

* * * * *

(b) * * *

(4) Sport fishing. We allow sport fishing on designated areas of the refuge subject to the following conditions:

(i) On Crab Orchard Lake west of Wolf Creek Road:

(A) Anglers may fish from boats all year.

(B) Anglers must remove all trotlines/jugs from legal sunrise until legal sunset from the Friday immediately prior to Memorial Day through Labor Day.

(ii) On Crab Orchard Lake east of Wolf Creek Road:

(A) Anglers may fish from boats March 1 through October 15.

(B) Anglers may fish all year at the Wolf Creek and Route 148 causeways.

(iii) On A-41 and Bluegill Ponds:

(A) Anglers may fish only from legal sunrise to legal sunset from March 1 through October 15.

(B) We prohibit anglers from using gas-powered boats.

(iv) On Managers, Honkers, and Visitors Ponds:

(A) Anglers may fish all year from legal sunrise to legal sunset.

(B) We prohibit anglers from using gas-powered boats.

(v) Trotlines/jugs:

(A) We prohibit the use of trotlines/jugs on all refuge waters outside of Crab Orchard Lake.

(B) We prohibit the use of trotlines/jugs with any flotation device that has previously contained any petroleum-based material or toxic substances.

(C) Anglers must attach a buoyed device that is visible on the water's surface to all trotlines.

(vi) Anglers may use all legal noncommercial fishing methods, except they may not use any underwater breathing apparatus.

(vii) Anglers may not submerge any poles or similar objects to take or locate any fish.

(viii) Organizers of all fishing events must possess a Special Use Permit (FWS Form 3-1383-G or FWS Form 3-1383-C).

(ix) We prohibit anglers from fishing within 250 yards (228 meters) of an occupied waterfowl hunting blind.

(x) Specific creel and size limits apply on various refuge waters as listed in the Crab Orchard fishing brochure and the annual Illinois fishing digest.

(c) * * *

(2) * * *

(i) The conditions set forth at paragraphs (c)(1)(i) and (ii) of this section apply.

* * * * *

(f) * * * (1) Migratory game bird hunting. We allow hunting of migratory game birds on designated areas of the refuge subject to the following conditions:

(i) You must remove personal belongings, including, but not limited to, all boats, decoys, blinds, blind materials, stands, and platforms brought onto the refuge at the end of each day's hunt (see §§ 27.93 and 27.94 of this chapter).

(ii) Hunters may enter the refuge no earlier than ½ hour before legal shooting hours and must exit the refuge no later than ½ hour after legal shooting hours.

(2) Upland game hunting. We allow upland game and turkey hunting on designated areas of the refuge subject to the following conditions:

(i) The conditions set forth at paragraphs (f)(1)(i) and (ii) of this section apply.

(ii) For hunting, you may use or possess only approved nontoxic shot shells while in the field, including shot shells used for hunting wild turkey (see § 32.2(k)).

(3) Big game hunting. We allow big game hunting on designated areas of the refuge subject to the following conditions:

(i) The conditions set forth at paragraphs (f)(1)(i) and (ii) of this section apply.

(ii) We prohibit organized deer drives. We define a “deer drive” as an organized or planned effort to pursue, drive, chase, or otherwise frighten or cause deer to move in the direction of any person(s) who is part of the organized or planned hunt and known to be waiting for the deer.

* * * * *

(g) * * *

(2) * * *

(ii) You must remove personal belongings, including, but not limited to, all boats, decoys, blinds, blind materials, stands, platforms, and other hunting equipment brought onto the refuge at the end of each day's hunt (see §§ 27.93 and 27.94 of this chapter).

(3) Big game hunting. We allow hunting of white-tailed deer on designated areas of the refuge subject to the following conditions:

(i) The condition set forth at paragraph (g)(2)(ii) of this section applies.

(ii) We prohibit organized deer drives. We define a “deer drive” as an organized or planned effort to pursue, drive, chase, or otherwise frighten or cause deer to move in the direction of any person(s) who is part of the organized or planned hunt and known to be waiting for the deer.

* * * * *

(k) * * *

(2) * * *

(v) Hunters may only hunt from ½ hour before legal sunrise to no later than ½ hour after legal sunset, and they must follow all State requirements for legal hunting hours.

(3) * * *

(i) The conditions set forth at paragraphs (k)(1)(i) and (k)(2)(v) of this section apply.

* * * * *

12. Amend § 32.37 by revising paragraphs (c), (d), (e), (g), (i)(1)(iv), (i)(3)(iii), (j), (m), (o)(1)(iv), (o)(3)(v), (q), (r), (s)(1)(iv), (t), and (u) to read as follows:

§ 32.37 Louisiana.

* * * * *

(c) Bayou Sauvage National Wildlife Refuge—(1) Migratory game bird hunting. We allow hunting of duck, merganser, teal, light and dark goose, coot, gallinule, rail, snipe, and dove on designated areas of the refuge subject to the following conditions:

(i) Hunters and anglers must possess and carry a valid, signed refuge hunting and fishing brochure.

(ii) We only allow youth to hunt migratory game birds.

(iii) All youth hunters age 15 and younger must be supervised by an adult during hunts. The youth must be capable of and must actively participate in the hunt by possessing and/or firing a legal weapon during the hunt for the express purpose of harvesting game.

(iv) One adult may supervise up to two youths during upland game hunts and migratory bird hunts, but may supervise only one youth during big game hunts. The supervising adult must maintain visual and voice contact with the youth at all times.

(v) Adults accompanying youth on any refuge hunts may participate by hunting (except during the State youth-only seasons), but are not allowed to harvest more than their own daily bag limit (see § 20.24 of this chapter). Youth must harvest their own bag limits.

(vi) We allow migratory bird hunting on Wednesdays, Thursdays, Saturdays, and Sundays from ½ hour before legal sunrise until 2 p.m.

(vii) We open the refuge to goose youth hunting during any segment of goose season that extends beyond the regular duck season.

(viii) Migratory bird hunters may not enter the refuge prior to 4 a.m. on the day of the hunt and must remove all portable blinds and decoys (see § 27.93 of this chapter) no later than 2 p.m.

(ix) We prohibit hunting within 500 feet (152 meters (m)) of any residence or structure adjacent to the refuge, and we prohibit hunting within 200 feet (61 m) of any road, railroad, levee, water control structure, designated public use trail, designated parking area, or other designated public use facility.

(x) We prohibit mud boats or air cooled propulsion vessels, including “surface-drive” boats, except when traversing through the Intracoastal Waterway and the Irish Bayou Straight Canal only.

(xi) We only allow the incidental take of nutria with approved shot and weapons during any open youth waterfowl season on the refuge.

(xii) We allow the incidental take of coyote, raccoon, feral hog, armadillo, and opossum with approved shot and weapons allowed during any open season on the refuge.

(xiii) We allow only the use of reflective tacks as marking devices.

(2) Upland game hunting. We allow hunting of rabbit, and the incidental take of nutria, coyote, raccoon, armadillo, and opossum, on designated areas of the refuge subject to the following conditions:

(i) We only allow youth hunting of upland game.

(ii) When hunting, you must possess only shot size 4 or smaller or 0.22 caliber rimfire rifles or smaller. We allow the use of air rifles.

(iii) When hunting rabbit, we allow the use of dogs only after the close of the State archery deer season.

(iv) The conditions set forth at paragraphs (c)(1)(i), (iii) through (v), and (ix) through (xiii) of this section apply.

(3) Big game hunting. We only allow youth hunting of white-tailed deer, and the incidental take of feral hog, on designated areas of the refuge subject to the following conditions:

(i) We are open to youth hunting only during the State deer archery season.

(ii) We prohibit organized deer drives. We define a “deer drive” as an organized or planned effort to pursue, drive, chase, or otherwise frighten or cause deer to move in the direction of any person(s) who is part of the organized or planned hunt and known to be waiting for the deer.

(iii) We allow placement of temporary deer stands no earlier than 48 hours prior to the start of deer archery season. Hunters must remove all deer stands within 48 hours after the archery deer season closes (see § 27.93 of this chapter).

(iv) We allow only one deer stand per hunter on the refuge. Deer stands must have the owner's State license/sportsmen's identification number clearly printed on the stand.

(v) We prohibit the use of deer decoys.

(vi) The conditions set forth at paragraphs (c)(1)(i), (iii) through (v), and (ix) through (xiii) of this section apply.

(4) Sport fishing. We allow recreational finfishing and shellfishing on designated areas of the refuge subject to the following conditions:

(i) We allow daytime sport finfishing and shellfishing year-round on designated areas of the refuge. On portions of the refuge outside of the Hurricane Protection Levee, we allow daytime sport finfishing and shellfishing from November 1 through January 31 and during the State teal season, but only after 2 p.m.

(ii) We only allow sport finfishing with hand-held rod and reel or hand-held rod and line.

(iii) You may take bait shrimp with cast nets only.

(iv) You may take crawfish (up to 100 pounds (45 kilograms) per person, per day) with crawfish or dip nets only.

(v) We allow only recreational crabbing.

(vi) You must attend all fishing, crabbing, and crawfishing equipment at all times.

(vii) We prohibit the use of trotlines, limblines, slat traps, gar sets, nets, and alligator lines on the refuge.

(viii) The conditions set forth at paragraphs (c)(1)(i), (x), and (xiii) of this section apply.

(d) Bayou Teche National Wildlife Refuge—(1) Migratory game bird hunting. We allow hunting of duck, merganser, teal, light and dark goose, coot, gallinule, rail, snipe, dove, and woodcock on designated areas of the refuge subject to the following conditions:

(i) Each person age 18 and older must possess and carry a valid, signed refuge user brochure while on the refuge.

(ii) We prohibit hunting or discharge of firearms (see § 27.42 of this chapter) within 500 feet (152 meters (m)) of any residence or oil and gas infrastructure, or within 200 feet (61 m) of any road, railroad, levee, water control structure, designated public use trail, designated parking area, or other designated public use facility.

(iii) All youth hunters age 15 and younger must be supervised by an adult during all hunts. One adult may supervise up to two youths during small game and migratory game bird hunts, but may supervise only one youth during big game hunts. The supervising adult must maintain visual and voice contact with the youth at all times. Adult guardians are responsible for ensuring that youth hunters do not violate refuge rules.

(iv) We require waterfowl and gallinule hunters to remove all portable blinds and decoys from the refuge by 2 p.m. each day (see §§ 27.93 and 27.94 of this chapter).

(v) Migratory bird hunters are only allowed to enter the refuge after 4 a.m.

(vi) We allow waterfowl hunting daily until 2 p.m. during the State regular season, State teal season, and State youth and veteran waterfowl seasons. We allow gallinule, snipe, and rail hunting until 2 p.m.

(vii) When hunting migratory game birds, you may only use dogs to locate, point, and retrieve game.

(viii) We allow only the use of reflective tacks as marking devices.

(ix) We only allow the incidental take of nutria with approved shot and weapons during any open waterfowl season on the refuge.

(x) We allow the incidental take of raccoon, feral hog, armadillo, opossum, and coyote with approved shot and weapons during any open season on the refuge.

(2) Upland game hunting. We allow hunting of squirrel and rabbit, and the incidental take of nutria, coyote, raccoon, armadillo, and opossum, on designated areas of the refuge subject to the following conditions:

(i) We only allow hunting from the start of the State squirrel and rabbit seasons until the last day of State waterfowl season for the State Waterfowl Zone in which you are hunting.

(ii) We prohibit upland game hunting on days corresponding with refuge deer gun hunts.

(iii) Hunters must leave the refuge no later than 2 hours after legal sunset.

(iv) When hunting, you must possess only shot size 4 or smaller or 0.22 caliber rimfire rifles or smaller. We allow the use of air rifles.

(v) The conditions set forth at paragraphs (d)(1)(i) through (iii) and (viii) through (x) of this section apply.

(3) Big game hunting. We allow the hunting of white-tailed deer, and the incidental take of feral hog, on designated areas of the refuge subject to the following conditions:

(i) We allow hunting of deer only with firearms (see § 27.42 of this chapter) during 5 specific days during October and November. A youth gun hunt will occur during the last weekend of October. The general gun hunt will occur during the final full weekend in November. The youth gun hunt includes both Saturday and Sunday. The general gun hunt includes the Friday immediately before the weekend.

(ii) We allow archery deer hunting according to the State of Louisiana archery season. We close refuge archery hunting during refuge deer gun hunts.

(iii) We allow each hunter to possess only one deer per day; the deer may be a buck or a doe.

(iv) Hunters may use only portable deer stands. Hunters may erect deer stands no earlier than 48 hours before the deer archery season and must remove them from the refuge within 48 hours after the season closes (see § 27.93 of this chapter). Hunters may place only one deer stand on the refuge. Deer stands must have the owner's State hunting license/sportsman's identification number clearly printed on the stand.

(v) The conditions set forth at paragraphs (d)(1)(i) through (iii), (viii), and (x), and (d)(2)(iii) of this section apply.

(vi) We prohibit the use of deer decoys.

(vii) We prohibit organized deer drives. We define a “deer drive” as an organized or planned effort to pursue, drive, chase, or otherwise frighten or cause deer to move in the direction of any person(s) who is part of the organized or planned hunt and known to be waiting for the deer.

(viii) Deer hunters must display State Wildlife Management Area (WMA) hunter-orange or blaze-pink (as governed by State WMA regulations).

(4) Sport fishing. We allow sport fishing in all refuge waters subject to the following conditions:

(i) We prohibit the use of unattended nets, traps, or lines (trot, jug, bush, etc.).

(ii) The condition set forth at paragraph (d)(1)(i) of this section applies.

(iii) The refuge is only open to recreational finfishing and shellfishing from legal sunrise to legal sunset.

(e) Big Branch Marsh National Wildlife Refuge—(1) Migratory game bird hunting. We allow hunting of duck, merganser, teal, coot, light and dark goose, snipe, rail, gallinule, dove, and woodcock on designated areas of the refuge subject to the following conditions:

(i) Each person age 18 and older must possess and carry a valid, signed refuge user brochure while on the refuge.

(ii) We allow waterfowl, snipe, rail, gallinule, dove, and goose hunting on Wednesdays, Thursdays, Saturdays, and Sundays from ½ hour before legal sunrise until 2 p.m., including waterfowl hunting during the State teal season and State youth and veterans waterfowl seasons. We only allow hunting of woodcock until 2 p.m.

(iii) We allow light goose hunting for that part of the season that extends beyond the regular duck season from ½ hour before legal sunrise until 2 p.m.

(iv) We allow only temporary blinds, and hunters must remove blinds and decoys by 2 p.m. each day (see § 27.93 of this chapter).

(v) All youth hunters age 15 and younger must be supervised by an adult during all hunts. One adult may supervise up to two youths during small game hunts and migratory bird hunts, but may supervise only one youth during big game hunts. The supervising adult must maintain visual and voice contact with the youth at all times. Adult guardians are responsible for ensuring that youth hunters do not violate refuge rules.

(vi) We prohibit hunting or discharge of firearms (see § 27.42 of this chapter) within 500 feet (152 meters (m)) of any residence adjacent to the refuge or oil and gas infrastructure on the refuge, or within 200 feet (61 m) from the center of any road, railroad, levee, water control structure, designated public use maintained trail, designated parking area, or other designated public use facility.

(vii) We allow migratory bird hunters to enter the refuge no earlier than 4 a.m., and all hunters must exit the refuge no later than 2 hours after legal sunset.

(viii) We allow only reflective tacks as trail markers on the refuge.

(ix) We allow the incidental take of raccoon, feral hog, armadillo, opossum, and coyote with approved shot and weapons allowed during any open season on the refuge.

(x) We only allow the incidental take of nutria with approved shot and weapons during any open waterfowl (duck, teal, merganser, light and dark goose, and coot) season on the refuge.

(2) Upland game hunting. We allow hunting of squirrel, rabbit, and quail, and the incidental take of nutria, coyote, raccoon, armadillo, and opossum, on designated areas of the refuge subject to the following conditions:

(i) When hunting, you must possess only shot size 4 or smaller, or 0.22 caliber rim-fire rifles or smaller. We allow the use of air rifles.

(ii) When hunting squirrel and rabbit, and for the incidental take of raccoon, we allow the use of dogs only after the close of the State archery deer season. When hunting quail, you may only use dogs to locate, point, and retrieve.

(iii) The conditions set forth at paragraphs (e)(1)(i), (v), (vi), and (viii) through (x) of this section apply.

(iv) During the dog season for squirrel and rabbit, all hunters, including archers (while on the ground), except waterfowl hunters, must wear a minimum of a cap or hat that is hunter orange, blaze pink, or other such color as governed by State regulations.

(v) We only allow hunting of quail until 2 p.m.

(3) Big game hunting. We allow hunting of white-tailed deer, and the incidental take of feral hog, on designated areas of the refuge subject to the following conditions:

(i) We are open only during the State season for archery hunting of deer.

(ii) We prohibit organized deer drives. We define a “deer drive” as an organized or planned effort to pursue, drive, chase, or otherwise frighten or cause deer to move in the direction of any person(s) who is part of the organized or planned hunt and known to be waiting for the deer.

(iii) We allow placement of temporary deer stands no earlier than 48 hours prior to the start of deer archery season. Hunters must remove all deer stands within 48 hours after the archery deer season closes (see § 27.93 of this chapter). We allow only one deer stand per hunter on the refuge. Deer stands must have the owner's State license/sportsmen's identification number clearly printed on the stand. We prohibit hunting stands on trees painted with white bands.

(iv) The conditions set forth at paragraphs (e)(1)(i), (v), (vi), and (viii) through (x) of this section apply.

(v) We prohibit the use of deer decoys.

(4) Sport fishing. We allow recreational finfishing and shellfishing on designated areas of the refuge subject to the following conditions:

(i) You may only fish from legal sunrise until legal sunset, except we allow night fishing from the bank and pier on Lake Road.

(ii) You must only use rod and reel or pole and line while finfishing.

(iii) You must attend to any fishing, crabbing, and crawfishing equipment at all times.

(iv) The condition set forth at paragraph (e)(1)(i) of this section applies.

* * * * *

(g) Bogue Chitto National Wildlife Refuge—(1) Migratory game bird hunting. We allow hunting of duck, merganser, teal, light and dark goose, coot, gallinule, rail, snipe, dove, and woodcock on designated areas of the refuge subject to the following conditions:

(i) Each person age 18 and older must possess and carry a valid, signed refuge user brochure while on the refuge.

(ii) We only allow hunting of duck, merganser, teal, light and dark goose, and gallinule from ½ hour before legal sunrise until 2 p.m. of the State seasons, including during the State teal season, State youth waterfowl season, State veterans season, and special light goose conservation season.

(iii) You must remove blinds and decoys by 2 p.m. each day (see § 27.93 of this chapter).

(iv) When hunting migratory game birds, you may only use dogs to locate, point, and retrieve game.

(v) All youth hunters age 15 and younger must be supervised by an adult during all hunts. One adult may supervise up to two youths during upland game hunts and migratory bird hunts, but may supervise only one youth during big game hunts. The supervising adult must maintain visual and voice contact with the youth at all times. Adult guardians are responsible for ensuring that youth hunters do not violate refuge rules.

(vi) We prohibit hunting or discharge of firearms (see § 27.42 of this chapter) within 500 feet (152 meters (m)) of any residence or oil and gas infrastructure, or within 200 feet (61 m) of any road, railroad, levee, water control structure, designated public use trail, building, designated camping area, designated parking area, or other designated public facility.

(vii) For the purpose of hunting, we prohibit possession of slugs, buckshot, and rifle and pistol ammunition, except during the deer gun and primitive firearm seasons (see § 32.2(k)).

(viii) You may use only reflective tacks as trail markers on the refuge.

(ix) We allow the incidental take of feral hog, raccoon, armadillo, opossum, and coyote with approved shot and weapons allowed during any open season on the refuge.

(x) We only allow incidental take of nutria with approved shot and weapons during any open waterfowl season on the refuge.

(2) Upland game hunting. We allow hunting of squirrel, rabbit, and quail, and the incidental take of nutria, coyote, raccoon, armadillo, and opossum, on designated areas of the refuge subject to the following conditions:

(i) We allow the use of dogs for rabbit and squirrel hunting, and the incidental take of raccoon, on specific dates listed in the refuge hunt brochure.

(ii) During any open deer firearm or primitive firearm season on the refuge, all hunters, except waterfowl hunters, must wear hunter orange, blaze pink, or other such color as governed by State regulations.

(iii) The conditions set forth at paragraphs (g)(1)(i) and (v) through (x) of this section apply.

(iv) You may use .22-caliber rifles or smaller while hunting upland game and ammunition must be size 4 or smaller (see § 32.2(k)).

(v) We will close the refuge to hunting (except waterfowl) and camping when the Pearl River reaches 15.5 feet (4.72 meters) on the Pearl River Gauge at Pearl River, Louisiana.

(vi) During the dog season for squirrels, rabbits, and incidental take of raccoon, all hunters, including archery hunters (while on the ground), except waterfowl hunters, must wear a cap or hat that is hunter-orange, blaze pink, or other such color as governed by State regulations.

(vii) We prohibit upland game hunting on days corresponding with refuge deer gun and primitive firearm hunts.

(viii) We only allow quail hunting until 2 p.m.

(3) Big game hunting. We allow hunting of white-tailed deer, turkey, and feral hog, and the incidental take of feral hog, on designated areas of the refuge subject to the following conditions:

(i) The conditions set forth at paragraphs (g)(1)(i) and (v) through (x), and (g)(2)(ii), (v), and (vi) of this section apply.

(ii) Hunters may erect deer stands no earlier than 48 hours before the deer archery season opens and must remove them from the refuge within 48 hours after this season closes (see § 27.93 of this chapter). We allow only one deer stand per hunter on the refuge. Deer stands must have the owner's State license/sportsmen's identification number clearly printed on the stand.

(iii) Deer hunters hunting from concealed blinds must display State Wildlife Management Area (WMA) hunter-orange or blaze-pink (as governed by State WMA regulations) above or around their blinds that is visible from 360 degrees.

(iv) We hold a special dog hog hunt in February. During this hunt, the following conditions apply, in addition to the other conditions set forth in this paragraph (g)(3):

(A) You must use trained hog-hunting dogs to aid in the take of hog.

(B) We allow take of hog from ½ hour before legal sunrise until ½ hour after legal sunset.

(C) You must possess only approved nontoxic shot, or pistol or rifle ammunition not larger than .22 caliber rim-fire, to take the hog after it has been caught by dogs.

(v) You must kill all hogs prior to removal from the refuge.

(vi) We prohibit the use of deer and turkey gobbler decoys.

(vii) We prohibit using shot larger than BB-lead, or T-steel, while hunting during turkey season.

(viii) We describe the dates for turkey hunts and deer general gun hunts, youth hunts, and veterans hunts in the refuge user brochure.

(4) Sport fishing. We allow only recreational fishing year-round on designated areas of the refuge subject to the following conditions:

(i) We only allow cotton limb lines.

(ii) We close the fishing ponds at the Pearl River Turnaround to fishing from April through the first full week of June and to boating during the months of April, May, June, and July.

(iii) When the Pearl River Turnaround area is open, we allow boats that do not have gasoline-powered engines attached in the fishing ponds at the Pearl River Turnaround. Anglers must hand-launch these boats into the ponds. When the fishing ponds at the Pearl River Turnaround are open, hook and line is the only legal method of take in those ponds.

(iv) The Pearl River Turnaround area, when open to fishing, is open ½ hour before legal sunrise to ½ hour after legal sunset.

(v) The conditions set forth at paragraphs (g)(1)(i) and (viii), and (g)(2)(v) of this section apply.

* * * * *

(i) * * *

(1) * * *

(iv) Every hunter must complete and turn in a Harvest Report (FWS Form 3-2542) available from a self-clearing check station after each hunt.

* * * * *

(3) * * *

(iii) Each hunter must complete and turn in a Harvest Report (FWS Form 3-2542) available from a self-clearing check station after each hunt.

* * * * *

(j) Cat Island National Wildlife Refuge—(1) Migratory game bird hunting. We allow hunting of duck, merganser, teal, light and dark goose, coot, snipe, rail, gallinule, dove, and woodcock on designated areas of the refuge subject to the following conditions:

(i) Each person age 18 and older must possess and carry a valid, signed refuge user brochure while on the refuge.

(ii) We allow migratory bird hunters to enter the refuge no earlier than 4 a.m., and all hunters must exit the refuge within 2 hours after legal sunset.

(iii) We allow the incidental take of beaver, feral hog, raccoon, armadillo, opossum, and coyote with approved shot and weapons allowed during any open season on the refuge.

(iv) We allow all-terrain vehicles (ATVs) and utility-type vehicle (UTVs) as governed by State Wildlife Management Area regulations and size specifications on designated trails (see § 27.31 of this chapter) from the third Saturday in September until February 28.

(v) We prohibit hunting within 500 feet (152 meters (m)) of any residence or oil and gas infrastructure, or within 200 feet (61 m) of any road, railroad, levee, water control structure, designated public use trail, building, designated parking area, or designated public use facility.

(vi) All youth hunters age 15 and younger must be supervised by an adult during hunts. One adult may supervise up to two youths during small game hunts and migratory bird hunts, but may supervise only one youth during big game hunts. The supervising adult must maintain visual and voice contact with the youth at all times. Adult guardians are responsible for ensuring that youth hunters do not violate refuge rules.

(vii) We allow waterfowl (duck, merganser, teal, light and dark goose, and coot) and gallinule hunting daily during the State regular season, including waterfowl hunting during the State teal season and State youth and veteran waterfowl seasons, from ½ hour before legal sunrise until 2 p.m.

(viii) You must remove harvested waterfowl, temporary blinds, and decoys used for duck hunting by 2 p.m. each day (see § 27.93 of this chapter).

(ix) When hunting migratory game birds, you may only use dogs to locate, point, and retrieve.

(x) We prohibit accessing refuge property by boat from the Mississippi River.

(xi) We allow only the use of reflective tacks as marking devices.

(xii) We only allow the incidental take of nutria with approved shot and weapons during any open waterfowl season on the refuge.

(2) Upland game hunting. We allow hunting of squirrel and rabbit, and the incidental take of nutria, beaver, coyote, raccoon, armadillo, and opossum, on designated areas of the refuge subject to the following conditions:

(i) The conditions set forth at paragraphs (j)(1)(i) through (vi) and (x) through (xii) of this section apply.

(ii) While upland game hunting, we prohibit the possession of hunting firearms larger than 0.22 caliber rimfire, shotgun slugs, and buckshot (see § 27.42 of this chapter).

(iii) We allow the use of dogs during designated small game with dog seasons. We require the owner's contact information on the collars of all dogs. We only allow up to two dogs per hunting party for squirrel hunting.

(iv) We prohibit upland game hunting on days corresponding with refuge deer gun hunts.

(3) Big game hunting. We allow hunting of white-tailed deer on designated areas of the refuge subject to the following conditions:

(i) The conditions set forth at paragraphs (j)(1)(i) through (vi), (x), and (xi) of this section apply.

(ii) We allow archery deer hunting, youth deer gun hunting during the first weekend of the State youth firearm season, and one weekend of primitive firearm season on the refuge. We list specific dates of these hunts in the refuge annual user brochure.

(iii) Hunters may erect deer stands no earlier than 48 hours before the deer archery season opens and must remove them from the refuge within 48 hours after this season closes (see § 27.93 of this chapter). We grant extensions to retrieve stands due to high water refuge closure. We allow only one deer stand or blind per hunter on the refuge. Deer stands must have the owner's State license/sportsmen's identification number clearly printed on the stand.

(iv) You may only take one deer of either sex per day during the deer seasons listed. State season limits apply.

(v) Deer hunters must display State Wildlife Management Area (WMA) hunter-orange or blaze-pink (as governed by State WMA regulations).

(vi) We prohibit organized drives. We define a “drive” as an organized or planned effort to pursue, drive, chase, or otherwise frighten or cause game to move in the direction of any person(s) who is part of the organized or planned hunt and known to be waiting for the game.

(4) Sport fishing. We allow recreational finfishing and shellfishing on designated areas of the refuge subject to the following conditions:

(i) The conditions set forth at paragraphs (j)(1)(i), (iv) (on the open portions of Wood Duck ATV trail for wildlife-dependent activities throughout the year), (x), and (xi) of this section apply.

(ii) We prohibit slat traps or hoop nets on the refuge.

(iii) Anglers may only crawfish during designated days and times. The harvest limit is 50 pounds (22.5 kilograms) per person per day.

(iv) You must attend all crawfish traps and nets at all times. We allow up to, and no more than, 20 traps per angler on the refuge.

* * * * *

(m) Delta National Wildlife Refuge—(1) Migratory game bird hunting. We allow hunting of duck, merganser, teal, light and dark goose, dove, snipe, rail, gallinule, and coot on designated areas of the refuge subject to the following conditions:

(i) Each person age 18 and older must possess and carry a valid, signed refuge user brochure while on the refuge.

(ii) We allow migratory bird hunting on Wednesdays, Thursdays, Saturdays, and Sundays from ½ hour before legal sunrise until 2 p.m. during the State seasons, including the regular waterfowl season, the State teal season, State youth waterfowl season, State veterans waterfowl season, and State light goose special conservation season.

(iii) We only allow temporary blinds. You must remove both blinds and decoys by 2 p.m. each day (see § 27.93 of this chapter).

(iv) When hunting migratory game birds, you may only use dogs to locate, point, and retrieve game.

(v) We prohibit discharge of firearms (see § 27.42 of this chapter) within 500 feet (152 meters (m)) of any residence or oil and gas infrastructure, or within 200 feet (61 m) of any road, railroad, levee, water control structure, designated public use trail, designated parking area, or other designated public use facilities.

(vi) All youth hunters age 15 and younger must be supervised by an adult during all hunts. One adult may supervise up to two youths during upland game and migratory game bird hunts, but may supervise only one youth during big game hunts. The supervising adult must maintain visual and voice contact with the youth at all times.

(vii) Migratory bird hunters may enter the refuge no earlier than 4 a.m., and all hunters must exit the refuge no later than 2 hours after legal sunset.

(viii) We allow the incidental take of raccoon, feral hog, armadillo, opossum, and coyote with approved shot and weapons allowed during any open season on the refuge.

(ix) We only allow the incidental take of nutria with approved shot and weapons during any open waterfowl season on the refuge.

(x) We allow only the use of reflective tacks as marking devices.

(2) Upland game hunting. We allow hunting of rabbit, and the incidental take of nutria, coyote, raccoon, armadillo, and opossum on designated areas of the refuge subject to the following conditions:

(i) The refuge rabbit season opens the day after the State duck season closes and continues through the remainder of the State rabbit season.

(ii) We restrict hunting to shotgun only.

(iii) We allow the use of dogs when rabbit hunting.

(iv) We prohibit upland game hunting on days corresponding with refuge deer gun hunts.

(v) The conditions set forth at paragraphs (m)(1)(i) and (v) through (viii) of this section apply.

(3) Big game hunting. We allow hunting of white-tailed deer on designated areas of the refuge subject to the following conditions:

(i) The conditions set forth at paragraphs (m)(1)(i) and (v) through (x) of this section apply.

(ii) We allow archery deer hunting, bucks only, from October 1 through 15. We allow either-sex archery deer hunting from October 16 through 31, and from the day after the close of the State duck season through the end of the State deer archery season.

(iii) We allow placement of temporary deer stands up to 48 hours prior to the start of deer archery season. Hunters must remove all deer stands within 48 hours after the archery deer season closes (see § 27.93 of this chapter). We allow only one deer stand per hunter on the refuge. Deer stands must have the owner's State license/sportsmen's identification number clearly printed on the stand.

(iv) We prohibit organized deer drives. We define a “deer drive” as an organized or planned effort to pursue, drive, chase, or otherwise frighten or cause deer to move in the direction of any person(s) who is part of the organized or planned hunt and known to be waiting for the deer.

(v) We prohibit the use of deer decoys.

(vi) We allow shotgun hunting of deer on the Saturday and Sunday during the first split of the regular waterfowl season.

(vii) Deer hunters must display State Wildlife Management Area (WMA) hunter-orange or blaze-pink (as governed by State WMA regulations).

(4) Sport fishing. We allow recreational finfishing and shellfishing on designated areas of the refuge subject to the following conditions:

(i) We only allow sport finfishing and shellfishing from ½ hour before legal sunrise until ½ hour after legal sunset. During the State waterfowl hunting seasons, we only allow sport finfishing and shellfishing from 2 p.m. until ½ hour after legal sunset. However, during the waterfowl season, we prohibit all public entry between Main Pass and Raphael Pass.

(ii) We prohibit the use of trotlines, limblines, slat traps, jug lines, nets, or alligator lines.

(iii) The condition set forth at paragraph (m)(1)(i) of this section applies.

* * * * *

(o) * * *

(1) * * *

(iv) Each hunter must complete and turn in a Harvest Report (FWS Form 3-2542), available from a self-clearing check station, after each hunt.

* * * * *

(3) * * *

(v) Each hunter must complete and turn in a Harvest Report (FWS Form 3-2542) available from a self-clearing check station, after each hunt.

* * * * *

(q) Mandalay National Wildlife Refuge—(1) Migratory game bird hunting. We allow hunting of duck, teal, merganser, light and dark goose, gallinule (including moorhen), coot, rail, snipe, and dove on designated areas of the refuge subject to the following conditions:

(i) Each person age 18 and older must possess and carry a valid, signed refuge user brochure while on the refuge.

(ii) We allow only youth hunting of migratory game birds and only in the Hanson Unit on Wednesdays, Thursdays, Saturdays, and Sundays until 2 p.m. of the State teal, youth, and regular waterfowl seasons.

(iii) We open the Hanson Unit only to youth goose hunting during any segment of the goose season that extends beyond the regular duck season on Wednesdays, Thursdays, Saturdays, and Sundays until 2 p.m.

(iv) Migratory bird hunters are only allowed to enter the refuge after 4 a.m.

(v) All youth hunters age 15 and younger must be supervised by an adult during all hunts. One adult may supervise up to two youths during small game and migratory game bird hunts. An adult may supervise only one youth during big game hunts. The supervising adult must maintain visual and voice contact with the youth at all times. The youth must be capable of and must actively participate in the hunt by possessing and/or firing a legal weapon during the hunt for the express purpose of harvesting game. Parents or adult guardians are responsible for ensuring that hunters age 15 and younger do not violate refuge rules.

(vi) Adults accompanying youth on refuge hunts may participate by hunting, but are not allowed to harvest more than their own daily bag limit.

(vii) We only allow incidental take of nutria with approved shot and weapons during any open waterfowl season on the refuge.

(viii) We allow incidental take of raccoon, feral hog, armadillo, opossum, and coyote with approved shot and weapons allowed during any open season on the refuge.

(ix) We prohibit hunting within 500 feet (152 meters (m)) of any residence or oil and gas infrastructure, or within 200 feet (61 m) of any road, railroad, levee, water control structure, designated public use trail, designated parking area, or other designated public use facility.

(x) We allow only temporary blinds, and hunters must remove blinds and decoys by 2 p.m. each day (see § 27.93 of this chapter).

(2) Upland Game Hunting. We allow youth hunting of squirrel and rabbit, and the incidental take of nutria, coyote, raccoon, armadillo, and opossum, on designated areas of the refuge subject to the following conditions:

(i) When hunting, you must possess only shot size 4 or smaller, or 0.22 caliber rim-fire rifles or smaller. We allow the use of air rifles.

(ii) The conditions set forth at paragraphs (q)(1)(i) and (v) through (ix) apply.

(iii) The Hanson Unit is closed to youth hunting prior to 2 p.m. on Wednesdays, Thursdays, Saturdays, and Sundays during waterfowl hunt season.

(iv) Hunters must leave the refuge no later than 2 hours after legal sunset.

(3) Big game hunting. We allow the hunting of white-tailed deer, and the incidental take of feral hog, on designated areas of the refuge subject to the following conditions:

(i) We open the refuge to hunting of white-tailed deer only during the State archery season. We close the Hanson Unit to big game hunting prior to 2 p.m. on Wednesdays, Thursdays, Saturdays, and Sundays during State waterfowl seasons.

(ii) You may take only one deer of either sex per day.

(iii) We prohibit the use of deer decoys.

(iv) We only allow portable stands. Hunters may erect temporary deer stands no earlier than 48 hours prior to the start of deer archery season. Hunters must remove all deer stands within 48 hours after the archery deer season closes (see § 27.93 of this chapter). Hunters may place only one deer stand on the refuge. Deer stands must have the owner's State hunting license/sportsman's identification number clearly printed on the stand.

(v) We prohibit organized deer drives. We define a “deer drive” as an organized or planned effort to pursue, drive, chase, or otherwise frighten or cause deer to move in the direction of any person(s) who is part of the organized or planned hunt and known to be waiting for the deer.

(vi) The conditions set forth at paragraphs (q)(1)(i), (v), (vi), (viii), and (ix), and (q)(2)(iv) of this section apply.

(4) Sport fishing. We allow recreational finfishing and shellfishing in all refuge waters subject to the following conditions:

(i) We prohibit the use of unattended nets, traps, or lines (trot, jog, bush, etc.).

(ii) The refuge is open from legal sunrise until legal sunset.

(iii) The condition set forth at paragraph (q)(1)(i) of this section applies.

(r) Red River National Wildlife Refuge—(1) Migratory game bird hunting. We allow hunting of duck, goose, coot, woodcock, snipe, rail, gallinule, and dove on designated areas of the refuge subject to the following conditions:

(i) Hunters must possess and carry a signed refuge brochure.

(ii) We allow waterfowl hunting until 12 p.m. (noon) during the State season. Waterfowl hunters must exit the refuge no later than 1:30 p.m.

(iii) Hunters may enter the refuge no earlier than 4 a.m.

(iv) Hunters may only hunt during designated times and seasons within specified State seasons as listed in refuge brochure.

(v) We prohibit hunting within 100 feet (30 meters) of any public road, refuge road, trail or ATV trail, residence, building, aboveground oil or gas or electrical transmission facility, or designated public facility.

(vi) When hunting migratory game birds, you may only use dogs to locate, point, and retrieve.

(vii) We allow the incidental take of coyote, beaver, and feral hogs in designated areas during any refuge hunt with the weapons legal for that hunt, subject to applicable State seasons and regulations.

(2) Upland game hunting. We allow hunting of quail, squirrel, rabbit, raccoon, and opossum, and incidental take of coyote and beaver, on designated areas of the refuge subject to the following conditions:

(i) The conditions set forth at paragraphs (r)(1)(i), (iii) through (v), and (vii) of this section apply.

(ii) We allow hunting of raccoon and opossum during the daylight hours of rabbit and squirrel season. We allow night hunting during December and January, and you may use dogs for night hunting.

(iii) We allow the use of dogs to hunt squirrel and rabbit after December 31.

(iv) Hunters must exit the refuge no later than 1 hour after legal shooting hours, unless participating in authorized hunting after legal sunset.

(3) Big game hunting. We allow hunting of white-tailed deer and turkey, and the incidental take of feral hog, on designated areas of the refuge subject to the following condition: The conditions set forth at paragraphs (r)(1)(i), (iii) through (v), and (vii), and (r)(2)(iv) of this section apply.

(4) Sport fishing. We allow sport fishing on designated areas of the refuge subject to the following conditions:

(i) We allow use of only electric trolling motors on all refuge waters while fishing.

(ii) Recreational fishing using commercial gear (slat traps, etc.) requires a special refuge permit (Special Use Permit (FWS Form 3-1383-G)), which is available at the refuge office. You must possess and carry the special refuge permit while fishing using commercial gear.

(iii) We prohibit the taking of alligator snapping turtle (see § 27.21 of this chapter).

(s) * * *

(1) * * *

(iv) Each hunter must complete and turn in a Harvest Report (FWS Form 3-2542) from a self-clearing check station after each hunt.

* * * * *

(t) Tensas River National Wildlife Refuge—(1) Migratory game bird hunting. We allow hunting of duck, goose, rail, gallinule, coot, woodcock, and snipe on designated areas of the refuge subject to the following conditions:

(i) All hunters and anglers age 16 and older must purchase an Annual Public Use Permit (FWS Form 3-2439). This permit allows individuals to participate in open (non-quota) hunting and fishing seasons.

(ii) All hunters and anglers must obtain a Self-Clearing Permit (FWS Form 3-2405), available at refuge entry points and at the Visitor Center, and complete the self-clearing process when exiting the refuge at the end of each day.

(iii) We allow hunting of duck, goose, rail, gallinule, coot, and snipe on Tuesdays, Thursdays, Saturdays, and Sundays until 2 p.m. during the State season. We prohibit migratory bird hunting during refuge gun hunts for deer.

(iv) We allow refuge hunters to enter the refuge no earlier than 4 a.m., and they must leave no later than 2 hours after legal sunset unless they are participating in the refuge nighttime raccoon hunt.

(v) We allow all-terrain vehicle (ATV) travel on designated trails for access typically from October 1 to the last day of the refuge squirrel season.

(vi) We prohibit field dressing of game within 150 feet (45 meters) of parking areas, maintained roads, and trails.

(vii) An adult age 18 or older must supervise youth hunters age 17 and younger during all hunts. One adult may supervise two youths during small game and migratory bird hunts, but may supervise only one youth during big game hunts. Youth must remain within normal voice contact of the adult who is supervising them.

(viii) We allow the incidental take of coyote, beaver, raccoon, opossum, feral hog, armadillo, and nutria during authorized hunts with firearms and archery equipment legal for use during the hunt.

(2) Upland game hunting. We allow hunting of raccoon, squirrel, and rabbit, and the incidental take of coyote, beaver, raccoon, opossum, armadillo, and nutria, on designated areas of the refuge subject to the following conditions:

(i) The conditions set forth at paragraphs (t)(1)(i), (ii), and (iv) through (viii) of this section apply.

(ii) A nighttime raccoon hunt will be conducted during December, January, and/or February, usually in conjunction with the adjacent State Wildlife Management Area (WMA) raccoon hunting season.

(iii) We allow the use of dogs when squirrel and rabbit hunting subject to the following conditions:

(A) We allow hunting without dogs from the beginning of the State season to December 31.

(B) From the beginning of the State season to December 31, we do not require hunters to wear hunter orange.

(C) We allow squirrel and rabbit hunting with or without dogs from January 1 to the last day of February.

(D) From January 1 to the last day of February, squirrel and rabbit hunters are required to wear a minimum solid hunter orange cap.

(E) We allow no more than three dogs per hunting party.

(iv) We close squirrel and rabbit hunting during the following gun hunts for deer: Refuge-wide youth hunt, primitive firearms hunt, and modern firearms hunts.

(3) Big game hunting. We allow hunting of white-tailed deer and turkey, and the incidental take of feral hogs, on designated areas of the refuge subject to the following conditions:

(i) The conditions set forth at paragraphs (t)(1)(i), (ii), and (iv) through (viii) of this section apply.

(ii) We require a valid Quota Modern Firearm Permit (FWS Form 3-2439) to hunt during a Deer Quota Modern Firearm Hunt. You must complete and submit an application for all Deer Quota Hunts, and hunters will be notified of their drawing status. If selected, hunters are required to purchase the Annual Public Use Permit (FWS Form 3-2439) to claim their Quota Modern Firearm Permit for the selected hunt. Hunters must carry a signed paper copy or electronic version of the permit with them on their person while hunting.

(iii) Deer archery season will begin the first Saturday in November and will conclude on January 31, except for during the youth gun hunt and modern firearms hunts, when archery is prohibited.

(iv) The deer primitive firearms season will occur between November 1 and January 31. We allow all legal primitive firearms as governed by State regulations.

(v) During the deer primitive firearms season, hunters may fit any legal primitive firearms with magnified scopes.

(vi) We allow hunters using primitive weapons to hunt reforested areas.

(vii) We prohibit youth hunters from using modern firearms during the primitive weapon hunt.

(viii) During modern firearm hunts, all firearm hunting, even hunting with primitive weapons or muzzleloaders, is governed by applicable Federal and State regulations. We require a quota hunt permit (FWS Form 3-2439) for these hunts.

(ix) During modern firearm hunts, we prohibit hunting in reforested areas. We prohibit hunting and/or shooting into or across any reforested area during the quota hunt for deer.

(x) For the guided quota youth hunts, we consider youth to be ages 8 through 15.

(xi) We will conduct a refuge-wide youth deer hunt that will coincide with the State youth hunt weekend.

(xii) Hunters may take only one deer (one buck or one doe) per day during refuge deer hunts, except that during guided youth and wheelchair-bound hunts, the limit will be one antlerless and one antlered deer per day.

(xiii) We allow turkey hunting in designated areas during the State turkey hunt season not to exceed 16 days.

(xiv) We allow a youth turkey hunt weekend in conjunction with the State youth turkey hunt weekend.

(xv) We allow muzzleloader hunters to discharge their primitive firearms at the end of each hunt safely into the ground at least 150 feet (45 meters (m)) from any designated public road, maintained road, trail, fire break, dwelling, or aboveground oil and gas production facility. We define a “maintained road or trail” as one that has been mowed, disked, or plowed, or one that is free of trees.

(xvi) We prohibit deer hunters leaving deer stands unattended before the opening day of the refuge archery season. Hunters must remove stands from the refuge by the end of the last day of the refuge archery season (see § 27.93 of this chapter). Hunters must remove portable stands from trees at the end of each day's hunt and place freestanding stands in a nonhunting position when unattended. Hunters must clearly mark stands left unattended on the refuge with the hunter's last name, Louisiana Department of Wildlife and Fisheries license number, and I-Sportsman Permit Number.

(xvii) We allow hunting with slugs, rifle, or pistol ammunition larger than .22 caliber rimfire only during the quota hunts for deer. We prohibit use of buckshot when hunting.

(4) Sport fishing. We allow sport fishing on designated areas of the refuge subject to the following conditions:

(i) The conditions set forth at paragraphs (t)(1)(i) and (ii) of this section apply.

(ii) We allow anglers to enter the refuge no earlier than 4 a.m., and they must depart no later than 2 hours after legal sunset.

(iii) We prohibit the taking of turtle (see § 27.21 of this chapter).

(iv) We prohibit fish cleaning within 150 feet (45 m) of parking areas, maintained roads, and trails.

(u) Upper Ouachita National Wildlife Refuge—(1) Migratory game bird hunting. We allow hunting of duck, goose, coot, dove, rail, gallinule, snipe, and woodcock on designated areas of the refuge subject to the following conditions:

(i) You must carry a signed refuge public use brochure and must carry and fill out daily a Visitor Check-In Permit and Report (FWS Form 3-2405).

(ii) Hunters may only hunt during designated refuge seasons as listed in the signed refuge public use brochure.

(iii) We allow waterfowl hunting until 12 p.m. (noon) during the State season. Waterfowl hunters must exit the refuge no later than 1:30 p.m.

(iv) Hunters may enter the refuge no earlier than 4 a.m.

(v) We prohibit hunting within 100 feet (30 meters (m)) of the maintained rights-of-way of roads and from or across all-terrain vehicle (ATV) trails. We prohibit hunting within 50 feet (15 meters (m)) of, or trespassing on, aboveground oil, gas, or electrical transmission facilities.

(vi) When hunting migratory game birds, you may only use dogs to locate, point, and retrieve.

(vii) We allow ATVs only on trails designated for their use and marked by signs (see § 27.31 of this chapter). ATV trails are closed March 1 through August 31.

(viii) We allow the incidental take of coyote, beaver, and feral hog during any refuge hunt with the weapons legal for that hunt, subject to applicable State seasons and regulations.

(2) Upland game hunting. We allow hunting of quail, squirrel, rabbit, raccoon, and opossum, and the incidental take of coyote and beaver, on designated areas of the refuge subject to the following conditions:

(i) The conditions set forth at paragraphs (u)(1)(i), (ii), (iv), (v), (vii), and (viii) of this section apply.

(ii) You must exit no later than 2 hours after legal shooting hours, unless participating in authorized hunting after legal sunset.

(iii) We allow the nighttime hunting of raccoon and opossum from December 1 to January 31 with the aid of dogs. We allow hunting of raccoon and opossum during the daylight hours of rabbit and squirrel season.

(3) Big game hunting. We allow hunting of white-tailed deer and turkey, and the incidental take of feral hog, on designated areas of the refuge subject to the following conditions:

(i) The conditions set forth at paragraphs (u)(1)(i), (ii), (iv), (v), (vii), and (viii), and (u)(2)(ii) of this section apply.

(ii) Deer hunters must wear hunter orange as governed by State deer hunting regulations in wildlife management areas.

(iii) We prohibit hunters from placing stands or hunting from stands on pine trees with white-painted bands and/or rings.

(4) Sport fishing. We allow sport fishing on designated areas of the refuge subject to the following conditions:

(i) We prohibit leaving boats and other personal property on the refuge overnight (see § 27.93 of this chapter).

(ii) You must tend trotlines daily. You must attach ends of trotlines by a length of cotton line that extends into the water.

(iii) Recreational fishing using commercial gear (slat traps, etc.) requires a special refuge permit (Special Use Permit (FWS Form 3-1383-G)), which is available at the refuge office. You must possess and carry the special refuge permit while fishing using commercial gear.

(iv) We prohibit the taking of turtle (see § 27.21 of this chapter).

* * * * *

13. Amend § 32.38 by:

a. Revising paragraphs (a) and (b);

b. Redesignating paragraph (e) as paragraph (g) and paragraph (c) as paragraph (e);

c. Adding new paragraph (c);

d. Revising paragraph (d) and newly redesignated paragraphs (e)(2)(i) and (e)(3)(i);

e. Adding paragraph (f).

The additions and revisions read as follows:

§ 32.38 Maine.

* * * * *

(a) Franklin Island National Wildlife Refuge—(1) Migratory game bird hunting. We allow hunting of waterfowl on designated areas of the refuge subject to the following conditions:

(i) We allow the use of dogs consistent with State regulations.

(ii) We allow temporary or portable blinds. We require hunters to remove all portable or temporary blinds and decoys from the refuge following each day's hunt (see § 27.93 of this chapter).

(2)-(4) [Reserved]

(b) Moosehorn National Wildlife Refuge—(1) Migratory game bird hunting. We allow hunting of duck, goose, American woodcock, and snipe on designated areas of the refuge subject to the following conditions:

(i) We allow the use of dogs consistent with State regulations.

(ii) We allow hunters to enter the refuge 1 hour before legal shooting hours, and they must exit the refuge by 1 hour past legal shooting hours.

(iii) We only allow portable or temporary blinds and decoys that must be removed from the refuge following each day's hunt (see § 27.93 of this chapter).

(iv) Hunters must retrieve all species harvested on the refuge.

(2) Upland game hunting. We allow hunting of bobcat, eastern coyote, ruffed grouse, snowshoe hare, red fox, gray and red squirrel, raccoon, skunk, porcupine, and woodchuck on designated areas of the refuge subject to the following conditions:

(i) The conditions set forth at paragraphs (b)(1)(i), (ii) (except for hunters pursuing raccoon and coyote at night), (iii), and (iv) of this section apply.

(ii) We allow hunting for eastern coyote, red squirrel, and woodchuck only from October 1 to March 31.

(3) Big game hunting. We allow hunting of black bear, moose, and white-tailed deer on designated areas of the refuge subject to the following conditions:

(i) The conditions set forth at paragraphs (b)(1)(i), (ii), and (iv) of this section apply.

(ii) We allow tree stands, blinds, and ladders to be set up on the opening day of the archery deer season. Hunters must clearly label tree stands, blinds, or ladders left on the refuge overnight with your State hunting license number and last name. Hunters must remove tree stand(s), blind(s), and/or ladder(s) from the refuge on the last day of the muzzleloader deer season (see § 27.93 of this chapter).

(iii) You may hunt black bear, eastern coyote, and white-tailed deer during the State archery and firearms deer seasons on the Baring Division east of State Route 191.

(iv) We prohibit use of firearms to hunt bear during the archery deer season on the Baring Division east of Route 191. We prohibit the use of firearms, other than a muzzleloader, to hunt coyote during the deer muzzleloader season on the Baring Division east of Route 191.

(4) Sport fishing. We allow sport fishing on designated areas of the refuge subject to the following conditions:

(i) We only allow fishing from ½ hour before legal sunrise to ½ hour after legal sunset.

(ii) We prohibit trapping fish for use as bait.

(c) Petit Manan National Wildlife Refuge—(1) Migratory game bird hunting. We allow hunting of duck, goose, seaduck, brant, woodcock, rail, and snipe on designated areas of the refuge subject to the following conditions:

(i) We allow the use of dogs consistent with State regulations.

(ii) We allow temporary or portable blinds. We require hunters to remove all portable or temporary blinds and decoys from the refuge following each day's hunt (see § 27.93 of this chapter).

(2) Upland game hunting. We allow hunting of ruffed grouse, gray squirrel, red squirrel, skunk, snowshoe hare, fox, coyote, porcupine woodchuck, bobcat, and raccoon on designated areas of the refuge subject to the following conditions:

(i) We prohibit the use of dogs for pursuing game.

(ii) We allow hunting for coyotes, red squirrel, porcupine, and woodchuck from November 1 to March 31.

(iii) Hunters must retrieve all species harvested on the refuge.

(iv) We prohibit night hunting from ½ hour after legal sunset until ½ hour before legal sunrise the following day.

(3) Big game hunting. We allow hunting of white-tailed deer and black bear on designated areas of the refuge subject to the following conditions:

(i) Petit Manan Point is open only during the muzzleloader deer season.

(ii) We allow black bear hunting during the firearm season for white-tailed deer.

(iii) We allow hunters to enter the refuge 1 hour before legal sunrise, and they must exit the refuge no later than 1 hour after legal sunset.

(iv) We prohibit the use of dogs when hunting black bear.

(v) We require hunters to remove all tree stands, blinds, and ladders from the refuge on the last day of muzzleloader deer season (see § 27.93 of this chapter).

(4) [Reserved]

(d) Pond Island National Wildlife Refuge—(1) Migratory game bird hunting. We allow hunting of waterfowl on designated areas of the refuge subject to the following conditions:

(i) We allow the use of dogs consistent with State regulations.

(ii) We allow temporary or portable blinds. We require hunters to remove all portable or temporary blinds and decoys from the refuge following each day's hunt (see § 27.93 of this chapter).

(2)-(4) [Reserved]

(e) * * *

(2) * * *

(i) The conditions set forth at paragraphs (e)(1)(i) and (iii) of this section apply.

* * * * *

(3) * * *

(i) The conditions as set forth at paragraphs (e)(1)(i) and (iv) of this section apply.

* * * * *

(f) Sunkhaze Meadows National Wildlife Refuge—(1) Migratory game bird hunting. We allow hunting of duck, goose, rail, American woodcock, and Wilson's snipe on designated areas of the refuge subject to the following conditions:

(i) We allow the use of dogs consistent with State regulations.

(ii) The hunter must retrieve all species harvested on the refuge.

(iii) We only allow portable or temporary blinds and decoys that must be removed from the refuge following each day's hunt (see § 27.93 of this chapter).

(iv) We allow hunters to enter the refuge 1 hour before legal shooting hours, and they must exit the refuge no later than 1 hour after legal shooting hours.

(2) Upland game hunting. We allow hunting of bobcat, coyote, ruffed grouse, hare, red fox, gray squirrel, red squirrel, raccoon, skunk, and woodchuck on designated areas of the refuge subject to the following conditions:

(i) The conditions set forth at paragraphs (f)(1)(i) through (iv) (except for hunters pursing raccoon or coyote at night) of this section apply.

(ii) We allow hunting for eastern coyote, red squirrel, and woodchuck only from October 1 to March 31.

(3) Big game hunting. We allow hunting of black bear, moose, wild turkey, and white-tailed deer on designated areas of the refuge subject to the following conditions:

(i) The conditions set forth at paragraphs (f)(1)(i), (ii), and (iv) of this section apply.

(ii) We allow tree stands, blinds, and ladders to be set up on the opening day of the archery deer season. Hunters must clearly label tree stands, blinds, or ladders left on the refuge overnight with your State hunting license number and last name. Hunters must remove tree stand(s), blind(s), and/or ladder(s) from the refuge on the last day of the muzzleloader deer season (see § 27.93 of this chapter).

(4) Sport fishing. We allow sport fishing on designated areas of the refuge subject to the following condition: We prohibit trapping fish for use as bait.

* * * * *

14. Amend § 32.41 by revising paragraph (b) to read as follows:

§ 32.41 Michigan.

* * * * *

(b) Harbor Island National Wildlife Refuge—(1) Migratory game bird hunting. We allow hunting of migratory game birds on designated areas of the refuge subject to the following conditions:

(i) Hunters may enter the refuge no earlier than 1 hour before legal sunrise and must leave the refuge no later than 1 hour after legal sunset.

(ii) You must remove boats, blinds, blind materials, stands, decoys, and other hunting equipment from the refuge at the end of each day (see §§ 27.93 and 27.94 of this chapter).

(iii) We allow the use of dogs while hunting in accordance with Michigan State regulations, provided the dog is under the immediate control of the hunter at all times.

(2) Upland game hunting. We allow upland game hunting on designated areas of the refuge subject to the following conditions:

(i) The conditions set forth at paragraphs (b)(1)(i) through (iii) of this section apply.

(ii) For hunting, you may possess only approved nontoxic shot shells while in the field, including shot shells used for hunting wild turkey (see § 32.2(k)).

(3) Big game hunting. We allow hunting of big game subject to the following conditions:

(i) The condition set forth at paragraph (b)(1)(i) of this section applies.

(ii) We prohibit dogs for big game hunting.

(iii) Deer hunters may place one portable stand or blind on the refuge for use while deer hunting, but only during the open deer season. The stand must be clearly labeled with the hunter's Michigan license/sportsmen's identification number. The stand must be removed by the end of the season (see §§ 27.93 and 27.94 of this chapter).

(4) Sport fishing. We allow sport fishing on designated areas of the refuge subject to the following condition: We prohibit the taking of any mussel (clam), crayfish, leech, frog, toad, salamander, snake, lizard, turtle, and other non-fish species by any method on the refuge (see § 27.21 of this chapter).

* * * * *

15. Amend § 32.42 by revising paragraphs (p)(1) introductory text, (p)(1)(v), and (p)(2)(ii) to read as follows:

§ 32.42 Minnesota.

* * * * *

(p) * * *

(1) Migratory game bird hunting. We allow hunting of goose, duck, merganser, coot, Sora/Virginia rail, woodcock, snipe, common moorhen/gallinule, mourning dove, and American crow on designated areas of the refuge subject to the following conditions:

* * * * *

(v) You may only hunt American crow from September 1 through the end of February within the migratory bird hunting area. We prohibit hunting from March 1 through August 31.

* * * * *

(2) * * *

(ii) We allow spring turkey hunting for youth hunters and persons with disabilities, and fall turkey hunting for all hunters, on designated areas of the refuge.

* * * * *

16. Amend § 32.43 by:

a. Revising paragraphs (b)(1)(iv), (b)(3)(i), (c)(1)(iv), and (c)(2)(ii);

b. Removing paragraph (c)(2)(iii);

c. Revising paragraph (c)(3)(i);

d. Removing paragraph (c)(3)(ii);

e. Redesignating paragraphs (c)(3)(iii) through (vii) as paragraphs (c)(3)(ii) through (vi); and

f. Revising paragraphs (d), (e)(1)(iii), (e)(3)(iv), (f)(2)(iii), (g)(1)(iii), (h)(1)(iii), (h)(3)(iv), (i)(1)(iii), (i)(3)(iv), (j), (l)(1)(iv), (l)(2)(i), (l)(3)(i), (m)(1)(iii), and (m)(3)(iv).

The revisions read as follows:

§ 32.43 Mississippi.

* * * * *

(b) * * *

(1) * * *

(iv) Each hunter must obtain a daily Harvest Report (FWS Form 3-2542). You must display the card in plain view on the dashboard of your vehicle so that the State-issued license number is readable. Prior to leaving the refuge, you must complete the reverse side of the card and deposit it at one of the refuge information stations. Include all game harvested, and if you harvest no game, report “0.” We prohibit hunters possessing more than one Harvest Report at a time.

* * * * *

(3) * * *

(i) The conditions set forth at paragraphs (b)(1)(i), (ii), (iv), and (vi) of this section apply.

* * * * *

(c) * * *

(1) * * *

(iv) Each hunter must obtain a daily Harvest Report (FWS Form 3-2542). You must display the card in plain view on the dashboard of your vehicle so that the State-issued license number is readable. Prior to leaving the refuge, you must complete the card and deposit it at one of the refuge information stations. Include all game harvested, and if you harvest no game, report “0.” We prohibit hunters possessing more than one Harvest Report at a time.

* * * * *

(2) * * *

(ii) The conditions set forth at paragraphs (c)(1)(i), (ii), (iv), (v), and (ix) of this section apply.

(3) * * *

(i) The conditions set forth at paragraphs (c)(1)(i), (ii), (iv), (v), and (ix) of this section apply.

* * * * *

(d) Grand Bay National Wildlife Refuge—(1) Migratory game bird hunting. We allow hunting of goose, duck, coot, and dove (mourning and white-winged) on designated areas of the refuge subject to the following conditions:

(i) Each hunter must possess and carry a signed copy of the refuge brochure while participating in refuge hunts.

(ii) Hunters must remove all decoys, blind material, and harvested waterfowl from the refuge at the end of each day's hunt (see § 27.93 of this chapter).

(iii) You must only use portable or temporary blinds.

(iv) We only allow the use of dogs when waterfowl hunting. We require all dogs to wear a collar displaying the owner's contact information.

(v) We allow incidental take of coyote and nutria during any refuge hunt with the weapons legal for that hunt, subject to applicable State seasons and regulations.

(2) Upland game hunting. We allow hunting of squirrel (gray and fox) and rabbit (cottontail and swamp), and incidental take of coyote and nutria, on designated areas of the refuge subject to the following conditions:

(i) The conditions set forth at paragraphs (d)(1)(i) and (v) of this section apply.

(ii) We only allow .22 caliber rimfire rifles.

(3) Big game hunting. We allow hunting of white-tailed deer, and incidental take of feral hog, on designated areas of the refuge subject to the following conditions:

(i) The conditions set forth at paragraphs (d)(1)(i) and (v) of this section apply.

(ii) We only allow hunting with bow and arrow. We prohibit firearms.

(iii) We allow portable and climbing tree stands. Hunters must remove tree stands from the refuge at the end of each day's hunt (see § 27.93 of this chapter).

(iv) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) Anglers may enter the refuge no earlier than 30 minutes prior to sunrise and must leave the refuge no later than 30 minutes after legal sunset each day.

(ii) We prohibit fishing from legal sunset to legal sunrise.

(e) * * *

(1) * * *

(iii) Before hunting or fishing, all participants must display their Daily Visitor Information/Harvest Report Card (Harvest Report, FWS Form 3-2542) in plain view in their vehicle so that the State-issued license number is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

(f) * * *

(2) * * *

(iii) Before hunting or fishing, all participants must display their Daily Visitor Information/Harvest Report Card (Harvest Report, FWS Form 3-2542) in plain view in their vehicle so that the required information is readable. You must return all cards upon completion of the activity and before leaving the refuge.

* * * * *

(g) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(h) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

(i) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

(j) Sam D. Hamilton Noxubee National Wildlife Refuge—(1) Migratory game bird hunting. We allow hunting of duck, light and dark goose, merganser, woodcock, crow, gallinule (purple and common), snipe, and coot on designated areas of the refuge subject to the following conditions:

(i) Hunters and anglers must purchase a North Mississippi Refuge Complex Hunting/Fishing Permit (#606), available from the Mississippi Department of Wildlife, Fisheries, and Parks (MDWFP).

(ii) Youth hunters age 15 and younger and hunters age 65 and older are not required to obtain a North Mississippi Refuge Complex Hunting/Fishing Permit (#606).

(iii) Hunters must remove all decoys, blind material, and harvested game from the refuge by 1 p.m. each day (see §§ 27.93 and 27.94 of this chapter).

(iv) Hunters may enter the refuge at 4 a.m. and must exit the refuge no later than 2 hours after legal sunset, except during raccoon hunts. Waterfowl hunters must exit the refuge no later than 1 p.m.

(v) Each hunter must obtain a daily Harvest Report (FWS Form 3-2542). Hunters must display the card in plain view on the dashboard of the vehicle. Prior to leaving the refuge, hunters must complete the card and deposit it at one of the refuge information stations. Hunters must include all game harvested and if you harvest no game, report “0”. We prohibit hunters possessing more than one Harvest Report at a time.

(vi) We limit waterfowl hunters to 25 shotshells per person.

(vii) Hunters must remove all personal property at the end of each day's hunt from the Noxubee Wilderness Area (see §§ 27.93 and 27.94 of this chapter). Outside the Noxubee Wilderness Area, hunters may leave tree stands labeled with the hunter's State hunting license number used for deer hunting.

(viii) We allow hunting of waterfowl (duck, light and dark goose, merganser, coot, and gallinule) during State seasons, including the State Light Goose Conservation Order, only on Wednesday and Saturdays ending at 12 p.m.

(ix) We allow the use of dogs for retrieval of migratory and upland game only.

(x) We allow incidental take of coyote, beaver, nutria, skunk, fox, and feral hog during any refuge hunt with the weapons legal for that hunt, subject to applicable State seasons and regulations.

(2) Upland game hunting. We allow hunting of squirrel, rabbit, quail, opossum, and raccoon, and incidental take of coyote, fox, skunk, beaver, and nutria, on designated areas of the refuge subject to the following conditions:

(i) The conditions set forth at paragraphs (j)(1)(i), (ii), (iv), (v), (vii), (ix), and (x) of this section apply.

(ii) We allow raccoon and opossum hunting between the hours of legal sunset and legal sunrise.

(3) Big game hunting. We allow hunting of white-tailed deer turkey, and incidental take of feral hog, on designated areas of the refuge subject to the following conditions:

(i) The conditions set forth at paragraphs (j)(1)(i), (ii), (iv), (v), (vii), and (x) of this section apply.

(ii) We prohibit the use of buckshot on the refuge.

(iii) We prohibit organized deer drives. We define a “deer drive” as an organized or planned effort to pursue, drive, chase, or otherwise frighten or cause deer to move in the direction of any person(s) who is part of the organized or planned hunt and known to be waiting for the deer.

(iv) You may place one portable tree stand or ground blind for deer hunting on the refuge only during the open deer season. You must clearly label the stand or blind with your State hunting license number.

(v) While climbing a tree, installing a tree stand that uses climbing aids, or hunting from a tree stand on the refuge, you must use a fall-arrest system (full body harness) that is manufactured to the Treestand Manufacturer's Association standards.

(vi) Hunters may place deer stands on the refuge 7 days prior to the hunt, and hunters must remove deer stands no more than 7 days after the refuge's deer season closes (see § 27.93 of this chapter).

(4) Sport fishing. We allow sport fishing on designated areas of the refuge subject to the following conditions:

(i) The general sport fishing, boating, and bow fishing season extends from March 1 through October 31, except that we open the shoreline of Bluff Lake from the Bluff Lake Boardwalk to the visitor center, the entire Noxubee River, and all borrow pit areas along Highway 25 to fishing year-round.

(ii) The condition set forth at paragraph (j)(1)(i) of this section applies.

(iii) Anglers must keep boat travel at idle speed, and they must not create a wake when moving.

(iv) When left unattended, anglers must tag fishing gear with their State fishing license number. Anglers must check all gear within 24 hours each day or remove these devices (see § 27.93 of this chapter).

(v) We allow trotlining on the refuge subject to the following conditions:

(A) Anglers must label each end of the trotline floats with the owner's State fishing license number.

(B) We limit trotlines to one line per person, and we allow no more than two trotlines per boat.

(C) Anglers must tend all trotlines every 24 hours, and must remove them when not in use (see § 27.93 of this chapter).

(D) Trotlines must possess at least 6-inch (15.2-centimeter) cotton string leads.

(vi) We allow jug fishing on the refuge subject to the following conditions:

(A) Anglers must label each jug with their State fishing license number.

(B) Anglers must check all jugs every 24 hours, and must remove them when not in use (see § 27.93 of this chapter).

(vii) We prohibit bow fishing after legal sunset.

(viii) We prohibit fishing tournaments on all refuge waters.

(ix) We prohibit the taking of frogs, turtles, and crawfish (see § 27.21 of this chapter).

(x) We prohibit using nets of any type to capture free-roaming fish or wildlife. You may use a fishing net to recover fish caught by hook and line.

(xi) Outside the Noxubee Wilderness Area, anglers may leave trotlines and jugs used for fishing overnight if they are labeled with the angler's State fishing license number.

* * * * *

(l) * * *

(1) * * *

(iv) Each hunter must obtain a daily Harvest Report (FWS Form 3-2542). You must display the card in plain view on the dashboard of your vehicle so that the State-issued license number is readable. Prior to leaving the refuge, you must complete the card and deposit it at one of the refuge information stations. Include all game harvested, and if you harvest no game, report “0.” We prohibit hunters possessing more than one Harvest Report at a time.

* * * * *

(2) * * *

(i) The conditions set forth at paragraphs (l)(1)(i), (ii), (iv), (v), and (ix) of this section apply.

* * * * *

(3) * * *

(i) The conditions set forth at paragraphs (l)(1)(i), (ii), and (iv) of this section apply.

* * * * *

(m) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

17. Amend § 32.44 by revising paragraphs (b)(3)(i), (f)(2)(iii), and (f)(3)(ii) to read as follows:

§ 32.44 Missouri.

* * * * *

(b) * * *

(3) * * *

(i) You must register at the hunter sign-in/out station and record the sex and age of deer harvested on the Harvest Report (FWS Form 3-2542).

* * * * *

(f) * * *

(2) * * *

(iii) We require that all hunters complete a Harvest Report (FWS Form 3-2542) located at the exit kiosks prior to exiting the refuge.

* * * * *

(3) * * *

(ii) We require that all hunters complete the Harvest Report (FWS Form 3-2542) located at the exit kiosks prior to exiting the refuge.

* * * * *

18. Amend § 32.45 by:

a. Revising paragraph (f)(3) introductory text;

b. Adding paragraph (f)(3)(iv);

c. Removing paragraph (q);

d. Redesignating paragraphs (r) through (y) as paragraphs (q) through (x);

e. Revising newly redesignated paragraph (w)(3) introductory text; and

f. Adding paragraph (w)(3)(iv).

The revisions and additions read as follows:

§ 32.45 Montana.

* * * * *

(f) * * *

(3) Big game hunting. We allow hunting of elk, pronghorn, white-tailed deer, mule deer, and mountain lion on designated areas of the refuge subject to the following conditions:

* * * * *

(iv) Mountain lion hunting will follow State-established dates for the archery-only and fall seasons.

* * * * *

(w) * * *

(3) Big game hunting. We allow hunting of elk, pronghorn, white-tailed deer, mule deer, and mountain lion on designated areas of the refuge subject to the following conditions:

* * * * *

(iv) Mountain lion hunting will follow State-established dates for the archery-only and fall seasons.

* * * * *

19. Amend § 32.47 by adding paragraphs (b)(1) and (2) to read as follows:

§ 32.47 Nevada.

* * * * *

(b) * * *

(1) Migratory game bird hunting. We allow hunting of dove on designated areas of the refuge subject to the following conditions:

(i) We allow hunting on designated days.

(ii) You may not possess more than 25 shot shells while in the field once you have left your vehicle.

(2) Upland game hunting. We allow hunting of chukar and quail on designated areas of the refuge subject to the following condition: The conditions set forth at paragraphs (b)(1)(i) and (ii) of this section apply.

* * * * *

20. Amend § 32.48 by revising paragraph (b) to read as follows:

§ 32.48 New Hampshire.

* * * * *

(b) Silvio O. Conte National Fish and Wildlife Refuge—(1) Migratory game bird hunting. We allow hunting of duck, goose, coot, common snipe, and American woodcock on designated areas of the refuge subject to the following condition: We allow the use of dogs consistent with State regulations, except hunters using more than two dogs must possess a Special Use Permit (FWS Form 3-1383-G) issued by the refuge manager.

(2) Upland game hunting. We allow hunting of coyote, fox, raccoon, woodchuck, red squirrel, eastern gray squirrel, porcupine, skunk, crow, snowshoe hare, muskrat, opossum, fisher, mink, weasel, ring-necked pheasant, and ruffed grouse on designated areas of the refuge subject to the following conditions:

(i) We allow the use of dogs consistent with State regulations, except hunters using more than two dogs must possess a Special Use Permit (FWS Form 3-1383-G) issued by the refuge manager.

(ii) We allow the training of dogs as governed by State regulations during daylight hours beginning August 1, if the trainer possesses a Special Use Permit (FWS Form 3-1383-G) issued by the refuge manager.

(3) Big game hunting. We allow hunting of white-tailed deer, moose, black bear, and wild turkey on designated areas of the refuge subject to the following conditions:

(i) The conditions set forth at paragraphs (b)(2)(i) and (ii) of this section apply.

(ii) We allow tree stands and blinds that are clearly marked with the owner's State hunting license number.

(iii) You must remove your tree stand(s) and blind(s) no later than 72 hours after the close of the season (see § 27.93 of this chapter).

(4) Sport fishing. We allow sport fishing on designated areas of the refuge.

* * * * *

21. Amend § 32.49 by:

a. Revising paragraphs (a), (c), (d), and (e)(2)(ii);

b. Adding paragraph (e)(3)(iii); and

c. Revising paragraphs (e)(4) introductory text and (e)(4)(i) and (iv).

The revisions and addition read as follows:

§ 32.49 New Jersey.

* * * * *

(a) Cape May National Wildlife Refuge—(1) Migratory game bird hunting. We allow hunting of light goose, dark goose, duck, sea duck, gallinule, coot, rail, snipe, crow, and woodcock on designated areas of the refuge subject to the following conditions:

(i) We allow the use of dogs consistent with State regulations.

(ii) The snipe and crow season on the refuge begins with the start of the State woodcock south zone season and continues through the end of the State snipe and crow seasons.

(iii) We prohibit falconry.

(iv) We prohibit night hunting from ½ hour after legal sunset until ½ hour before legal sunrise the following day.

(2) Upland game hunting. We allow hunting of coyote, fox, woodchuck, rabbit, squirrel, and pheasant on designated areas of the refuge subject to the following conditions:

(i) The conditions set forth at paragraphs (a)(1)(i), (iii), and (iv) of this section apply.

(ii) We allow woodchuck hunting from the beginning of the State woodcock south zone season until the end of the State rabbit season.

(iii) Coyote, fox, rabbit, squirrel, and pheasant seasons open at the beginning of the State woodcock south zone season and close in accordance with the State seasons for each species.

(3) Big game hunting. We allow hunting of white-tailed deer and turkey on designated areas of the refuge subject to the following conditions:

(i) The conditions set forth at paragraphs (a)(1)(i), (iii), and (iv) of this section apply.

(ii) Tree stands must be marked with the owner's New Jersey conservation identification number.

(iii) We allow turkey hunting during the State fall season.

(iv) We require the use of nontoxic ammunition for turkey hunting.

(4) Sport fishing. We allow saltwater sport fishing on designated areas of the refuge subject to the following conditions:

(i) We allow fishing from 1 hour before legal sunrise to 1 hour after legal sunset.

(ii) We close the Atlantic Ocean portion of the Two Mile Beach Unit annually to all access, including fishing, between April 1 and September 30.

(iii) We prohibit fishing for, or possession of, crab or shellfish on refuge lands.

* * * * *

(c) Great Swamp National Wildlife Refuge—(1) Migratory game bird hunting. We allow hunting of Canada goose on designated areas of the refuge subject to the following conditions:

(i) We allow the use of dogs consistent with State regulations.

(ii) Hunters must obtain a refuge hunt permit (FWS Form 3-2439), and possess the signed refuge permit at all times while hunting or scouting on the refuge.

(2) Upland game hunting. We allow hunting of coyote and fox on designated areas of the refuge subject to the following condition: We only allow the incidental take of coyote and fox during the refuge deer and turkey hunts.

(3) Big game hunting. We allow hunting of white-tailed deer and wild turkey on designated areas of the refuge subject to the following conditions:

(i) We require the use of nontoxic shot while hunting wild turkey.

(ii) We allow hunters to use sleds to retrieve deer in the Wilderness Area east of Long Hill/New Vernon Road. We prohibit wheeled game carriers in the Wilderness Area.

(iii) We prohibit organized deer drives. We define a “deer drive” as an organized or planned effort to pursue, drive, chase, or otherwise frighten or cause deer to move in the direction of any person(s) who is part of the organized or planned hunt and known to be waiting for the deer.

(4) [Reserved]

(d) Supawna Meadows National Wildlife Refuge—(1) Migratory game bird hunting. We allow hunting of light goose, dark goose, duck, sea duck, gallinule, coot, crow, rail, and snipe on designated areas of the refuge subject to the following conditions:

(i) We allow the use of dogs consistent with State regulations.

(ii) We prohibit falconry.

(iii) We prohibit night hunting from ½ hour after legal sunset until ½ hour before legal sunrise the following day.

(2) Upland game hunting. We allow hunting of coyote, fox, woodchuck, rabbit, squirrel, and pheasant on designated areas of the refuge subject to the following conditions:

(i) We allow woodchuck hunting only during the State coyote and fox seasons.

(ii) The conditions set forth at paragraphs (d)(1)(ii) and (iii) of this section apply.

(3) Big game hunting. We allow hunting of white-tailed deer and turkey on designated areas of the refuge subject to the following conditions:

(i) The conditions set forth at paragraphs (d)(1)(i) through (iii) of this section apply.

(ii) We require the use of nontoxic ammunition for turkey hunting.

(iii) We allow archery hunting for white-tailed deer during all six State Deer Management Zone 63 seasons and on youth hunting days.

(4) Sport fishing. We allow sport fishing on designated areas of the refuge subject to the following conditions:

(i) We prohibit the taking of frogs and turtles from all nontidal waters and refuge lands (see § 27.21 of this chapter).

(ii) We allow fishing in designated nontidal waters from 1 hour before legal sunrise to 1 hour after legal sunset.

(iii) We prohibit bow fishing in nontidal waters.

(iv) We prohibit fishing for, or possession of, crab and shellfish on refuge lands.

(e) * * *

(2) * * *

(ii) We prohibit night hunting from ½ hour after legal sunset until ½ hour before legal sunrise the following day.

(3) * * *

(iii) We require the use of nontoxic ammunition for turkey hunting.

(4) Sport fishing. We allow sport fishing on designated areas of the refuge subject to the following conditions:

(i) At Owens Station Crossing and Hidden Ponds fishing areas, we allow catch-and-release fishing only.

* * * * *

(iv) We prohibit minnow and bait trapping.

22. Amend § 32.50 by:

a. Redesignating paragraph (b)(3)(iii) as paragraph (b)(3)(iv);

b. Adding new paragraphs (b)(3)(iii) and (v); and

c. Revising paragraphs (c) and (f)(1)(iv).

The additions and revisions read as follows:

§ 32.50 New Mexico.

* * * * *

(b) * * *

(3) * * *

(iii) We allow hunting of bearded Rio Grande turkey on the Bajada Hunt Unit, East Hunt Unit, and West Hunt Unit during the general spring turkey season only, as defined by the State. You may take bearded Rio Grande turkey only with a method allowed within each refuge hunt unit.

* * * * *

(v) In the Bajada Hunt Unit, we restrict the methods of take to bow and arrow, crossbow, and muzzleloader or muzzleloading shotguns only, as defined by the State. In the East Hunt Unit and West Hunt Unit, we allow any legal weapon during State big game hunting designated dates.

* * * * *

(c) Las Vegas National Wildlife Refuge—(1) Migratory game bird hunting. We allow hunting of mourning and white-winged dove and goose on designated areas of the refuge subject to the following conditions:

(i) We allow the use of dogs when hunting.

(ii) Hunters must possess a permit (FWS Form 3-2439).

(iii) We allow the hunting of dove from September 1 to September 30.

(iv) We allow the hunting of goose on dates to be determined by refuge staff.

(v) Shooting hours for geese are from ½ hour before legal sunrise until 1 p.m. local time.

(vi) We assign an aggregate bag limit for geese.

(vii) We prohibit falconry on the refuge.

(2) Upland game hunting. We allow hunting of Eurasian collared-dove, desert cottontail, and Eastern cottontail on designated areas of the refuge subject to the following conditions:

(i) The conditions set forth at paragraphs (c)(1)(i), (ii), and (vii) of this section apply.

(ii) We allow the hunting of Eurasian collared-dove and cottontail rabbits from September 1 to September 30.

(iii) We allow only shotgun, muzzleloading shotgun firing shot, bow and arrow, and crossbow for hunting.

(3) Big game hunting. We allow youth elk hunts on designated areas of the refuge subject to the following conditions:

(i) Hunters must attend a refuge hunter orientation before hunting on the refuge.

(ii) Hunters may be accompanied by a maximum of two non-hunting guests.

(iii) Hunters are assigned a hunt unit.

(4) [Reserved]

* * * * *

(f) * * *

(1) * * *

(iv) In Units A and B, the Cornerstone Marsh Unit and Pintail blind, we require a Mobility-Impaired Certification (per Mobility-Impaired Certification in the State hunting rules and information pamphlet).

* * * * *

23. Amend § 32.51 by:

a. Revising paragraphs (c)(1)(ii)(E), (d), (i)(2) introductory text, and (i)(2)(ii);

b. Adding paragraph (i)(3)(iii); and

c. Revising paragraphs (i)(4)(i), (iii), and (iv).

The revisions and addition read as follows:

§ 32.51 New York.

* * * * *

(c) * * *

(1) * * *

(ii) * * *

(E) We allow hunting from legal starting time until 12 p.m. (noon). We require hunters to return a completed Harvest Report (FWS Form 3-2542) no later than 1 p.m. on the day of the hunt.

* * * * *

(d) Montezuma National Wildlife Refuge—(1) Migratory game bird hunting. We allow hunting of waterfowl, Canada goose, snow goose, and gallinule on designated areas of the refuge subject to the following conditions:

(i) We allow the use of dogs consistent with State regulations.

(ii) For the regular waterfowl season and October through January season for Canada goose:

(A) We require daily refuge permits (FWS Form 3-2542) and reservations; we issue permits to hunters with a reservation for that hunt day. Permits may become available on a first-come/first-served, self-serve basis during New York State's second split, subject to hunting conditions and the refuge manager's discretion. We require you to complete and return your permit by the end of the hunt day.

(B) We allow hunting only on Tuesdays, Thursdays, and Saturdays during the established refuge season set within the State western zone season, and during New York State's established special hunts, which can occur any day of the week as set by the State.

(C) All hunters with reservations and their hunting companions must check-in at the Route 89 Hunter Check Station area at least 1 hour before legal shooting time or forfeit their reservation.

(D) We allow motorless boats to hunt waterfowl. We limit hunters to one boat per reservation and one motor vehicle in the hunt area per reservation. Hunters may enter the refuge/Hunter Check Station area no earlier than 2 hours before legal sunrise.

(E) We prohibit shooting from within 500 feet (152 meters) of the Tschache Pool observation tower.

(F) We require proof of successful completion of the New York State waterfowl identification course, the Montezuma nonresident waterfowl identification course, or a suitable nonresident State waterfowl identification course. All hunters must show proof of successful course completion each time they hunt.

(G) You may hunt gallinule and Canada goose on refuge areas designated for the regular waterfowl season only during the regular waterfowl season.

(iii) For Canada goose in September and snow goose hunting:

(A) We allow hunting of Canada goose during the New York State September season and hunting of snow goose during portions of the New York State snow goose season and portions of the period covered by the Light Goose Conservation Order.

(B) You must possess a valid daily hunt permit (FWS Form 3-2542). We require you to complete and return the daily hunt permit card by the end of the hunt day.

(C) For snow goose hunting, hunters may enter the refuge/Hunter Check Station area no earlier than 4 hours before legal sunrise. For Canada goose hunting, hunters may enter the refuge/Hunter Check Station area no earlier than 2 hours before legal sunrise.

(2) Upland game hunting. We allow hunting of rabbit and squirrel on designated areas of the refuge subject to the following conditions:

(i) The condition set forth at paragraph (d)(1)(i) of this section applies.

(ii) You must possess a valid daily hunt permit (FWS Form 3-2542) and are required to complete and return the daily hunt permit card by the end of each hunt day.

(iii) We allow upland game hunters to access the refuge from 2 hours before legal sunrise until 2 hours after legal sunset.

(iv) We require the use of approved nontoxic shot for upland game hunting (see § 32.2(k)).

(3) Big game hunting. We allow hunting of white-tailed deer and wild turkey on designated areas of the refuge subject to the following conditions:

(i) The condition set forth at paragraph (d)(1)(i) of this section applies.

(ii) You must possess a valid daily hunt permit (FWS Form 3-2542). We require you to complete and return the daily hunt permit card by the end of the hunt day.

(iii) We allow white-tailed deer and turkey hunters to access the refuge from 2 hours before legal sunrise until 2 hours after the end of legal shooting time.

(iv) We allow youth and special big game hunts during New York State's established youth and special big game hunts each year.

(4) Sport fishing. We allow access for fishing from designated areas of the refuge subject to the following condition: We prohibit the use of lead fishing tackle.

* * * * *

(i) * * *

(2) Upland game hunting. We allow hunting of rabbit/hare, gray/black/fox squirrel, pheasant, jackrabbit, chukar, woodchuck, bobwhite quail, ruffed grouse, crow, red/gray fox, coyote, bobcat, raccoon, skunk, mink, weasel, and opossum on designated areas of the refuge subject to the following conditions:

* * * * *

(ii) We prohibit night hunting from ½ hour after legal sunset until ½ hour before legal sunrise the following day.

(3) * * *

(iii) We require nontoxic ammunition while hunting turkey.

(4) * * *

(i) At Owens Station Crossing and Hidden Ponds fishing areas, we allow catch-and-release fishing only.

* * * * *

(iii) We prohibit the taking of amphibians and reptiles (see § 27.21 of this chapter).

(iv) We prohibit minnow and bait trapping.

* * * * *

24. Amend § 32.52 by:

a. Revising paragraph (d);

b. Adding paragraph (e)(1); and

c. Revising paragraph (e)(3).

The revisions and addition read as follows:

§ 32.52 North Carolina.

* * * * *

(d) Great Dismal Swamp National Wildlife Refuge. Refer to § 32.65(g) for regulations.

(e) * * *

(1) Migratory game bird hunting. We allow hunting of swan, light and dark goose, duck, merganser, coot, moorhen, and gallinule on designated areas of the refuge subject to the following conditions:

(i) We require a North Carolina Waterfowl Hunt Permit or a signed refuge hunt brochure that must be carried while hunting on the refuge.

(ii) Hunters must hunt from their assigned blind location.

(iii) We allow hunting from ½ hour before legal sunrise to 4:20 p.m. (as governed by County regulations).

(iv) We allow hunters to access the refuge 1½ hours before legal shooting time until 5:20 p.m.

(v) We allow incidental take of coyote and feral hog while hunting.

* * * * *

(3) Big game hunting. We allow hunting of deer, and incidental take of feral hog, on designated areas of the refuge subject to the following conditions:

(i) We require a signed refuge hunt brochure that hunters must sign and carry while hunting on the refuge.

(ii) We allow the use of shotguns, muzzleloading rifles/shotguns, pistols, crossbows, and bows. We prohibit the use of all other rifles.

(iii) We allow access to hunting areas from 5 a.m. until 8 p.m.

(iv) We prohibit carrying a loaded firearm on or within 50 feet (15 meters) of gravel roads.

(v) The condition set forth at paragraph (e)(1)(v) of this section applies.

* * * * *

25. Amend § 32.53 by:

a. Removing paragraph (e)(3)(i);

b. Redesignating paragraphs (e)(3)(ii) and (iii) as paragraphs (e)(3)(i) and (ii); and

c. Revising the heading of paragraph (k).

The revision reads as follows:

§ 32.53 North Dakota.

* * * * *

(k) Canfield Lake National Wildlife Refuge.

* * * * *

26. Amend § 32.55 by:

a. Revising paragraphs (a)(1)(i), (a)(3)(i), (b)(1)(iii), (b)(2)(iii), (b)(3)(vi), (d)(2)(i), and (f)(1)(i) and (ii);

b. Removing paragraph (f)(1)(iv);

c. Redesignating paragraphs (f)(1)(v) through (vii) as paragraphs (f)(1)(iv) through (vi); and

d. Revising paragraphs (f)(2) introductory text, (f)(2)(i), (f)(3)(i) and (ii), (f)(4), (g)(1)(ii), (g)(4)(ii), (i)(1)(i), (j)(1)(i), and (j)(4).

The revisions read as follows:

§ 32.55 Oklahoma.

* * * * *

(a) * * *

(1) * * *

(i) You must possess and carry a signed refuge hunt brochure.

* * * * *

(3) * * *

(i) You must possess and carry a signed refuge hunt brochure for the archery deer hunt. Hunters must turn in a Harvest Report (FWS Form 3-2542) by December 31 annually. Failure to submit the report will render the hunter ineligible for the next year's limited season archery deer hunt.

* * * * *

(b) * * *

(1) * * *

(iii) You must possess and carry a signed refuge hunt brochure while hunting.

* * * * *

(2) * * *

(iii) You may take beaver, raccoon, and coyote as incidental take to any daytime established refuge hunt with legal weapons and a signed hunt brochure for the current hunt season.

* * * * *

(3) * * *

(vi) You may hunt feral hog during any established refuge hunting season. Signed refuge hunt brochure and legal weapons apply for the current hunting season.

* * * * *

(d) * * *

(2) * * *

(i) You must possess and carry a signed refuge hunt brochure.

* * * * *

(f) * * *

(1) * * *

(i) You must possess and carry a signed refuge hunt brochure.

(ii) We open the refuge to hunting only on Saturdays, Sundays, Mondays, and Tuesdays. We allow hunters to enter the Sandtown Bottom Unit or any portion of Sally Jones Lake beginning at 5 a.m., and hunters must leave the area by 1 hour after legal sunset.

* * * * *

(2) Upland game hunting. We allow hunting of Eastern gray and fox squirrel and swamp and Eastern cottontail rabbit on designated areas of the refuge subject to the following conditions:

(i) The conditions set forth at paragraphs (f)(1)(i) through (vi) of this section apply.

* * * * *

(3) * * *

(i) The conditions set forth at paragraphs (f)(1)(i) through (iii) and (vi) of this section apply.

(ii) We require a limited hunt permit (State-issued) for controlled hunts for muzzleloader and archery deer, and for spring wild turkey hunts.

* * * * *

(4) Sport fishing. We allow fishing and frogging on designated areas of the refuge subject to the following conditions:

(i) We prohibit fishing or frogging from September 1 through March 31 in the waterfowl sanctuary south of refuge headquarters, as designated by buoys and signs.

(ii) You must remove setlines (trotlines, throwlines, juglines, limblines, yo-yos) from the waterfowl sanctuary before September 1 (see § 27.93 of this chapter).

(iii) The conditions set forth at paragraphs (f)(1)(v) and (vii) of this section apply.

(iv) We prohibit the take of reptiles, amphibians (except bullfrogs), mollusks, and crayfish (see § 27.21 of this chapter).

(v) We prohibit the use of setlines in creeks and tributaries entering the Arkansas River or Canadian River on the refuge.

(g) * * *

(1) * * *

(ii) Hunters must possess and carry a signed hunt brochure.

* * * * *

(4) * * *

(ii) Anglers may use boats from March 1 through September 30 in designated waters unless otherwise specified on the fishing brochure.

* * * * *

(i) * * *

(1) * * *

(i) We require hunters to carry a signed refuge hunt brochure while hunting duck, goose, merganser, and sandhill crane.

* * * * *

(j) * * *

(1) * * *

(i) Hunters must possess a current signed refuge hunt brochure while hunting on the refuge.

* * * * *

(4) Sport fishing. We allow fishing on designated areas of the refuge subject to the following conditions:

(i) You may take fish only with pole and line or rod and reel.

(ii) We prohibit taking of frogs and turtles (see § 27.21 of this chapter).

(iii) Anglers may use motorized boats on Elmer Thomas Lake; however, we enforce a no-wake rule on the lake.

(iv) Anglers may use hand-powered boats or boats 14 feet or less in length with an electric trolling motor only on Elmer Thomas, Jed Johnson, Rush, Quanah Parker, and French Lakes.

(v) We allow fishing after legal sunset on the refuge including by boat, but we prohibit all other boating after legal sunset.

(vi) We prohibit fishing from public roadways and bridges opened to motorized vehicles.

(vii) We allow wading when fishing, provided that wading anglers must use tube-type floaters, life jackets, or buoyant vests.

(viii) We close Kiowa Lake to fishing except for shoreline fishing associated with a U.S. Fish and Wildlife Service-sponsored aquatic education program.

27. Amend § 32.56 by:

a. Revising paragraphs (k)(1) through (3), (q)(1)(xi), (t)(1) introductory text, and (t)(1)(viii);

b. Adding paragraph (u)(1); and

c. Revising paragraph (u)(3).

The revisions and addition read as follows:

§ 32.56 Oregon.

* * * * *

(k) * * *

(1) Migratory game bird hunting. We allow hunting of dove, goose, duck, merganser, coot, and snipe on designated areas of the refuge subject to the following conditions:

(i) We allow nonmotorized boats or boats equipped with only electric motors on the North and South Malheur Lake Hunt Units.

(ii) We allow only portable and temporary hunting blinds.

(iii) You must remove boats, decoys, blinds, materials, and all personal property at the end of each day's hunt (see §§ 27.93 and 27.94 of this chapter).

(iv) You may take Eurasian collared-dove only during the State mourning dove season.

(2) Upland game hunting. We allow hunting of pheasant, quail, partridge, chukar, rabbit, hare, and coyote on designated areas of the refuge.

(3) Big game hunting. We allow hunting of deer and pronghorn on designated areas of the refuge subject to the following conditions:

(i) We allow only short-range weapons (archery, shotgun, and muzzleloader) on the Buena Vista Unit.

(ii) Mule deer hunting in the Buena Vista Unit will close the Friday before the opening day of the Oregon Statewide rooster pheasant season.

* * * * *

(q) * * *

(1) * * *

(xi) Hunters must check-in and check-out with a refuge representative and submit a Harvest Report (FWS Form 3-2542) when checking out.

* * * * *

(t) * * * (1) Migratory game bird hunting. We allow hunting of duck and coot on designated areas of the refuge subject to the following conditions:

* * * * *

(viii) Hunters must submit a Harvest Report (FWS Form 3-2542) at the end of each day's hunt.

* * * * *

(u) * * *

(1) Migratory game bird hunting. We allow hunting of duck, goose, and coot on designated areas of the refuge subject to the following conditions:

(i) We allow only portable and temporary hunting blinds.

(ii) You must remove all blinds, decoys, shotshell hulls, and other personal equipment and garbage from the refuge at the end of each day's hunt (see §§ 27.93 and 27.94 of this chapter).

(iii) Hunters may enter the refuge no earlier than 2 hours before legal shooting hours and must exit the refuge no later than 1 hour after legal shooting hours.

(iv) We allow the use of dogs when hunting.

* * * * *

(3) Big game hunting. We allow deer and elk hunting on designated areas of the refuge subject to the following conditions:

(i) You may harvest only antlerless elk.

(ii) We require a refuge permit (FWS Form 3-2439) for hunting elk.

(iii) We prohibit hunting from any refuge structure, observation blind, or boardwalk.

(iv) We allow short-range weapons only. We allow archery hunting only on the William L. Finley and Snag Boat Bend Zone 2 hunt units.

(v) Hunters may enter the refuge no earlier than 1 hour before legal shooting hours and must exit the refuge no later than 1 hour after legal shooting hours.

* * * * *

28. Amend § 32.57 by revising paragraph (a)(2) to read as follows:

§ 32.57 Pennsylvania.

* * * * *

(a) * * *

(2) Upland game hunting. We allow hunting of squirrel, grouse, rabbit, pheasant, quail, woodchuck, crow, fox, raccoon, opossum, skunk, weasel, coyote, chukar, and bobcat on designated areas of the refuge subject to the following conditions:

(i) The conditions set forth at paragraphs (a)(1)(i) and (iii) of this section apply.

(ii) We prohibit night hunting from ½ hour after legal sunset until ½ hour before legal sunrise the following day.

* * * * *

29. Amend § 32.59 by revising paragraphs (b)(3)(iii), (c)(1)(i), (ii) and (v), and (c)(3) to read as follows:

§ 32.59 South Carolina.

* * * * *

(b) * * *

(3) * * *

(iii) Harvested deer, feral hog, or turkey must be checked at the designated check station prior to removal from the refuge. Hunters must complete the Harvest Report (FWS Form 3-2542).

* * * * *

(c) * * *

(1) * * *

(i) We require each hunter to carry at all times while hunting a valid signed, current refuge hunting brochure.

(ii) Each youth hunter (age 15 and younger) must remain within sight and normal voice contact of an assistant, parent, or guardian age 21 or older. Youth hunters must have successfully completed a State-approved hunter education course.

* * * * *

(v) We only allow the use of dogs when migratory game bird hunting.

* * * * *

(3) Big game hunting. We allow hunting of white-tailed deer and turkey, and incidental take of feral hog, on designated areas of the refuge subject to the following conditions:

(i) The conditions set forth at paragraphs (c)(1)(i) and (ii) of this section apply.

(ii) Only youth hunters may hunt turkey on the refuge.

(iii) Except for the special quota permit hunts, we allow only archery or muzzleloader hunting for deer. During special quota permit hunts, we allow use of centerfire rifles or shotguns. We only allow shotguns for turkey hunts.

(iv) On hunt days, hunters and assistants, parents, or guardians may enter the refuge no earlier than 5 a.m. and must leave the refuge no later than 1 hour after legal sunset. We allow hunting from ½ hour before official sunrise until ½ hour after official sunset.

(v) We require all deer taken during any hunt to be checked at the designated refuge check station before removal from the refuge. In addition, all deer and turkey must be tagged (State-issued).

(vi) The refuge daily bag limit is two antlerless deer and one antlered buck that must have at least three antler points on one side. We define a “point” as an antler projection of at least 1 inch (2.5 centimeters) or more in length. The youth turkey hunter bag limit is one male turkey.

(vii) We allow incidental take of feral hog during deer hunts only. There is no size or bag limit on hogs. We may offer special hog hunts during and after deer season to further control this invasive species. We prohibit removal of live hogs from the refuge.

(viii) You must hunt deer from an elevated deer stand. We prohibit shooting big game from a boat.

(ix) All permanently fixed ground blinds are for the mobility-impaired hunt only.

(x) We prohibit crossbows on the archery hunts. We only allow muzzleloading rifles using a single projectile on the muzzleloader hunts. We prohibit buckshot.

(xi) You may use flagging to mark the site of hunter entry from roads or trails and again at the stand site. You may use clothespins with reflective tape between these sites to mark the route to the stand. Hunters must label all such markers with their last name and State hunting license number.

(xii) We require hunters to wear an outer garment visible above the waist that contains a minimum of 500 square inches (3,226 square centimeters) of solid, florescent-orange material at all times during the muzzleloader and mobility-impaired hunts for deer.

(xiii) We prohibit organized deer drives. We define a “deer drive” as an organized or planned effort to pursue, drive, chase, or otherwise frighten or cause deer to move in the direction of any person(s) who is part of the organized or planned hunt and known to be waiting for the deer.

(xiv) We prohibit accessing hunt units by watercraft.

* * * * *

30. Amend § 32.60 by:

a. Revising paragraph (b)(4)(i);

b. Adding paragraph (b)(4)(iii); and

c. Revising paragraph (h)(4).

The revisions and addition read as follows:

§ 32.60 South Dakota.

* * * * *

(b) * * *

(4) * * *

(i) We prohibit the use or possession of live minnows or bait fish.

* * * * *

(iii) We prohibit the use of lead fishing sinkers on all waters of the refuge except the Little River Recreation Area.

* * * * *

(h) * * *

(4) Sport fishing. We allow fishing on designated areas of the refuge subject to the following conditions:

(i) Ice fishing anglers must not be on the ice until 1 hour prior to legal sunrise and must be off the ice by 1 hour after legal sunset.

(ii) Ice fishing anglers must remove ice shacks by 1 hour after legal sunset (see § 27.93 of this chapter).

(iii) We restrict angler foot travel to posted access points, public roads, and lake ice.

(iv) We allow fishing with the use of nonmotorized boats, canoes, and kayaks.

* * * * *

31. Amend § 32.62 by:

a. Revising paragraphs (a)(1)(i) and (ii), (e)(1) introductory text, (e)(1)(i), (iii) and (ix);

b. Adding paragraphs (e)(1)(x) through (xii);

c. Revising paragraph (e)(4)(iii);

d. Redesignating paragraph (e)(4)(iv) as paragraph (e)(4)(v);

e. Adding new paragraphs (e)(4)(iv) and (g)(2);

f. Revising paragraphs (g)(3), (h)(1)(i), (h)(2), (h)(3)(iv), (i)(3)(ii) and (iii);

g. Removing paragraph (i)(3)(iv);

h. Redesignating paragraphs (i)(3)(v) through (xi) as paragraphs (i)(3)(iv) through (x);

i. Revising newly redesignated paragraphs (i)(3)(iv) and (viii);

j. Revising paragraphs (i)(4), (j)(1)(i), (k)(1)(ii), (viii) and (xii);

k. Redesignating paragraphs (l) through (n) as paragraphs (n) through (p);

l. Adding new paragraphs (l) and (m); and

m. Revising newly redesignated paragraphs (n)(4)(ii), (o)(1)(ii), (o)(4)(iii), (p)(2)(i) through (iii), and (p)(3)(i) and (ii).

The revisions and additions read as follows:

§ 32.62 Texas.

* * * * *

(a) * * *

(1) * * *

(i) You must carry a current signed refuge hunting permit (signed refuge hunt brochure) while waterfowl hunting on all refuge hunt units.

(ii) Season dates for waterfowl will be concurrent with the State, except as specified in the refuge hunt brochure.

* * * * *

(e) * * *

(1) Migratory game bird hunting. We allow hunting of goose, duck, coot, merganser, mourning dove, white-winged dove, Eurasian collared-dove, and rock pigeon on designated areas of the refuge subject to the following conditions:

(i) Season dates will be concurrent with the State for the September teal season; youth-only season; duck, coot, and merganser regular season in the Texas South Zone; goose regular season in the Texas East Zone; and dove and pigeon season in the Texas South Zone, including special white-winged dove days, except that we prohibit duck (not including the September teal and youth-only seasons), coot, and merganser hunting on the refuge until the last Saturday in October. If the State-specified duck, coot, and merganser regular season opens later than the last Saturday in October, then hunting on the refuge will open consistent with the State-specified season date.

* * * * *

(iii) Hunters may enter the refuge waterfowl hunt units no earlier than 4 a.m. Hunting starts at the designated legal shooting time and ends at 12 p.m. (noon). Hunters must leave refuge hunt units by 1 p.m.

* * * * *

(ix) You may access hunt units from land by foot or nonmotorized conveyance from designated parking areas and turn-arounds. You may access public waterfowl hunting areas by motorized boat from State waters, where applicable.

(x) Hunters may enter the refuge dove/pigeon hunt units no earlier than 30 minutes prior to designated legal shooting time and leave refuge hunt units no later than 30 minutes after legal sunset.

(xi) Hunting dove and pigeon in the Farm Field Unit is only allowed after early teal season and will close before the beginning of general duck season in October.

(xii) Hunters must possess a signed brochure on their person while hunting on the refuge.

* * * * *

(4) * * *

(iii) We prohibit the use of trotlines, sail lines, set lines, jugs, gigs, spears, bush hooks, snatch hooks, crossbows, noodling, or bows and arrows of any type.

(iv) Anglers age 17 and older fishing in Cannan Bend Recreation Area must possess a day or annual fishing pass and a signed fishing brochure on their person.

* * * * *

(g) * * *

(2) Upland game hunting. We allow the hunting of Eastern gray and fox squirrel on designated areas of the refuge subject to the following conditions:

(i) Squirrel hunting on the refuge will open with the close of the white-tailed deer season in January and close February 28. The season will reopen from May 1 through May 31.

(ii) Hunters must possess and carry a signed refuge hunt brochure while hunting.

(iii) We allow the use of shotgun only.

(3) Big game hunting. We allow hunting of white-tailed deer and feral hog on designated areas of the refuge subject to the following conditions:

(i) The refuge will determine season dates and bag limits.

(ii) The condition set forth at paragraph (g)(2)(ii) of this section applies.

(iii) Hunters age 17 and younger must be under the direct supervision of an adult age 18 or older.

(iv) You may hunt feral hog during any established white-tailed deer refuge hunting season. You must obtain and possess a refuge signed hunt brochure and may only use legal weapons for the current hunting season.

(v) We allow hunters to access the refuge no more than 2 hours before legal sunrise and no more than 2 hours after legal sunset.

(vi) You may participate in the refuge firearms drawn deer hunt only with a Texas Parks and Wildlife Department-drawn hunt permit.

(vii) We allow the use of only portable blinds and tree stands on the refuge. You must remove blinds, tree stands, and all other personal equipment from the refuge at the end of each day's hunt (see § 27.93 of this chapter).

(viii) We allow all-terrain vehicles for medically documented disabled hunters by Special Use Permit (FWS Form 3-1383-G only).

* * * * *

(h) * * *

(1) * * *

(i) You must possess and carry a signed refuge hunt brochure.

* * * * *

(2) Upland game hunting. We allow hunting of fox squirrel and Eastern cottontail rabbit in the months of January, February, and September on designated areas of the refuge and subject to the following condition: The conditions set forth at paragraphs (h)(1)(i) through (vii) of this section apply.

(3) * * *

(iv) We allow muzzleloaders, bow and arrow, and shotguns only for feral hog and spring turkey hunts. You may possess only lead-free, approved nontoxic (steel, bismuth, copper, or tungsten; see § 32.2(k)) bullets, slugs, and shot (00 buck for hogs, no shell larger than #4 shot size for turkey).

* * * * *

(i) * * *

(3) * * *

(ii) We require hunters to attend refuge hunter orientation before hunting on the refuge. We require each hunter to obtain and carry with them a signed and dated refuge hunt brochure in addition to the State hunt permit.

(iii) Bag limits for species hunted on the refuge are provided in the refuge hunt brochure annually.

(iv) We allow a scouting period prior to the commencement of each refuge hunt period. A permitted hunter and a limit of two non-permitted individuals may enter the hunt units during the scouting period, which begins after hunter orientation and ends at legal sunset. Each hunter must clearly display a Vehicle Validation Tag (FWS Form 3-2405) face up on the vehicle dashboard when scouting and hunting.

* * * * *

(viii) During American alligator hunts, we allow hunters to leave hooks set over only one night period at a time; set lines must be checked daily.

* * * * *

(4) Sport fishing. We allow fishing and crabbing on designated areas of the refuge subject to the following conditions:

(i) We allow only pole and line, rod and reel, hand line, dip net, and cast net for fishing. We prohibit the use of crab traps or pots for crabbing.

(ii) Anglers must attend all fishing lines, crabbing equipment, and other fishing devices at all times.

(iii) Inside the refuge boundary on San Martin Lake, we allow bank and wade fishing within a designated area, which may be accessed only on foot.

(j) * * *

(1) * * *

(i) We require hunters to obtain a refuge hunt permit (signed refuge hunt brochure) and to possess and carry that signed refuge hunt brochure at all times during the designated hunt period. Hunters must also display the vehicle placard (part of the refuge hunt permit) while participating in the designated hunt period.

* * * * *

(k) * * *

(1) * * *

(ii) You must possess and carry a current signed refuge hunting permit (signed refuge hunt brochure) while hunting on all units of the refuge.

* * * * *

(viii) We only allow hunting in the Spaced Hunt Units on Saturdays, Sundays, and Tuesdays of the regular waterfowl season. We allow a maximum of four hunters per area. Hunters must possess and carry Special Fee Area Permits (signed refuge hunt brochure) while hunting.

* * * * *

(xii) We require a minimum distance between hunt parties, and between hunters and drivable roads and buildings, of 200 yards (183 meters).

* * * * *

(l) Muleshoe National Wildlife Refuge—(1) Migratory game bird hunting. We allow hunting of mourning dove, white-winged dove, and Eurasian collared-dove on designated areas of the refuge subject to the following conditions:

(i) Hunters must possess and carry a signed refuge hunt brochure while hunting.

(ii) During the dove season set by the State of Texas, we limit hunting to no more than 6 days with a maximum of 12 hunters per season.

(iii) We allow hunting from ½ hour before legal sunrise until 12 p.m. (noon).

(iv) We require hunters to check in and out at refuge headquarters.

(v) Hunters must exit the refuge no later than 45 minutes after legal sunset, unless they are camping in a designated camping area. From 45 minutes after legal sunset until 30 minutes before legal sunrise, we prohibit hunters in all areas of the refuge except designated camping areas.

(vi) We allow the use of dogs when hunting.

(vii) We only allow shotguns.

(2) Upland game hunting. We allow the hunting of Northern bobwhite and scaled (blue) quail on designated areas of the refuge subject to the following conditions:

(i) The conditions set forth at paragraphs (l)(1)(i), and (iv) through (vii) of this section apply.

(ii) During the first 2 weeks of the quail season set by the State of Texas, we limit hunting to no more than 6 days with a maximum of 12 hunters per season.

(iii) We allow hunting from 8:30 a.m. to 4:30 p.m.

(3) Big game hunting. We allow the hunting of white-tailed deer and mule deer, and the incidental take of feral hog, on designated areas of the refuge subject to the following conditions:

(i) The conditions set forth at paragraphs (l)(1)(i), (iv), and (v) of this section apply.

(ii) Between October and January, we limit hunting to no more than 20 days with a maximum of 8 hunters per season.

(iii) You may use only high-powered rifles of .242/6mm caliber or larger and archery equipment to hunt big game on the refuge.

(4) [Reserved]

(m) Neches River National Wildlife Refuge—(1) Migratory game bird hunting. We allow hunting of ducks, coot, and merganser on designated areas of the refuge subject to the following conditions:

(i) Hunters may enter the refuge no earlier than 4:30 a.m. We allow hunting from the State-designated legal shooting time until 12 p.m. (noon). Hunters must leave refuge hunt units by 1 p.m.

(ii) In Dead Water unit only, we allow the use of floating craft and motor boats, but only if they are propelled by paddling, push pole, or electric trolling motor.

(iii) We prohibit hunting within 50 yards (45 meters) of any road or trail, and within 200 yards (183 meters) of any building.

(iv) We require each hunter to obtain and carry with them a signed refuge hunt brochure in addition to the State hunt permit.

(v) You must remove all boats, blinds, temporary blinds, stands decoys, and other personal equipment following each hunt day (see §§ 27.93 and 27.94 of this chapter).

(vi) We allow the use of dogs when hunting.

(2) Upland game hunting. We allow hunting of Eastern gray and fox squirrel, cottontail and swamp rabbit, raccoon, beaver, and coyote subject to the following conditions:

(i) The conditions set forth at paragraphs (m)(1)(iii), (iv), and (vi) of this section apply.

(ii) We allow incidental take of beaver and coyote during any refuge hunt with the weapons legal for that hunt, subject to applicable State seasons and regulations.

(iii) We allow the hunting of raccoon and coyote from legal sunset to legal sunrise. We allow artificial lighting for hunting raccoon and coyote.

(iv) We require that refuge hunters turn in the Harvest Report (FWS Form 3-2542) within 2 weeks of the end of your hunt.

(v) We allow squirrel, rabbit, and raccoon hunting on the refuge from October 1 to 23.

(3) Big game hunting. We allow hunting of white-tailed deer and feral hog on designated areas of the refuge subject to the following conditions:

(i) The conditions set forth at paragraphs (m)(1)(iii) and (iv) of this section apply.

(ii) We allow incidental take of feral hog during any refuge hunt with the weapons legal for that hunt, subject to applicable State seasons and regulations.

(iii) We require a Harvest Report (FWS Form 3-2542) within 2 weeks of the end of your hunt. Failure to submit the Harvest Report will render the hunter ineligible for the next year's hunt.

(iv) We require a minimum distance between hunt parties of 150 yards (137 meters).

(v) We prohibit the use of dogs when feral hog hunting.

(4) [Reserved]

(n) * * *

(4) * * *

(ii) The condition set forth at paragraph (n)(1)(v) of this section applies.

* * * * *

(o) * * *

(1) * * *

(ii) You must possess and carry a current signed refuge hunting permit (signed refuge hunt brochure) while hunting on all hunt units of the refuge.

* * * * *

(4) * * *

(iii) The conditions set forth at paragraphs (o)(1)(vi) and (vii) of this section apply.

* * * * *

(p) * * *

(2) * * *

(i) We require hunters to possess a refuge permit (signed refuge hunt brochure). The hunter must carry the nontransferable permit at all times while hunting.

(ii) We require that refuge hunters turn in the Harvest Report (FWS Form 3-2542) by the date specified on the permit. Failure to submit the report will render the hunter ineligible for the next year's limited upland game hunt.

(iii) The condition set forth at paragraph (p)(1)(v) of this section applies.

* * * * *

(3) * * *

(i) We require a refuge permit (signed refuge hunt brochure) and Harvest Report (FWS Form 3-2542). Hunters must turn in both forms by the date specified on the permit. Failure to submit the Harvest Report will render the hunter ineligible for the next year's limited big game hunt. Drawings are by lottery. The hunter must carry the nontransferable permit at all times while hunting.

(ii) The conditions set forth at paragraphs (p)(1)(v) and (p)(2)(iv) through (vii) of this section apply.

* * * * *

32. Amend § 32.63 by revising paragraphs (c)(1) and (c)(3) introductory text to read as follows:

§ 32.63 Utah.

* * * * *

(c) * * * (1) Migratory game bird hunting. We allow hunting of duck, coot, sandhill crane, and goose on designated areas of the refuge subject to the following condition: During hunting season, the refuge is open from 1½ hours before legal sunrise to 1½ hours after legal sunset.

* * * * *

(3) Big game hunting. We allow hunting of deer, pronghorn, and elk on designated areas of the refuge subject to the following conditions:

* * * * *

33. Revise § 32.64 to read as follows:

§ 32.64 Vermont.

The following refuge units are open for hunting and/or fishing as governed by applicable Federal and State regulations, and are listed in alphabetical order with additional refuge-specific regulations.

(a) Missisquoi National Wildlife Refuge—(1) Migratory game bird hunting. We allow hunting of goose, duck, brant, merganser, coot, woodcock, and snipe on designated areas of the refuge subject to the following conditions:

(i) We allow the use of dogs consistent with State regulations, except hunters using more than two dogs must possess a Special Use Permit (FWS Form 3-1383-G) issued by the refuge manager.

(ii) We require the use of dogs for hunting waterfowl in the Maquam Swamp, Long Marsh Channel/Metcalfe Island, and Saxes Pothole/Creek and Shad Island Pothole areas.

(iii) We prohibit blind staking and unattended decoys.

(iv) In the controlled waterfowl hunting areas:

(A) Hunters must possess a refuge permit (FWS Form 3-2439).

(B) Hunters may only hunt within 100 feet (30 meters) of a numbered stake placed by the refuge staff.

(v) In the Delta Lakeshore Area, we prohibit jumpshooting within 200 yards (183 meters) of a party hunting from a boat or blind.

(vi) In the Maquam Shore Area:

(A) We do not require a refuge permit to hunt or scout in this area.

(B) We prohibit jumpshooting within 200 yards (183 meters) of a party hunting from a boat or blind.

(vii) In the Saxes Pothole/Creek and Shad Island Pothole, each hunting party must possess and carry a permit (FWS Form 3-2439) for the specific zone on the specific day they are hunting in this area. Permits are not transferable.

(viii) In the Junior Waterfowl Hunting Area:

(A) Each junior hunter must possess and carry a permit (FWS Form 3-2439) for the assigned blind site and day. On Mentor Day, mentors must also possess and carry this permit for the assigned blind site. Each adult hunting party must possess and carry a permit for the blind site and day they are hunting. Permits are not transferable.

(B) Shooting hours end at 11 a.m.

(ix) In the Long Marsh Channel and Metcalfe Island:

(A) We limit hunting to Tuesdays, Thursdays, and Saturdays throughout the waterfowl hunting season for duck.

(B) Each hunting party must possess and carry a permit for the blind on the specific day they are hunting in this area. Permits are not transferable.

(C) Shooting hours end at 11 a.m.

(D) We close this area to waterfowl hunting during split seasons when geese are the only waterfowl that hunters may legally take.

(2) Upland game hunting. We allow hunting of cottontail rabbit, snowshoe hare, ruffed grouse, gray squirrel, coyote, red fox, gray fox, skunk, raccoon, weasel, and opossum on designated areas of the refuge subject to the following conditions:

(i) The condition set forth at paragraph (a)(1)(i) of this section applies.

(ii) Prior to hunting, you must obtain from refuge headquarters and sign a current refuge hunt brochure (signed brochure). You must possess the signed refuge hunt brochure at all times while hunting, and you must hold a valid State hunting license.

(iii) You may use only shotguns, muzzleloaders, or archery equipment on open areas east and north of Vermont Route 78, east of the Missisquoi River, and on Shad Island.

(iv) We prohibit hunting from the end of the State snowshoe hare and rabbit season (early March) until September 1.

(v) On the Eagle Point Unit, the conditions set forth at paragraphs (a)(2)(i) through (iii) of this section do not apply.

(3) Big game hunting. We allow hunting of white-tailed deer, moose, bear, and turkey on designated areas of the refuge subject to the following conditions:

(i) Prior to hunting, you must obtain from refuge headquarters and sign a current refuge hunt brochure (signed brochure). You must possess the signed refuge hunt brochure at all times while hunting, and you must hold a valid State hunting license.

(ii) You may use only shotguns, muzzleloaders, or archery equipment on open areas east and north of Vermont Route 78, east of the Missisquoi River. We prohibit rifles in these areas at any time.

(iii) You may use portable tree stands as governed by State regulations guiding their use on State wildlife management areas with the following exception: We allow only one tree stand or ground blind for each permit holder.

(iv) On the Eagle Point Unit, we allow hunting subject to the following conditions:

(A) You may use portable tree stands as governed by State regulations guiding their use on State wildlife management areas.

(B) We allow training of dogs during the regular hunting seasons as governed by State regulations. We allow dog training outside the regular hunting seasons (i.e., from June 1 through July 31) only with a Special Use Permit (FWS Form 3-1383-G).

(4) Sport fishing. We allow sport fishing on designated areas of the refuge subject to the following conditions:

(i) We allow sport fishing (including bow fishing) by boat and ice fishing in designated areas with the following exceptions:

(A) We close the following areas year-round: Goose Bay, Saxes Creek and Pothole, Metcalfe Island Pothole, Long Marsh Channel, and Clark Marsh.

(B) We close the following areas from Labor Day to December 31: Long Marsh Bay and Long Marsh Channel.

(ii) We allow bank fishing along designated areas of Charcoal Creek.

(iii) We prohibit taking fish with firearms.

(iv) We prohibit boat launching on the refuge with the following exceptions: We allow launching from Louie's Landing year-round, and from Mac's Bend boat launch area from September through December (inclusive).

(b) Silvio O. Conte National Fish and Wildlife Refuge—(1) Migratory game bird hunting. We allow hunting of duck, goose, coot, crow, snipe, and American woodcock on designated areas of the refuge subject to the following conditions:

(i) We allow disabled hunters to hunt from a vehicle that is at least 10 feet from the traveled portion of the refuge road if the hunter possesses a State-issued disabled hunting license and a Special Use Permit (FWS Form 3-1383-G) issued by the refuge manager.

(ii) We allow the use of dogs consistent with State regulations, except hunters using more than two dogs must possess a Special Use Permit (FWS Form 3-1383-G) issued by the refuge manager.

(iii) We prohibit shooting from, over, or within 25 feet of the traveled portion of any road that is accessible to motor vehicles.

(2) Upland game hunting. We allow hunting of coyote, fox, raccoon, bobcat, woodchuck, red squirrel, eastern gray squirrel, porcupine, skunk, snowshoe hare, eastern cottontail, muskrat, opossum, weasel, pheasant, and ruffed grouse on designated areas of the refuge subject to the following conditions:

(i) The conditions set forth at paragraphs (b)(1)(i) through (iii) of this section apply.

(ii) At the Putney Mountain Unit, we allow the use of dogs only for hunting ruffed grouse.

(iii) We require hunters hunting at night to possess a Special Use Permit (FWS Form 3-1383-G) issued by the refuge manager.

(iv) We allow the training of dogs as governed by State regulations from August 1 through the last Saturday in September during daylight hours, if the trainer possesses a Special Use Permit (FWS Form 3-1383-G) issued by the refuge manager.

(3) Big game hunting. We allow hunting of white-tailed deer, moose, black bear, and wild turkey on designated areas of the refuge subject to the following conditions:

(i) The conditions set forth at paragraphs (b)(1)(i) through (iii) of this section apply.

(ii) You may use portable tree stands and/or blinds. You must clearly label your tree stand(s) and/or blind(s) with your hunting license number. You must remove your tree stand(s) and/or blind(s) no later than 72 hours after the close of the season (see § 27.93 of this chapter).

(iii) You may retrieve moose at the Nulhegan Basin Division with the use of a commercial moose hauler, if the hauler possesses a Special Use Permit (FWS Form 3-1383-C) issued by the refuge manager.

(iv) We allow the training of dogs as governed by State regulations from August 1 through September 15 during daylight hours, if the trainer possesses a Special Use Permit (FWS Form 3-1383-G) issued by the refuge manager.

(4) Sport fishing. We allow sport fishing on designated areas of the refuge consistent with State regulations.

34. Amend § 32.65 by:

a. Revising paragraph (c);

b. Adding paragraph (d)(4);

c. Revising paragraphs (e) through (k);

d. Redesignating paragraph (l) as (n); and

e. Adding new paragraphs (l) and (m).

The revisions and additions read as follows:

§ 32.65 Virginia.

* * * * *

(c) Eastern Shore of Virginia National Wildlife Refuge—(1) Migratory game bird hunting. We allow hunting of waterfowl, rail, snipe, gallinule/moorhen, coot, woodcock, dove, and crow on designated areas of the refuge subject to the following conditions:

(i) We allow holders of a signed hunt brochure (signed brochure) to access areas of the refuge typically closed to the non-hunting public. All occupants of a vehicle or hunt party must possess a signed brochure and be actively engaged in hunting. We allow an exception for those persons aiding a disabled person who possesses a valid State-issued Commonwealth of Virginia Disabled Resident Lifetime License or Commonwealth of Virginia Resident Disabled Veteran's Lifetime License.

(ii) Hunters may enter the refuge no earlier than 2 hours prior to legal sunrise and must exit the refuge no later than 2 hours after legal sunset.

(iii) In the Firearms Units only, we allow the use of dogs consistent with State and Northampton County regulations.

(iv) We allow hunting on the refuge only from September 1 until February 28. Hunting will follow State seasons during that period.

(v) We allow migratory bird hunting with archery and firearms in the designated Firearms Units on the refuge in accordance with State and County regulations.

(2) Upland game hunting. We allow hunting of rabbit, squirrel, quail, raccoon, opossum, fox, coyote, and other nuisance species (groundhog, European starling, English sparrow, and pigeon) on designated areas of the refuge subject to the following conditions:

(i) The conditions set forth at paragraphs (c)(1)(i) through (iv) of this section apply.

(ii) We allow the use of archery tackle, as defined by the State, in designated Archery and Firearms Units.

(iii) We allow the use of firearms in accordance with State and Northampton County regulations in the designated Firearms Units only.

(3) Big game hunting. We allow hunting of white-tailed deer and wild turkey on designated areas of the refuge subject to the following conditions:

(i) The conditions set forth at paragraphs (c)(1)(i), (ii), and (iv), and (c)(2)(ii) and (iii) of this section apply.

(ii) We allow turkey hunting during the spring season only for a mentor-led hunt.

(iii) We require the use of nontoxic ammunition when hunting turkey in the Firearms Units.

(iv) We prohibit organized deer drives. We define a “deer drive” as an organized or planned effort to pursue, drive, chase, or otherwise frighten or cause deer to move in the direction of any person(s) who is part of the organized or planned hunt and known to be waiting for the deer.

(v) You may not hunt, discharge a firearm, or nock an arrow or crossbow bolt outside of the designated hunting areas.

(vi) We allow the use of portable tree stands and require removal of the stands after each day's hunt (see § 27.93 of this chapter).

(4) Sport fishing. We allow sport fishing on designated areas of the refuge subject to the following conditions:

(i) Anglers may access the refuge to fish from shore on the Bull Tract and Skidmore Island from ½ hour before legal sunrise to ½ hour after legal sunset.

(ii) Anglers may access State waters via the Wise Point Boat Ramp on the refuge from 5 a.m. to 10 p.m.

(d) * * *

(4) Sport fishing. We allow freshwater fishing in designated areas of the refuge subject to the following conditions:

(i) We allow fishing from nonmotorized boats only.

(ii) We prohibit the use of lead fishing tackle.

(e) Featherstone National Wildlife Refuge—(1) Migratory game bird hunting. We allow hunting of waterfowl on designated areas of the refuge subject to the following conditions:

(i) We allow the use of dogs consistent with State regulations.

(ii) We limit boat access to nonmotorized boats only in Farm Creek Unit. We allow motorized boat access in Neabsco Creek Unit.

(2)-(3) [Reserved]

(4) Sport fishing. We allow sport fishing on designated areas of the refuge subject to the following conditions:

(i) The condition set forth at paragraph (e)(1)(ii) of this section applies.

(ii) We prohibit the use of lead fishing tackle.

(f) Fisherman Island National Wildlife Refuge—(1) Migratory game bird hunting. We allow hunting of waterfowl, rail, snipe, gallinule/moorhen, coot, woodcock, dove, and crow on designated areas of the refuge subject to the following conditions:

(i) We allow the use of dogs consistent with State regulations.

(ii) We require hunters to possess and carry a signed refuge hunt brochure when hunting.

(iii) We allow hunting and hunter access by boat only. We prohibit hunting from land. Retrieval dogs may retrieve fallen game on shore.

(iv) We allow hunting on the refuge from September 1 until February 28. Hunting will follow State seasons during that period.

(v) Hunters may enter the refuge 2 hours before legal sunrise and must exit the refuge no later than 2 hours after legal sunset.

(2)-(4) [Reserved]

(g) Great Dismal Swamp National Wildlife Refuge. (1) [Reserved]

(2) Upland game hunting. We allow hunting of gray squirrel and coyote on designated areas of the refuge subject to the following conditions:

(i) We allow hunting on Thursdays, Fridays, and Saturdays only.

(ii) You must possess and carry a signed refuge permit (FWS Form 3-2439).

(3) Big game hunting. We allow hunting of white-tailed deer, wild turkey, and black bear on designated areas of the refuge subject to the following conditions:

(i) The conditions set forth at paragraphs (g)(2)(i) and (ii) of this section apply.

(ii) We require the use of nontoxic ammunition for hunting wild turkey.

(4) Sport fishing. We allow sport fishing on designated areas of the refuge subject to the following conditions:

(i) We allow fishing in Lake Drummond from a boat (maximum 25 horsepower) and from the piers at Washington Ditch Road and Interior Ditch Road.

(ii) We prohibit fishing from the ditch banks on the refuge.

(iii) We require a Special Use Permit (FWS Form 3-1383-G) for vehicular access to the boat ramp on Interior Ditch Road on the west side of Lake Drummond.

(h) James River National Wildlife Refuge. (1) [Reserved]

(2) Upland game hunting. We allow hunting of rabbit, squirrel, and coyote on designated areas of the refuge subject to the following conditions:

(i) We only allow the hunting and take of coyote concurrently during the refuge deer hunting season.

(ii) We allow rabbit and squirrel hunting only during the mentor-led hunt.

(iii) We prohibit the use of pursuit dogs.

(3) Big game hunting. We allow hunting of white-tailed deer and wild turkey on designated areas of the refuge subject to the following conditions:

(i) The condition set forth at paragraph (h)(2)(iii) of this section applies.

(ii) We require spring turkey hunters to possess and carry a refuge hunting permit (FWS Form 3-2439).

(iii) Hunters may enter the refuge no earlier than 1 hour prior to the start of legal shooting time and must exit the refuge no later than 1 hour after the end of legal shooting time.

(iv) We require the use of nontoxic ammunition when hunting spring wild turkey.

(v) Hunters using a muzzleloader must hunt from a stand elevated 10 feet (3 meters) or more above the ground.

(vi) We prohibit organized deer drives. We define a “deer drive” as an organized or planned effort to pursue, drive, chase, or otherwise frighten or cause deer to move in the direction of any person(s) who is part of the organized or planned hunt and known to be waiting for the deer.

(4) Sport fishing. We allow fishing on designated areas of the refuge subject to the following conditions:

(i) We allow fishing access each day from legal sunrise to legal sunset.

(ii) We allow fishing only by use of one or more attended poles with hook and line attached. We prohibit all other fishing methods and means.

(iii) We prohibit the use of lead fishing tackle.

(iv) We prohibit the use of minnows as bait.

(i) Mackay Island National Wildlife Refuge. Refer to § 32.52(e) for regulations.

(j) Occoquan Bay National Wildlife Refuge. (1) [Reserved]

(2) Upland game hunting. We allow hunting of coyote and fox on designated areas of the refuge subject to the following condition: We only allow the incidental take of coyote and fox during the refuge deer hunting season.

(3) Big game hunting. We allow hunting of white-tailed deer and wild turkey on designated areas of the refuge subject to the following conditions:

(i) With the exception of mentored hunt participants, white-tailed deer hunters must possess and carry a signed refuge permit (FWS Form 3-2439) and be selected in the refuge lottery to hunt.

(ii) We only allow shotguns with slugs during the firearm season.

(iii) We prohibit organized deer drives. We define a “deer drive” as an organized or planned effort to pursue, drive, chase, or otherwise frighten or cause deer to move in the direction of any person(s) who is part of the organized or planned hunt and known to be waiting for the deer.

(iv) We prohibit the use of pursuit dogs when hunting deer.

(v) We require the use of nontoxic ammunition when hunting wild turkey.

(vi) Hunters must certify and qualify weapons and ammunition at a refuge-approved range and view the refuge orientation session online prior to issuance of a refuge permit (FWS Form 3-2439).

(vii) Wild turkey hunting is a mentor-led hunt only.

(4) Sport fishing. We allow sport fishing on designated areas of the refuge subject to the following conditions:

(i) We allow boat access by nonmotorized boats only.

(ii) We prohibit the use of lead fishing tackle.

(k) Plum Tree Island National Wildlife Refuge—(1) Migratory game bird hunting. We allow hunting of migratory waterfowl and coot on designated areas of the refuge subject to the following conditions:

(i) You must hunt from a designated refuge blind.

(ii) We allow the use of dogs consistent with State regulations.

(2)-(3) [Reserved]

(4) Sport fishing. We allow fishing in designated areas of the refuge subject to the following conditions:

(i) We allow fishing access April 1 through August 31, from legal sunrise to legal sunset.

(ii) We prohibit shoreline fishing. We allow fishing only from boats untethered to refuge lands, or from designated blinds.

(iii) We allow fishing only by use of one or more attended poles with hook and line attached. We prohibit all other fishing methods and means.

(iv) We prohibit the use of lead fishing tackle.

(l) Presquile National Wildlife Refuge. (1) [Reserved]

(2) Upland game hunting. We allow hunting of coyote on designated areas of the refuge subject to the following conditions:

(i) Hunters may enter the refuge no earlier than 2 hours prior to the start of legal shooting time and must exit the refuge no later than 2 hours after the end of legal shooting time.

(ii) We only allow the hunting and take of coyote concurrently during the refuge deer hunting season.

(iii) We require hunters to dock their boats at designated locations on the refuge.

(3) Big game hunting. We allow hunting of white-tailed deer on designated areas of the refuge subject to the following conditions:

(i) The condition set forth at paragraph (l)(2)(iii) of this section applies.

(ii) We prohibit the use of pursuit dogs when hunting white-tailed deer.

(iii) We require big game hunters to obtain a permit through a lottery administered by a third-party contractor.

(iv) We prohibit organized deer drives. We define a “deer drive” as an organized or planned effort to pursue, drive, chase, or otherwise frighten or cause deer to move in the direction of any person(s) who is part of the organized or planned hunt and known to be waiting for the deer.

(4) Sport fishing. We allow fishing on designated areas of the refuge subject to the following conditions:

(i) We allow fishing access each day from legal sunrise to legal sunset.

(ii) We prohibit bank fishing. We allow fishing only from boats untethered to refuge lands.

(iii) We allow fishing only by use of one or more attended poles with hook and line attached. We prohibit all other fishing methods and means.

(iv) We prohibit the use of minnows as bait.

(v) We prohibit the use of lead fishing tackle.

(m) Rappahannock River Valley National Wildlife Refuge. (1) [Reserved]

(2) Upland game hunting. We allow hunting of coyote, rabbit, and squirrel on designated areas of the refuge subject to the following conditions:

(i) We prohibit the use of pursuit dogs.

(ii) We only allow the hunting and take of coyote concurrently during the refuge deer hunting season.

(3) Big game hunting. We allow hunting of white-tailed deer and wild turkey on designated areas of the refuge subject to the following conditions:

(i) The condition set forth at paragraph (m)(2)(i) of this section applies.

(ii) We require the use of nontoxic ammunition when hunting spring wild turkey.

(iii) In designated areas and for the spring turkey hunt, we require hunters to possess and carry a refuge hunting permit (FWS Form 3-2439).

(iv) Hunters may enter the refuge no earlier than 1 hour prior to the start of legal shooting time and must exit the refuge no later than 1 hour after the end of legal shooting time.

(v) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We allow fishing access each day from legal sunrise to legal sunset.

(ii) During the period when the refuge is open for hunting, we may close hunting areas to all other uses, including sport fishing.

(iii) We allow fishing only by use of one or more attended poles with hook and line attached. We prohibit all other fishing methods and means.

(iv) We prohibit the use of lead fishing tackle in freshwater ponds, including Wilna Pond and Laurel Grove Pond.

(v) We require catch-and-release fishing for largemouth bass in freshwater ponds, including Wilna Pond and Laurel Grove Pond. Anglers may take other finfish species as governed by State regulations.

(vi) We prohibit the use of minnows as bait.

(vii) We prohibit the use of boats propelled by gasoline motors, sail, or mechanically operated paddle wheel while fishing.

* * * * *

35. Amend § 32.66 by revising paragraphs (f)(3)(v), (i)(1)(iv), (x) and (xi) to read as follows:

§ 32.66 Washington.

* * * * *

(f) * * *

(3) * * *

(v) We require hunters to sign in and out each day at the refuge headquarters. When signing out for the day, you must report hunting success or failure, and any hit-but-not-retrieved animals on the Harvest Report (FWS Form 3-2542).

* * * * *

(i) * * *

(1) * * *

(iv) Prior to entering the hunt area, you must check in at the refuge check station, and obtain a Harvest Report (FWS Form 3-2542). You must carry the Harvest Report while hunting as proof of blind assignment and user fee payment.

* * * * *

(x) Prior to switching blinds, you must first report to the refuge check station to obtain a new blind assignment. You must submit an accurate Harvest Report (FWS Form 3-2542) for the blind being vacated, and obtain a new Harvest Report for the new blind.

(xi) Prior to leaving the hunt area, you must check out at the refuge check station, submit an accurate Harvest Report (FWS Form 3-2542), and present all harvested birds for inspection by check station personnel.

* * * * *

36. Amend § 32.67 by revising paragraphs (b)(2) and (3) to read as follows:

§ 32.67 West Virginia.

* * * * *

(b) * * *

(2) Upland game hunting. We allow hunting of squirrel, Eastern cottontail rabbit, red and gray fox, coyote, bobcat, opossum, raccoon, skunk, woodchuck, weasel, ruffed grouse, quail, pheasant, and crow on designated areas of the refuge subject to the following condition: The conditions set forth at paragraphs (b)(1)(i) through (iii) of this section apply.

(3) Big game hunting. We allow hunting of white-tailed deer, wild turkey, and black bear on designated areas of the refuge subject to the following conditions:

(i) The conditions set forth at paragraphs (b)(1)(i) and (ii) of this section apply.

(ii) We only allow the use of archery equipment.

(iii) We prohibit organized deer drives. We define a “deer drive” as an organized or planned effort to pursue, drive, chase, or otherwise frighten or cause deer to move in the direction of any person(s) who is part of the organized or planned hunt and known to be waiting for the deer.

(iv) You must label portable tree stands with your last name and State license number. You may erect your stand(s) on the first day of the hunting season. You must remove your stand(s) by the last day of the hunting season (see § 27.93 of this chapter).

* * * * *

37. Amend § 32.68 by:

a. Revising paragraphs (c) and (f)(1);

b. Adding paragraph (f)(2)(vi); and

c. Revising paragraph (f)(3) and (4).

The revisions and addition read as follows:

§ 32.68 Wisconsin.

* * * * *

(c) Hackmatack National Wildlife Refuge. Refer to § 32.32(f) for regulations.

* * * * *

(f) * * * (1) Migratory game bird hunting. We allow hunting of duck, goose, coot, merganser, dove, moorhen/gallinule, rail, snipe, and woodcock on designated areas of the refuge subject to the following conditions:

(i) Hunters may enter the refuge no earlier than 1 hour before legal shooting hours and must exit the refuge no later than 1 hour after legal shooting hours.

(ii) You must remove all boats, decoys, blinds, blind materials, stands, platforms, and other hunting equipment (see §§ 27.93 and 27.94 of this chapter) brought onto the refuge at the end of each day's hunt.

(iii) We allow the use of dogs while hunting, provided the dog is under the immediate control of the hunter at all times.

(iv) We prohibit hunting or shooting within 50 feet (15 meters (m)) of the centerline of all public roads, service roads, and trails, and around parking lots. It is considered hunting if you have a loaded weapon, if you have a nocked arrow while bow hunting, or if you are in an elevated tree stand or ground blind with a means to take, within these areas.

(2) * * *

(vi) The conditions set forth at paragraphs (f)(1)(i), (ii), and (iv) of this section apply.

(3) Big game hunting. We allow hunting of white-tailed deer on designated areas of the refuge subject to the following conditions:

(i) The conditions set forth at paragraphs (f)(1)(i) and (iv) of this section apply.

(ii) You may use portable elevated devices, but you must lower them to ground level at the close of shooting hours each day. You must remove all blinds, stands, platforms, and ladders from the refuge at the end of the hunting season (see §§ 27.93 and 27.94 of this chapter).

(iii) You must clearly mark all non-natural blinds, stands, platforms, and ladders on the exterior with the hunter's Wisconsin Department of Natural Resources customer identification number.

(iv) We open Refuge Area 2 to deer hunting during the State archery, gun, and muzzleloader seasons, except that we close Refuge Area 2 to deer hunting during any early State antlerless-only hunts.

(v) We open Refuge Area 3 to deer hunting during the State regular gun, muzzleloader, and late archery seasons. Unarmed deer hunters may enter Refuge Area 3 to scout beginning the Saturday prior to the gun deer season.

(vi) You must remove flagging used during hunting by the close of the archery deer season (see §§ 27.93 and 27.94 of this chapter).

(vii) Any ground blind used during any gun deer season must display at least 144 square inches (929 square centimeters) of solid-blaze-orange or fluorescent pink material visible from all directions.

(4) Sport fishing. We allow sport fishing on designated areas of the refuge subject to the following conditions:

(i) Fishing areas are open from 30 minutes prior to legal sunrise to 30 minutes after legal sunset during refuge-specific seasons.

(ii) We allow use of nonmotorized boats in Sprague-Goose pools only when we open these pools to fishing.

(iii) We allow motorized boats in Suk Cerney Pool.

(iv) We allow fishing by hook and line only.

(v) We prohibit the taking of any mussel (clam), crayfish, frog, leech, or turtle species by any method on the refuge (see § 27.21 of this chapter).

* * * * *

38. Amend § 32.69 by revising paragraph (d)(3) to read as follows:

§ 32.69 Wyoming.

* * * * *

(d) * * *

(3) Big game hunting. We allow hunting of elk, pronghorn, white-tailed deer, and bison on designated areas of the refuge subject to the following conditions:

(i) We require refuge permits (issued by State of Wyoming).

(ii) We prohibit shooting from or across refuge roads and parking areas.

(iii) We allow hunting of pronghorn with a firearm in Pronghorn Hunt Area 1 from September 10 through October 31, and in Pronghorn Hunt Area 2 from October 1 through 31.

(iv) We allow archery hunting of pronghorn in Pronghorn Hunt Area 1 in accordance with State seasons and regulations.

(v) We allow hunting of white-tailed deer with a firearm in the White-tailed Deer Hunt Area from September 15 through October 30.

(vi) We allow archery hunting of white-tailed deer in the White-tailed Deer Hunt Area in accordance with State seasons and regulations.

(vii) The refuge hunt brochure will specify the type of ammunition approved for hunting on the refuge.

* * * * *

SUBCHAPTER E—MANAGEMENT OF FISHERIES CONSERVATION AREAS

PART 71—HUNTING AND SPORT FISHING ON NATIONAL FISH HATCHERIES

39. The authority citation for part 71 continues to read as follows:

Authority: Sec. 4, Pub. L. 73-121, 48 Stat. 402, as amended; sec. 4, Pub. L. 87-714, 76 Stat. 654; 5 U.S.C. 301; 16 U.S.C. 460k, 664, 668dd, 1534.

§ 71.11 [Amended]

40. Amend § 71.11 by:

a. In paragraph (c)(4), removing the words “§ 71.12(k)” and adding in their place the words “§ 71.12(l)”;

b. In paragraph (d)(4), removing the words “§ 71.12(l)” and adding in their place the words “§ 71.12(m)”;

c. In paragraph (e)(4), removing the words “§ 71.12(m)” and adding in their place the words “§ 71.12(n)”; and

d. In paragraph (g)(4), removing the words “§ 71.12(o)” and adding in their place the words “§ 71.12(p)”.

41. Amend § 71.12 by:

a. Redesignating paragraphs (g) through (r) as paragraphs (h) through (s); and

b. Adding a new paragraph (g).

The addition reads as follows:

§ 71.12 National fish hatcheries open for sport fishing.

* * * * *

(g) Green Lake National Fish Hatchery. We allow sport fishing on designated areas of the hatchery.

* * * * *

Maureen D. Foster,
Chief of Staff, Office of the Assistant Secretary for Fish and Wildlife and Parks.

[FR Doc. 2021-18426 Filed 8-30-21; 8:45 am]

BILLING CODE 4333-15-P